DEPARTMENT OF HOUSING AND URBAN DEVELOPMENT

[Docket No. FR-5995-N-08]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov .

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Program Support Center, 7700 Wisconsin Ave., Suite 8216, Bethesda, MD 20857, (301) 443-6672 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following address(es): AIR FORCE: Mr. Robert E. Moriarty, P.E., AFCEC/CI, 2261 Hughes Avenue, Ste. 155, JBSA Lackland TX 78236-9853; ARMY: Ms. Veronica Rines, Office of the Assistant Chief of Staff for Installation Management, Department of Army, Room 5A128, 600 Army Pentagon, Washington, DC 20310, (571) 256-8145; COE: Ms. Brenda Johnson-Turner, HQUSACE/CEMP-CR, 441 G Street NW., Washington, DC 20314, (202) 761-7238; INTERIOR: Mr. Michael Wright, Acquisition and Property Management, Department of the Interior, 3960 N. 56th Ave., #104 Hollywood, FL. 33021, (754) 400-7381; NASA: Mr. William Brodt, National Aeronautics AND Space Administration, 300 E Street SW., Room 2P85, Washington, DC 20546, (202) 358-1117; NAVY: Ms. Nikki Hunt, Department of the Navy, Asset Management Division, Naval Facilities Engineering Command, Washington Navy Yard, 1330 Patterson Ave. SW., Suite 1000, Washington, DC 20374, (202) 685-9426; (These are not toll-free numbers).

Dated: February 15, 2017.
Brian P. Fitzmaurice,
Director, Division of Community Assistance, Office of Special Needs Assistance Programs.

TITLE V, FEDERAL SURPLUS PROPERTY PROGRAM FEDERAL REGISTER REPORT FOR 02/24/2017

Suitable/Available Properties

Building

Alabama

C1301

Ft. McClellan

Ft. McClellan AL 36205

Landholding Agency: Army

Property Number: 21201220017

Status: Excess

Comments: off-site removal only; 2,232 sf.; barracks; extensive repairs needed; secured area; need prior approval to access property.

4811

Redstone Arsenal

Redstone Arsenal AL 35898

Landholding Agency: Army

Property Number: 21201430024

Status: Unutilized

Directions: 4811

Comments: off-site removal only; no future agency need; 221 sq. ft.; Flammable/explosive storage facility; 12+ months vacant; deteriorated; secured area; contact Army for more information.

6 Buildings

Redstone Arsenal

Madison AL 35898

Landholding Agency: Army

Property Number: 21201510040

Status: Unutilized

Directions: 3757 (800 sq. ft.); 3759 (39 sq. ft.); 3762 (288 sq. ft.); 6209 (130 sq. ft.); 6210 (130 sq. ft.); 7859 (522 sq. ft.)

Comments: off-site removal only; no future agency need; prior approval to gain access is required; for more info. contact Army.

2 Buildings

Redstone Arsenal

Redstone Arsenal AL 35898

Landholding Agency: Army

Property Number: 21201530058

Status: Unutilized

Directions: Building 7359 (4,547 sq. ft.); 7369 (7,288 sq. ft.)

Comments: off-site removal; 48-70+ yrs. old; rocket plants; vacant 4 mos.; major reno. needed; contaminates; asbestos; no future agency need; prior approval needed to gain access; contact Army for more info.

Building 3540

Redstone Arsenal

Redstone Arsenal AL 35898

Landholding Agency: Army

Property Number: 21201530092

Status: Unutilized

Comments: off-site removal only; no future agency need; 150 sq.; range support; removal may be difficult due to type (brick); major renov.; LBP; endangered species- var. bat species; contact Army for more info.

4 Buildings

Bldg. 30815 AL 85 Peters St.

Doleville AL 36362

Landholding Agency: Army

Property Number: 21201620022

Status: Unutilized

Directions: 4011T: RPUID:186097 (720 sq.); 414: RPUID:186545 (288 sq.); 30815: RPUID:671439 (144 sq.); 4513: RPUID:186563 (400 sq.)

Comments: off-site removal only; no future agency need 24+-47+ yrs. old; sq. ft. above; storage; rec shelter; flam mat; 1+-6+ mos. vacant; poor & fair condition; contact Army for more information.

4735; RPUID: 186113

Fort Rucker

Ft. Rucker AL 36362

Landholding Agency: Army

Property Number: 21201640006

Status: Unutilized

Comments: off-site removal only; no future agency need; 106 sq. ft.; relocation difficult due to type; 48+ months vacant; contact Army for accessibility and conditions.

Building 6004

Fort Rucker

Fort Rucker AL 36362

Landholding Agency: Army

Property Number: 21201710007

Status: Unutilized

Directions: RPUID:186602

Comments: off-site removal only; 37+ yrs.; 64 sq. ft.; storage vacant 12+ mos.; poor condition; prior approval needed to gain access; no future agency need; contact Army for more information.

Alaska

Building 00001

9679 Tuluksak Rd.

Toksook AK 99679

Landholding Agency: Army

Property Number: 21201320038

Status: Excess

Comments: 1,200 sf.; armory; 60 months vacant; poor conditions.

Building 00001

Lot 7 Block 11 US Survey 5069

Noorvik AK 99763

Landholding Agency: Army

Property Number: 21201330030

Status: Excess

Comments: 1,200 sf. armory; 60+ months vacant; poor conditions; contact Army for more info.

Building 00001

P.O. Box 22

Gambell AK 99742

Landholding Agency: Army

Property Number: 21201330031

Status: Excess

Comments: 1,208 sf.; armory; 60+ months vacant; poor conditions; contact Army for more info.

Building 0001

Kivalina Armory

Kivalina AK 99750

Landholding Agency: Army

Property Number: 21201330032

Status: Excess

Comments: 1,200 sf. armory; 600+ months vacant; poor conditions; contact Army for more info.

Akiachak 00001

500 Philips St.

Akiachak AK 99551

Landholding Agency: Army

Property Number: 21201330033

Status: Excess

Comments: 1,200 sf.; armory; 60+ months vacant; poor conditions; contact Army for more info.

Arizona

Building 90890

Fort Huachuca

Fort Huachuca AZ 85613

Landholding Agency: Army

Property Number: 21201440051

Status: Unutilized

Comments: off-site removal only; no future agency need; 40 sq. ft.; 80+ months vacant; repairs needed; contact Army for more information.

7 Buildings

Papago Park Military Reservation

Phoenix AZ 85008

Landholding Agency: Army

Property Number: 21201510025

Status: Excess

Directions: M5358 (1500 sq. ft.); M5356 (1,500 sq. ft.) M5354 (1,500 sq. ft.); M5352 (1,500 sq. ft.); M5218 (1,097 sq. ft.); M5331 (2,460 sq. ft.); M5502 (5,856 sq. ft.)

Comments: fair condition prior approve to gain access is required, for more information contact Army about a specific property.

2 Building

5636 E. McDowell Road

Phoenix AZ 85008

Landholding Agency: Army

Property Number: 21201520007

Status: Excess

Directions: Building M5502 (5,856 sq. ft.) & M5331 (2,460 sq. ft.)

Comments: 45+ & 62+ yrs. old for buildings respectively above; administration; restricted access; escort required; contact Army for more information.

California

1201T

Tower Rd.

Dubin CA 94568

Landholding Agency: Army

Property Number: 21201310060

Status: Unutilized

Comments: off-site removal only; 30 sf.; control tower; poor conditions; restricted area; transferee must obtain real estate doc. to access/remove; contact Army for more info.

1201S & 1205S

Tower Rd.

Dublin CA 94568

Landholding Agency: Army

Property Number: 21201310062

Status: Unutilized

Directions: previously reported under 21201010006

Comments: REDETERMINATION: off-site removal only; 396 & 252 sf. repetitively; storage; poor conditions; transferee will need to obtain real estate doc. to access/remove property; contact Army for more info.

2 Building

Parks Reserve Forces Training Area

Dublin CA 94568

Landholding Agency: Army

Property Number: 21201330002

Status: Underutilized

Directions: 1108, 1109

Comments: off-site removal only; no future agency need; sf. varies; poor conditions; secured area; contact Army for info. on a specific property & accessibility removal reas.

7 Building

Parks Reserve Forces Training Area

Dublin CA 94568

Landholding Agency: Army

Property Number: 21201330003

Status: Unutilized

Directions: 200, 00974, 1080, 1085, 1100, 1101, 1176

Comments: sf varies; no future agency need; poor/deteriorated conditions; secured area; escort required; contact Army for more info. on a specific property & accessibility reqs./removal options.

11 Building

Fort Hunter Liggett

FF Hunter Liggett CA 93928

Landholding Agency: Army

Property Number: 21201330018

Status: Unutilized

Directions: 0100A, 0178B, 00306, 00408, 0418A, 00850, 00851, 00932, 00945, 00946, 00947

Comments: offsite removal only; no future agency need; St. varies, conditions range from good to dilapidated secured area, contact Army for more info. on a specific property & accessibility/removal reqs.

22 Buildings

Hwy. 101, Bldg. 109

Camp Roberts CA 93451

Landholding Agency: Army

Property Number: 21201330019

Status: Excess

Directions: 00902, 00936, 01019, 06079, 06080, 06125, 06320, 14212, 14308, 14801, 25012, 25013, 27108, 27110, 27126, RB001, RB003, RB004, RB005, RB006, RB007, RB043

Comments: CORRECTION: bldg. 14801 incorrectly published on 08/30/2013; off-site removal only; 6+ months vacant; poor conditions; contamination; secured area; contact Army for info.

11 Building

Fort Hunter Liggett

Fort Hunger Liggett CA 93928

Landholding Agency: Army

Property Number: 21201330023

Status: Unutilized

Directions: 0100A, 0178B, 00306, 00408, 0418A, 00850, 00851, 00932, 00945, 00946, 00947

Comments: offsite removal only; no future agency need; St. varies, conditions range from good to dilapidated secured area, contact Army for more info. on a specific property & accessibility/removal reqs.

23 Buildings

Hwy 101, Bldg. 109

Camp Robert CA 93451

Landholding Agency: Army

Property Number: 21201330025

Status: Excess

Directions: T0805, T0831, T0834, T0874, T0876, T0917, T0920, T0922, T0923, T0925, T0933, T0934, T0935, T0955, T0956, T0955, T0956, T0966, T0967, T0992, T6005, T6029, T6406, T7025, T7037

Comments: off-site removal only; sf varies; 6t months vacant; poor conditions; contamination; secured area; contact Army for more info. on a specific property & accessibly removal reqs.

11 Building

Fort Hunter Liggett

Fort Hunter Ligget CA 93928

Landholding Agency: Army

Property Number: 21201330026

Status: Unutilized

Directions: 0100A, 0178B, 00306, 00408, 0418A, 00850, 00851, 00932, 00945, 00946, 00947

Comments: off-site removal only; no future agency need; St. varies, conditions range from good to dilapidated secured area, contact Army for more info. on a specific property & accessibility/removal reqs.

7 Buildings

Sierra Army Depot

Herlong CA 96113

Landholding Agency: Army

Property Number: 21201330067

Status: Unutilized

Directions: 00478, 00548, 00681, 00682, 00683, 00684, and 00685

Comments: sf. varies, 36-204+ months vacant; fair to deteriorated; secured area; extensive background check required; contact Army for info. on a specific property & accessibility reqs.

2 Buildings

Camp Roberts MTC

Camp Roberts CA 93451

Landholding Agency: Army

Property Number: 21201410024

Status: Excess

Directions: 14102 (864 sq. ft.); 14801 (200 sq. ft.)

Comments: off-site removal only; 72+ yrs.-old; secured area; contact Army for accessibility/removal requirements.

4 Buildings

Fort Hunter Liggett

711 ASP Road

Fort Hunter Liggett CA 93928

Landholding Agency: Army

Property Number: 21201420004

Status: Unutilized

Directions: 711; 710; 0408A; 719

Comments: off-site removal only; no future agency need; poor conditions; must obtain access documentation; contact Army for information on a specific property and accessibility/removal request.

Bldg. 53

Navy Lodge on RT Jones Rd.

Mountain View CA

Landholding Agency: Army

Property Number: 21201430003

Status: Excess

Comments: off-site removal only; 960 sq. ft.; storage; poor conditions; contact Army for more information.

00294

Los Alamitos Joint Forces Training Base (JFTB)

Los Alamitos CA 90720-5002

Landholding Agency: Army

Property Number: 21201430018

Status: Underutilized

Directions: 00294

Comments: off-site removal only; no future agency need; 980 sq. ft.; storage/general purpose; very poor condition; secured area; contact Army for more information.

Camp Roberts MTC (H) Bldg.

#T0864

Hwy 101; Bldg. 109

Camp Roberts CA 93451-5000

Landholding Agency: Army

Property Number: 21201510028

Status: Unutilized

Comments: off-site removal; 73+ yrs. old; 400 sq. ft. storage; residential; fair to poor condition; vacant 72 months; contact Army for more info.

3 Buildings

Park Reserve Forces Training Area

Dubin CA 94568

Landholding Agency: Army

Property Number: 21201530048

Status: Unutilized

Directions: Building: 973 RPUID: 376805 (1,933 sq. ft.); 1194 RPUID: 377058 (1,020 sq. ft.); 1195 RPUID:377059 (1,020 sq. ft.)

Comments: off-site removal only; no future agency need;61/71+ yrs. old; Vacant Storage; recreation center; poor condition; contact Army for more info. on a specific property accessibility/removal requirement.

6 Buildings

Fort Hunter Liggett

Fort Hunter Liggett CA 93928

Landholding Agency: Army

Property Number: 21201530049

Status: Unutilized

Directions: Building: 0100B (124 sq. ft.); 124 (2,001 sq. ft.); 149 (1,196 sq. ft.); 283 (4,225 sq. ft.)393 (58 sq. ft.); 394 ((58 sq. ft.)

Comments: off-site removal only; no future agency need; 35/86+ yrs. old; usage varies; contact Army for more info. on a specific property; access./removal requirements.

Building 0132A

Fort Hunter Liggett

For Hunter Liggett CA 93928

Landholding Agency: Army

Property Number: 21201530050

Status: Underutilized

Comments: off-site removal; no future agency need; 64+ yrs. old; 943 sq. ft.; residential; poor condition; contact Army for more information and accessibility/removal requirements.

Colorado

Building 00209

4809 Tevis Street

Fort Carson CO 80913

Landholding Agency: Army

Property Number: 21201520018

Status: Unutilized

Comments: off-site removal; 49+ yrs. old; 400 sq. ft.; housing; vacant 3 mos.; repairs required; asbestos; no future agency need; contact Army for more information.

Building 00220

4860 Tevis Street

Fort Carson CO 80913

Landholding Agency: Army

Property Number: 21201520033

Status: Excess

Comments: off-site removal only; 73+ yrs. Old; 690 sq. ft.; Eng./housing; repairs required; concrete; maybe difficult to move; asbestos; no future agency need; contact Army for more information.

Building R005F

Range 5 Specker Avenue

Fort Carson CO 80913

Landholding Agency: Army

Property Number: 21201620003

Status: Unutilized

Comments: off-site removal only; 13+ yrs. old; 800 sq. ft.; storage; 6+ mos. vacant; repairs required; contact Army for more information.

6 Buildings

Fort Carson

Fort Carson CO 80913

Landholding Agency: Army

Property Number: 21201620014

Status: Unutilized

Directions: 02554: RPUID:572361 (22,441 sq.); 02552: RPUID:591052 (22,441 sq.); 01950: RPUID:606520 (11,819 sq.); 01954: RPUID:583977 (22,386 sq.); 01951: RPUID:576840 (22,386 sq.); 02551: RPUID:576791 (22,441 sq.)

Comments: off-site removal only; 38+−42+yrs. old; sq. ft. above; barracks; 2+mos. vacant; repairs required; contact Army for more information.

09301

Fort Carson

Ft. Carson CO 80913

Landholding Agency: Army

Property Number: 21201640001

Status: Underutilized

Comments: off-site removal only; 2,680 sq. ft.; relocation extremely difficult due to size/type; Administrative; 2+ months vacant; maintenance/repair needed; contact Army for more info.

Georgia

Building 904

2022 Veterans Pkwy

Ft. Stewart GA 31314

Landholding Agency: Army

Property Number: 21201310004

Status: Excess

Comments: off-site removal only; 9,993 sf.; museum; poor conditions; asbestos & lead-based paint; w/in secured area; Gov't escort required to access/remove property.

Building 862

259 N. Lightening Rd.

Hunter Army Airfield GA 31409

Landholding Agency: Army

Property Number: 21201310010

Status: Excess

Comments: off-site removal only; 826 sf.; Battery Shop; poor conditions; w/in secured area; contact Army for info. on accessibility/removal reqs.

Building 853

140 Barren Loop Rd.

Hunter Army Airfield GA 31409

Landholding Agency: Army

Property Number: 21201310011

Status: Excess

Comments: off-site removal only; 4,100 sf.; Admin. 3 mons. vacant; fair conditions; w/in secured area; contact Army for accessibility/removal reqs.

Building 866

null

395 N. Lightening Rd.

Hunter Army Airfield GA 31409

Landholding Agency: Army

Property Number: 21201310012

Status: Excess

Comments: off-site removal only; 2,100 sf.; Admin.; fair conditions; w/in secured area; contact Army for info. on accessibility/removal reqs.

Building 9597

Bultman Ave.

Ft. Stewart GA 31314

Landholding Agency: Army

Property Number: 21201310013

Status: Excess

Comments: off-site removal only; 324 sf.; storage; 6 mons. vacant; poor conditions; w/in secured area; Gov't escort only to access/remove property.

Building 8056

N. Lightening Rd.

Hunter Army Airfield GA 31409

Landholding Agency: Army

Property Number: 21201310015

Status: Excess

Comments: off-site removal only; 3,790 sf.; navigation bldg.; 10 mons. vacant; fair conditions; asbestos; w/in secured area; Gov't escort only to access/remove property.

Buildings 7736 & 7740

Chip Rd.

Ft. Stewart GA 31314

Landholding Agency: Army

Property Number: 21201310016

Status: Excess

Comments: off-site removal only; sf. varies; poor conditions; w/in secured area; Gov't escort only to access/remove property.

3 Buildings

McFarland Ave.

Ft. Stewart GA 31314

Landholding Agency: Army

Property Number: 21201310017

Status: Excess

Directions: 1710, 1711, 1712

Comments: off-site removal only; sf. varies; poor conditions; w/in secured area; Gov't escort only to access/remove property.

Buildings 1303 & 1304

Warrior Rd.

Ft. Stewart GA 31314

Landholding Agency: Army

Property Number: 21201310018

Status: Excess

Comments: off-site removal only; sf. varies; poor conditions; w/in secured area; Gov't escort only to access/remove property.

Building 1155 & 1156

N. Lightening Rd.

Hunter Army Airfield GA 31409

Landholding Agency: Army

Property Number: 21201310019

Status: Excess

Comments: off-site removal only; sf. varies; poor conditions; w/in secured area; Gov't escort only to access/remove property.

Buildings 1139 & 1151

Veterans Pkwy

Ft. Stewart GA 31314

Landholding Agency: Army

Property Number: 21201310020

Status: Excess

Comments: off-site removal only; sf. varies; poor conditions; w/in secured area; Gov't escort only to access/remove property.

Building 1104

Frank Cochran Dr.

Hinesville GA 31314

Landholding Agency: Army

Property Number: 21201310022

Status: Excess

Comments: off-site removal only; 240 sf.; storage; poor conditions; w/in secured area; Gov't escort required to access/remove property.

Building 1105

Veterans Pkwy

Ft. Stewart GA 31314

Landholding Agency: Army

Property Number: 21201310023

Status: Excess

Comments: off-site removal only; 7,132 sf.; Maint. Facility; poor conditions; asbestos & lead; w/in secured area; Gov't escort required to access/remove property.

Building 1130

Veterans Pkwy

Ft. Stewart GA 31314

Landholding Agency: Army

Property Number: 21201310024

Status: Excess

Comments: off-site removal only; 322 sf.; storage; poor conditions; w/in secured area; Gov't escort only to access/remove property.

Building 1132

Veterans Pkwy

Ft. Stewart GA 31314

Landholding Agency: Army

Property Number: 21201310025

Status: Excess

Comments: off-site removal only; 182 sf.; latrine; poor conditions; w/in secured area; Gov't escort only to access/remove property.

Building 1133

Veterans Pkwy

Ft. Stewart GA 31314

Landholding Agency: Army

Property Number: 21201310026

Status: Excess

Comments: off-site removal only; 501 sf.; latrine; poor conditions; w/in secured area; Gov't escort only to access/remove property.

Building OT022

46 22nd Street

Fort Gordon GA 30905

Landholding Agency: Army

Property Number: 21201330005

Status: Unutilized

Comments: no future agency need; off-site removal only; 960 sf.; classroom; 120 months; dilapidated; contamination; closed post; contact Army for accessibility/removal requirements.

Building OT007

31 22nd Street

Fort Gordon GA 30905

Landholding Agency: Army

Property Number: 21201330006

Status: Unutilized

Comments: off-site removal only; no future agency need; 960 sf.; classroom; 120t months; dilapidated; contamination; closed post; contact Army for accessibility/removal reqs.

3 Buildings

Veterans Pkwy.

Fort Stewart GA 31314

Landholding Agency: Army

Property Number: 21201330036

Status: Excess

Directions: 1101, 1108, 1129

Comments: off-site removal only; poor conditions; contamination; secured area; contact Army for info. on a specific property; accessibility removal reqs.

Building 00TR4

43 Pistol Range Road

Whitfield GA 30755

Landholding Agency: Army

Property Number: 21201330045

Status: Excess

Comments: off-site removal only; 2,560 sf.; dining facility; 78 yrs. old; poor conditions; contact Army for more info.

Building 1157

Hunter Army Airfield

Hunter Army Airfield GA 31409

Landholding Agency: Army

Property Number: 21201410033

Status: Excess

Comments: off-site removal only; 5,809 sq. ft.; poor conditions; secured area; gov't escort required; contact Army for more info.

Building 7097

Fort Stewart

Ft. Stewart GA 31314

Landholding Agency: Army

Property Number: 21201440007

Status: Underutilized

Comments: off-site removal only; no future agency need; relocation difficult due to size/type; 9,520 sq. ft.; child development center; 6+ months vacant; poor conditions; contact Army for more information.

100

Hunter Army Airfield

Hunter Army Airfield GA 31409

Landholding Agency: Army

Property Number: 21201440008

Status: Excess

Comments: off-site removal only; relocation extremely difficult due to size; 13,331 sq. ft.; classroom; poor conditions; contact Army for more information.

1020

Hunter Army Airfield

Hunter Army Airfield GA 31409

Landholding Agency: Army

Property Number: 21201440009

Status: Underutilized

Comments: off-site removal only; no future agency need; relocation extremely difficult due to size/type; 39,653 sq.; storage; 1+ month vacant; contact Army for more information.

9002

Hunter Army Airfield

Hunter Army Airfield GA 31406

Landholding Agency: Army

Property Number: 21201440010

Status: Underutilized

Comments: off-site removal only; no future agency need; relocation difficult due to type; 221 sq. ft.; 12+ months vacant; poor conditions; asbestos; contact Army for more information.

10 Buildings

Fort Benning

Fort Benning GA 31905

Landholding Agency: Army

Property Number: 21201520011

Status: Underutilized

Directions: 00035 (890 sq. ft.); 00036 (890 sq. ft.); 00235 (4,390 sq. ft.); 08001 (288 sq. ft.); 08007 (288 sq. ft.); 08012 (288 sq. ft.); 08014 (288 sq. ft.); 08034(192 sq. ft.); 08582 (192 sq. ft.); 08597 (192 sq. ft.);

Comments: off-site removal; 10-94 yrs. old for buildings respectively above; toilet/shower; laundry; administrative; poor condition; no future agency need; contact Army for more information.

9 Buildings

Fort Benning

Fort Bebbing GA 31905

Landholding Agency: Army

Property Number: 21201520012

Status: Underutilized

Directions: 08821 (192 sq. ft.), 8781 (1,007 sq. ft.), 08730 (800 sq. ft.), 08729 (192 sq. ft.), 08721 (384 sq. ft.), 08681 (192 sq. ft.), 08637 (384 sq. ft.), 08600 (192 sq. ft.), 08618 (192 sq. ft.)

Comments: off-site removal; 10-50 yrs. old for buildings respectively above; poor condition; toilet/shower, range; no future agency need; contact Army for more information.

2 Buildings

Fort Benning

Fort Benning GA 31905

Landholding Agency: Army

Property Number: 21201520028

Status: Unutilized

Directions:

Buildings 04969 (8,416 sq. ft.), 04960 (3,335 sq. ft.)

Comments: off-site removal; 34+ & 48+ yrs. old; vehicle MAINT.; poor conditions; contaminants; restricted access; no future agency need; contact Army for more information.

Building 14

Camp Frank D. Merrill

Fort Benning GA 31905

Landholding Agency: Army

Property Number: 21201540052

Status: Unutilized

Comments: off-site removal only; 120 sq. ft.; 51+ yrs. old; veh. fuel mogas; poor conditions; contact Army for information.

Building 08638-RPUID 283107

Mortar Training Area

off Wildcat Road

Fort Benning GA 31905

Landholding Agency: Army

Property Number: 21201540053

Status: Unutilized

Comments: off-site removal only; 192 sq. ft.; 10+ yrs.-old; sep toil/shower; poor conditions; contact Army for more information.

Building 08728

3279 10th Armored Division Road

Fort Benning GA

Landholding Agency: Army

Property Number: 21201540054

Status: Unutilized

Comments: off-site removal only; 192 sq. ft.; 9+ yrs.-old; sep toil/shower; poor conditions; contact Army for more information.

3 Buildings

Fort Benning

Fort Benning GA 31905

Landholding Agency: Army

Property Number: 21201610041

Status: Unutilized

Directions: Building 04977 RPUID:281480 192 sq. ft.; 04978 RPUID:282355 630 sq. ft.; 04979 RPUID:282356 400 sq. ft.

Comments: off-site removal only; 11+ & 48+ yrs. old; veh maint shops; haz mat str ins; poor condition; no future agency need; contact Army for more information.

5 Buildings

Fort Benning

Fort Benning GA 31905

Landholding Agency: Army

Property Number: 21201620006

Status: Unutilized

Directions: Building 00485: RPUID:281444 (148 sq.); 08848: RPUID:282680 (288 sq.); 08830: RPUID:282664; (288 sq.) 08020: RPUID:282782; (192 sq.); 04022: RPUID:1006195 (144 sq.)

Comments: off-site removal only; 7+ -74+ yrs. old; veh; toil/shower; storage; poor conditions; contact Army for more information.

Hawaii

P-88

3377Z

Schofield Barracks

Wahiawa HI 96786

Landholding Agency: Army

Property Number: 21201210054

Status: Unutilized

Comments: off-site removal only; 196 sf.; current use: transformer bldg.; poor conditions—needs repairs.

Bldg. 0300B

308 Paalaa Uka Pupukea

Wahiawa HI 96786

Landholding Agency: Army

Property Number: 21201210083

Status: Unutilized

Comments: off-site removal only; 114 sf.; current use: valve house for water tank; fair conditions.

12 Bldgs.

Schofield Barracks

Wahiawa HI

Landholding Agency: Army

Property Number: 21201220009

Status: Unutilized

Directions: 2509,2510,2511,2512,2513,2514,2516,2517,3030,3031,3032,3035

Comments: off-site removal only; sf. varies; usage varies; storage; good conditions.

A0300

308 Paalaa Uka Pupukea Rd.

Helemano

Wahiawa HI 96786

Landholding Agency: Army

Property Number: 21201230009

Status: Unutilized

Comments: off-site removal only; 17.25 X 21ft.; water storage.

Buildings 1421 & 1422

510 CW2 Latchum Rd.

Wahiawa HI 97686

Landholding Agency: Army

Property Number: 21201310046

Status: Underutilized

Comments: off-site removal only; sf. varies; office & toilet; fair conditions; military reservation.

Buildings 3363, 3366, & 3371

Schofield Barracks

Wahiawa HI 96786

Landholding Agency: Army

Property Number: 21201310047

Status: Unutilized

Comments: off-site removal only; sf. varies; abandoned; 230 mons. vacant; transformer bldgs.

Building A0750

613 Ayers Ave. (Schofield Barracks)

Wahiawa HI 96786

Landholding Agency: Army

Property Number: 21201330038

Status: Unutilized

Comments: off-site removal only; no future agency need; 512 sf.; storage; 46 yrs.-old; poor conditions; contact Army for more info.

00038

Pohakuloa Training Area

Hilo HI 96720

Landholding Agency: Army

Property Number: 21201410007

Status: Unutilized

Comments: off-site removal only; 102 sq. ft.; storage; 49+ yrs.-old; poor conditions; contact Army for more information.

3 Buildings

Joint Base Pearl Harbor Hickam

Joint Base Pearl Harb HI 96860

Landholding Agency: Army

Property Number: 21201530046

Status: Excess

Directions:

Building: 2266 (1,536 sq. ft.);2267 (1,536 sq. ft.) 2268 (2,190 sq. ft.)

Comments: off-site removal only; 32+ yrs. old; Child Development Centers; 24 mos. Vacant; poor condition; relocation may not be feasible due to deteriorated condition; contact Army for more information.

Idaho

R1A11

16 Miles South

Boise ID 83634

Landholding Agency: Army

Property Number: 21201320005

Status: Excess

Comments: off-site removal only; 1,040 sf., dilapidated, repairs a must, temp. shelter, 9 months vacant, has hanta virus presence.

R1A13

16 Miles South

Boise ID 83634

Landholding Agency: Army

Property Number: 21201320015

Status: Excess

Comments: off-site removal only; 1,040 sf.; temp. shelter; 9 months vacant; dilapidated; Hanta virus; repairs a must.

R1A10

16 Miles South

Boise ID 83634

Landholding Agency: Army

Property Number: 21201320041

Status: Excess

Comments: off-site removal only; 1,040 sf.; dilapidated; repairs a must; 9 months vacant; Hanta virus.

R1A12

16 Miles South

Boise ID 83634

Landholding Agency: Army

Property Number: 21201320042

Status: Excess

Comments: off-site removal only; 1,040 sf.; temp. shelter; 9 months vacant; dilapidated; repairs a must; Hanta virus.

R1A15

16 Miles South

Boise ID 83634

Landholding Agency: Army

Property Number: 21201320043

Status: Excess

Comments: off-site removal only; 1,040 sf.; temp. shelter; 9 months vacant; dilapidated; Hanta virus; repair a must.

Illinois

Building GC444

195 E Street

Granite City IL 62040

Landholding Agency: Army

Property Number: 21201610061

Status: Unutilized

Directions:

RPUID:967743

Comments: off-site removal only; 63+ yrs. old; 21,954 sq. ft.; training center; vacant 1+ mos.; no future agency need; size makes this economically & structurally unfeasible to move; contact Army for more info.

3 Buildings

Philip H. Sheridan Reserve Center

Fort Sheridan IL 60037

Landholding Agency: Army

Property Number: 21201710008

Status: Unutilized

Directions: Building HP137 (RPUID:221544) 26,845 sf.; HP149 (RPUID:225967) 7,000 sf.; HP139 (RPUID:225966) 18,312 sf.

Comments: off-site removal; extremely diff. to relocate due to size; 30+-77+ yrs. old; stg.; sf. listed above; vacant 1+ mos.; beyond its useful lifecycle; no future agency need; contact Army for more info.

Iowa

Y11Q0

Camp Dodge

Johnston IA 50131

Landholding Agency: Army

Property Number: 21201330060

Status: Unutilized

Comments: 3,076 sf.; family housing; 816+months vacant; deteriorated; secured area; escort required; contact Army for accessibility requirements.

2 Buildings

Camp Dodge

Johnston IA 50131

Landholding Agency: Army

Property Number: 21201330064

Status: Unutilized

Directions: Y1200 & TC030

Comments: 1,686 & 1,026 sf. respectively; garage; deteriorated; secured area; escort required; contact Army for accessibility. requirements.

Kansas

Building 9109

Mallon Rd.

Ft. Riley KS 66442

Landholding Agency: Army

Property Number: 21201310051

Status: Unutilized

Comments: off-site removal only; 128 sf.; latrine; deteriorating conditions; located on controlled area; contact Army for more info.

Building 00620

Mitchell Terr.

Ft. Riley KS 66442

Landholding Agency: Army

Property Number: 21201320014

Status: Excess

Comments: off-site removal only; 12,640 sf.; lodging; deteriorating; asbestos.

Building 09098

Vinton School Rd.

Ft. Riley KS 66442

Landholding Agency: Army

Property Number: 21201320016

Status: Excess

Comments: off-site removal only; 120 sf.; guard shack; fair/moderate conditions.

Building 07856

Drum St.

Ft. Riley KS 66442

Landholding Agency: Army

Property Number: 21201320017

Status: Excess

Comments: off-site removal only; 13,493 sf.; dining facility; deteriorating; asbestos.

Building 07636

Normandy Dr.

Ft. Riley KS 66442

Landholding Agency: Army

Property Number: 21201320018

Status: Excess

Comments: off-site removal only; 9,850 sf.; deteriorating; asbestos.

Building 05309

Ewell St.

Ft. Riley KS 66442

Landholding Agency: Army

Property Number: 21201320019

Status: Excess

Comments: off-site removal only; 23,784 sf.; lodging; deteriorating; asbestos.

Building 00918

Caisson Hill Rd.

Ft. Riley KS 66442

Landholding Agency: Army

Property Number: 21201320020

Status: Excess

Comments: off-site removal only; 3,536 sf.; admin. general purpose; deteriorating; possible contamination; secured area; however, prior approval to access is needed; contact Army for more info.

Building 00621

Mitchell Terr.

Ft. Riley KS 66442

Landholding Agency: Army

Property Number: 21201320021

Status: Excess

Comments: off-site removal only; 12, 640 sf.; lodging; deteriorating; asbestos.

Building 7610

Fort Riley

Fort Riley KS 66442

Landholding Agency: Army

Property Number: 21201410049

Status: Excess

Comments: off-site removal only; may not be feasible to relocate due to sq. ft./type of structure; 41,892 sq. Ft. barracks contact Army for more information.

8 Buildings

Fort Riley

610 Warrior Rd.

Fort Riley KS 66442

Landholding Agency: Army

Property Number: 21201420002

Status: Excess

Directions: 610, 7610,7614,7616,7842,7846,7850,8063

Comments: off-site removal only; major repairs needed, mold and asbestos; secured area; contact Army for information on a specific property and accessibility/removal request.

502

Fort Riley

Fort Riley KS 66442

Landholding Agency: Army

Property Number: 21201430009

Status: Excess

Directions: 502

Comments: off-site removal only; 316 sq. ft.; office; structure type: Police Station; 55+ years old; fair condition; contact Army for more information.

Kentucky

Building A7140

Fort Campbell

Ft. Campbell KY 42223

Landholding Agency: Army

Property Number: 21201530102

Status: Underutilized

Comments: 414 sq. ft.; 56+ yrs.-old; fair conditions; registration required on daily basis to access property; contact Army for more information.

3 Buildings

Fort Campbell

Fort Campbell KY 42223

Landholding Agency: Army

Property Number: 21201610036

Status: Underutilized

Directions: Buildings 04053 (22,053 sq. ft.); 04057 (33,104 sq. ft.); 04067 (44,106 sq. ft.)

Comments: 38+ yrs. old; barracks; fair condition; no future agency need; daily registration renewal to access property; contact Army for more information.

2 Buildings

Fort Campbell

Fort Campbell KY 42223

Landholding Agency: Army

Property Number: 21201620004

Status: Underutilized

Directions: A0127: RPUID:582404 (400 sq. ft.); B0127: RPUID:320594 (783 sq. ft.)

Comments: 25+-27+ yrs. old; heating plant; refrig/AC building; fair condition; prior approval needed to gain access; contact Army for more information.

Louisiana

7604B

Fort Polk

Fort Polk LA 71459

Landholding Agency: Army

Property Number: 21201530038

Status: Unutilized

Comments: off-site removal only; no future agency need; 3,740 sq. ft.; contact Army for more information.

7604C

Fort Polk

Fort Polk LA 71459

Landholding Agency: Army

Property Number: 21201530039

Status: Unutilized

Comments: off-site removal only; no future agency need; 3,740 sq. ft.; relocatable company building; contact Army for more information.

7308E

Fort Polk

Fort Polk LA 71459

Landholding Agency: Army

Property Number: 21201530040

Status: Unutilized

Comments: off-site removal only; no future agency need; 5,396 sq. ft.; relocatable office; contact Army for more information.

7604D

Fort Polk

Ft. Polk LA 71459

Landholding Agency: Army

Property Number: 21201530045

Status: Unutilized

Comments: off-site removal only; no future agency need; 3,740 sq. ft.; relocatable office; contact Army for more information.

9 Buildings

Fort Polk

Ft. Polk LA 71459

Landholding Agency: Army

Property Number: 21201530073

Status: Underutilized

Directions: 00002(190857; 4,070 sq. ft.); 00003(292997; 97 sq. ft.); 02531 (191515; 4,830 sq. ft.); 02599(191521; 159 sq. ft.); 04250(191272; 240 sq. ft.); 07526(299361; 480 sq. ft.); 09787(293242; 608 sq. ft.); 09806(188086; 2,834 sq. ft.); M0350(188086)?

Comments: off-site removal only; no future agency need; removal difficult due to type/size; poor conditions; contact Army for more details on a specific property.

Building 07043

Fort Polk

Fort Polk LA 71459

Landholding Agency: Army

Property Number: 21201530101

Status: Underutilized

Comments: off-site removal only; 1,200 sq. ft.; maintenance building; poor conditions; contact Army for more information.

2 Buildings

Fort Polk

Fort Polk LA 71459

Landholding Agency: Army

Property Number: 21201610051

Status: Underutilized

Directions: 02501-RPUID:299625 (3,308 sq. ft.); 00830-RPUID:301695 (82,431 sq. ft.)

Comments: off-site removal only; 39+ -74+ yrs. old; shed; org club; poor condition; maybe difficult to move; contact Army for more information.

Building 04274

4274 California Ave.,

Fort Polk LA 71459

Landholding Agency: Army

Property Number: 21201610066

Status: Unutilized

Directions: RPUID:292651

Comments: off-site removal only; 63+ yrs. old; 240 sq. ft.; toilet/shower; poor conditions; contact Army for more information.

Maryland

5 Buildings

Ft. George G. Meade

Ft. George MD 20755

Landholding Agency: Army

Property Number: 21201330008

Status: Unutilized

Directions: 4, 239, 700, 2790, 8608

Comments: off-site removal only; no future agency need; sf. varies; fair to deteriorating conditions; secured area; contact Army re. info. on a specific property & accessibility/removal reqs.

Michigan

6 Buildings

Detroit Arsenal

Warren MI 48092

Landholding Agency: Army

Property Number: 21201340026

Status: Unutilized

Directions: WH001 (4,680 sq. ft.); WH002 (3,910 sq. ft.); WH003 (5,256 sq. ft.); WH004 (3,840 sq. ft.) WH005 (5,236 sq. ft.); WH006 (5,940 sq. ft.)

Comments: off-site removal only; no future agency need; residential; repairs needed; contamination; secured area; contact Army for more information on a specific property accessibility requires.

6 Buildings

Detroit Arsenal

Warren MI 48092

Landholding Agency: Army

Property Number: 21201340027

Status: Unutilized

Directions: WH013(4,680 sq.); WH014(5,236 sq.); WH015 (3,000 sq.); WH016(3,840 sq.); WH017(3,000 sq.); WH018 (5,940 sq.)

Comments: off-site removal only; no future agency need; residential; repairs needed; contamination; secured area; contact Army for more information on a specific property & accessibility requirement.

6 Buildings

Detroit Arsenal

Warren MI 48092

Landholding Agency: Army

Property Number: 21201340028

Status: Unutilized

Directions: WH007(3,840 sq. ft.); WH008 (5,940 sq. ft.); WH009 (5,236 sq. ft.); WH010 (4,680 sq. ft.); WH011 (5,236 sq. ft.); WH012 (5,236 sq. ft.)

Comments: off-site removal only; no future agency need; residential; repairs needed; contamination; secured area; contact Army for more information on a specific property and accessibility requires.

6 Buildings

Detroit Arsenal

Warren MI 48092

Landholding Agency: Army

Property Number: 21201340029

Status: Unutilized

Directions: WH019(4,680 sq.); WH020(5,940 sq.); WH021(5,940 sq.); WH022(4,680 sq.); WH023(5,940 sq.); WH024(1,760 sq.)

Comments: off-site removal only; no future agency need; residential; repairs needed; contamination; secured area; contact Army for more information on a specific property & accessibility requirement.

4 Buildings

Detroit Arsenal

Warren MI 48092

Landholding Agency: Army

Property Number: 21201340031

Status: Unutilized

Directions: WH025 (1,760 sq.); WH026 (1,760 sq. ft.); WH027 (1,760 sq.); WH028(400 sq.)

Comments: off-site removal only; no future agency need; residential; repairs needed; contamination; secured area; contact Army for more information on a specific property & accessibility requirement.

Minnesota

18 Bldgs.

1245 Hwy 96 West

Arden Hills Army TRNG Site

Arden Hills MN 55112

Landholding Agency: Army

Property Number: 21201210059

Status: Unutilized

Directions: 12155, 12156, 12157, 01200, 01201, 01202, 01203, 01204, 01205, 01206, 04202, 11218, 11219, 11220, 11221, 11222, 11223, 04203

Comments: off-site removal only; sf. varies; current use: storage; poor conditions-need repairs.

2 Buildings

Rusk County Veterans Memorial

Ladysmith MN 54848

Landholding Agency: Army

Property Number: 21201640010

Status: Excess

Directions: DY001- 16,257 sq. ft. (225300); DY002- 2,280 sq. ft. (225301)

Comments: off-site removal only; relocation extremely difficult due to size/type; fair/poor conditions; contact Army for more info. on a specific property listed above.

P0002

88th Reginal Support Command

Cape Girardeau MO 63701

Landholding Agency: Army

Property Number: 21201510006

Status: Unutilized

Comments: off-site removal only; 96 sq. ft.; storage; no future agency need; 14+ mons. vacant; asbestos; contact Army for more information.

Missouri

Building 5332

Range 4

Fort Leonard Wood MO 65473

Landholding Agency: Army

Property Number: 21201610052

Status: Unutilized

Directions: RPUID:611105

Comments: 15+ yrs. old; 80 sq. ft.; weapons; 12+ mos. vacant; poor conditions; contact Army for more information.

Building #5333

Range 4

Fort Leonard Wood MO 65473

Landholding Agency: Army

Property Number: 21201610058

Status: Unutilized

Directions: RPUID:578451

Comments: 15+ yrs. old; 80 sq. ft.; weapons; 12+ mos. vacant; not adequate for reuse; contact Army for more information.

Building 319A

Intersection of Headquarters and

Illonoise Ave.

Fort Leonard Wood MO 65473

Landholding Agency: Army

Property Number: 21201620023

Status: Unutilized

Directions: RPUID:1239157

Comments: 4+ yrs. old; 384 sq. ft.; recreation; adequate condition; contact Army for more information.

Nebraska

3 Buildings

2504 Roman Hruska Dr.

Offutt AFB NE 68113

Landholding Agency: Air Force

Property Number: 18201620035

Status: Unutilized

Directions: Building 5082 (782 sq. ft.); 5083 (1,700 sq. ft.), 5084 (5,176 sq. ft.)

Comments: 44+ yrs. old; swimming pool, bath house; water treatment; 6+ mos. vacant; no future agency need; contact AF for more information.

Nevada

Dormitory; 552

Nellis AFB

Nellis AFB NV 89191

Landholding Agency: Air Force

Property Number: 18201640007

Status: Unutilized

Comments: 41,800 sq. ft.; dorm (220 rooms, avg. 290 sq. ft.) good fair conditions; 12+ mos. vacant; escort required to access property; contact AF for more details on access & other conditions.

Medical Facility; 1305

Nellis AFB

Nellis AFB NV 89191

Landholding Agency: Air Force

Property Number: 18201640008

Status: Unutilized

Comments: 8,723 sf., storage; 12+ mos. vacant; good to fair conditions; escort required to access property; contact AF for more details on access & other conditions.

Traffic Check House; 1058

Nellis AFB

Nellis AFB NV 89191

Landholding Agency: Air Force

Property Number: 18201640009

Status: Unutilized

Comments: 400 sf., 12+ mos. vacant; good to fair condition; escort required to access property; contact AF for more details on accessibility & other conditions.

Traffic Check House; 698

Nellis AFB

Nellis AFB NV 89191

Landholding Agency: Air Force

Property Number: 18201640010

Status: Unutilized

Comments: 144 sf.; 12+ mos. vacant; good to fair conditions; escort required; contact AF for more details on access & other conditions.

Maintenance Hanger

Creech AFB

Creech ABF NV 89018

Landholding Agency: Air Force

Property Number: 18201640021

Status: Unutilized

Comments: 5,872 sf., 12+ months; good to fair conditions; storage; escort required; contact AF for access & other conditions.

New Jersey

4 Bldgs.

Picatinny Arsenal

Dover NJ 07806

Landholding Agency: Army

Property Number: 21201220011

Status: Unutilized

Directions: 1179,1179A,1179C,1179D

Comments: off-site removal only; sf varies; usage varies; need repairs; contamination; remediation required; secured area; need prior approval to access property; contact Army for more details.

4 Building

Route 15 North

Picatinny Arsenal NJ 07806

Landholding Agency: Army

Property Number: 21201240026

Status: Unutilized

Directions: 3701,3702,3706,3709

Comments: Off-site removal only, sq. varies, moderate conditions, restricted area; contact Army for information on accessibility removal and specific details on a particular property.

Building 00063

Picatinny Arsenal

Picatinny Arsenal NJ 07806

Landholding Agency: Army

Property Number: 21201310039

Status: Underutilized

Comments: off-site removal only; 44,000 sf.; storage; very poor conditions; w/in secured area; contact Army for accessibility/removal requirements.

Building 01186

Pictinny Arsenal

Dover NJ 07806

Landholding Agency: Army

Property Number: 21201310040

Status: Unutilized

Comments: off-site removal only; 192 sf.; storage; very poor conditions; w/in restricted area; contact Army for info. on accessibility/removal requirements.

Building 03223

Picatinny Arsenal

Dover NJ 07806-5000

Landholding Agency: Army

Property Number: 21201330046

Status: Unutilized

Comments: off-site removal only; no future agency need; 312 sf.; 102 yrs.-old; poor conditions; secured area; contact Army for more info.

Bldgs. 02700 and 22630

Fort Drum

Fort Drum NY 13602

Landholding Agency: Army

Property Number: 21201210080

Status: Underutilized

Comments: off-site removal only; sf. varies; current use: varies; need repairs.

North Carolina

Building 42843

Ft. Bragg

Ft. Bragg NC 28310

Landholding Agency: Army

Property Number: 21201240034

Status: Underutilized

Directions: 42843

Comments: Located in a secured area, public access is denied and no alternative method to gain access without compromising national security.

Building D1209

4285 Gruber Road

Ft. Bragg NC 28308

Landholding Agency: Army

Property Number: 21201330069

Status: Unutilized

Comments: 15,327 sf; 21 yrs. old; extensive repairs needed; secured area; extensive background checks required; contact Army for accessibility requirements.

3 Buildings

Fort Bragg

Ft. Bragg NC 28310

Landholding Agency: Army

Property Number: 21201540061

Status: Unutilized

Directions: Q3113-1034505 (64 sq. ft.); Q3414-1034511 (64 sq. ft.); Q2322-296150 (17 sq. ft.)

Comments: very poor conditions; contact Army for more information on a specific property listed above.

Ohio

125

1155 Buckeye Rd.

Lima OH 45804

Landholding Agency: Army

Property Number: 21201230025

Status: Underutilized

Directions: Joint Systems Manufacturing Center

Comments: off-site removal only; 2,284 sf.; use: storage; poor conditions; asbestos identified; secured area; contact Army re: accessibility requirements.

6 Buildings

Fort Sill

Ft. Sill OK 73503

Landholding Agency: Army

Property Number: 21201540034

Status: Unutilized

Directions: 1500 (100 SQ. FT.; Fueling/POL/Wash Support Bldg.); 1501 (9,802 SQ. FT.; Vehicle Maintenance Shop);1502 (9,938 SQ. FT.; Vehicle Maintenance Shop); 1503 (10,190 SQ. FT.; Limited Use Instructional Bldg.);1521 (80 SQ. FT.; Oil Storage Building); 2590 (3,626 SQ. FT.; ADMIN GENERAL PURPOSE)

Comments: off-site removal only; no future agency need; removal difficult due to type/size;6+ mons. Vacant; contamination; contact Army for more information on a specific property listed above.

6 Buildings

Fort Sill

Fort Sill OK 73503

Landholding Agency: Army

Property Number: 21201610027

Status: Unutilized

Directions: 852 (13,379 sq.); 1929 (3,200 sq.); 851 (14,360 sq.); 850 (22,941 sq.); 745 (6,533 sq. ft.); 2037 (5,197 sq. ft.)

Comments: off-site removal; 52+-100+ yrs. old; storage; admin. building; enlisted uph; vacant 6+ mos.; no future agency need; due to size may not be feasible to move; contact Army for more information.

Oklahoma

9 Buildings

Fort Sill

Fort Sill OK 73503

Landholding Agency: Army

Property Number: 21201610028

Status: Unutilized

Directions:

2870 (3,658 sq.); 3682 (23,502 sq.); 2873 (3,658 sq.); 2874 (3,872 sq.); M6307 (94 sq.); 6305 (879 sq.); 2875 (3,682 sq.); 2871 (3,872 sq.); 2872 (3,658 sq.)

Comments: off-site removal only; 28+-75+ yrs. old; 6+ mos. vacant; HQ. bldg.; general purpose; training; no future agency need; due to size may not be feasible to move; contact Army for more information.

7 Buildings

Fort Sill

Fort Sill OK 73503

Landholding Agency: Army

Property Number: 21201620020

Status: Unutilized

Directions: 3336 (8,883 sq.); 1620 (800 sq.); 2598 (3,670 sq.); 2599 (3,670 sq.); 1608 (108 sq.); 3602 (8,883 sq.); 4744 (2,108 sq.)

Comments: off-site removal only; no future agency need; 21+-82+ yrs. old; sq. ft. above; warehouse; admin.; toilet/shower; instruction bldg.; 6+mos. vacant; contact Army for more information.

11 Buildings

Fort Sill

Fort Sill OK 73503

Landholding Agency: Army

Property Number: 21201710003

Status: Unutilized

Directions: Bldg. 3039(RPUID:174617 120 sf.); 3036(174233 82 sf.); 2499(174230 82 sf.); 3441(175231 2,489 sf.); 4923(174614 100 sf.); 2811(174299 10,092 sf.); 2951(186960 3,088 sf.); 3004(174613 7,290 sf.); 3005(174614 7,290 sf.); 6249(175381 599sf.); 3435(175228 3,939 sf.)

Comments: off-site removal only; extremely difficult to relocate due to size/type; 28+-88+yrs. old; sq. ft. listed above; classroom; storage; dining; admin; no future agency need; contact Army for more info.

6 Buildings

Fort Sill, OK

Fort Sill OK 73503

Landholding Agency: Army

Property Number: 21201710006

Status: Unutilized

Directions: Building 5020(RPUID:173085 7,193 sf., 2478 (RPUID:185126); 192 sf., 7803 (RPUID:600925) 2,129 sf., 6248 (RPUID:175386) 512 sf., 4927 (RPUID:183997) 82 sf., 4924 (RPUID:183994)

Comments: off-site removal only; extremely difficult to relocated; 27+74+ yrs. old; sq. ft. listed above; housing; simulator; dispatch; storage; no future agency need; contact Army for more information.

10 Buildings

Fort Sill

Fort Sill OK 73503

Landholding Agency: Army

Property Number: 21201710009

Status: Unutilized

Directions: Building 2485 (RPUID:184897) 120 sf.; 2486 (185130) 120 sf.; 2484 (174227) 82 sf.; 2479 (174226) 82 sf.; 2498 (174229) 80 sf.; 2492 (185134) 120 sf.; 2491 (185133) 120 sf.; 2496 (185136) 192 sf.; 2480 (185127) 407 sf.; 2490 (185132) 192 sf.

Comments: off-site removal only; 34+-54+ yrs. old; storage; dispatch; repair shop; sq. ft. listed above; no future agency need; contact Army for more information.

10 Buildings

Fort Sill

Fort Sill OK 73503

Landholding Agency: Army

Property Number: 21201710010

Status: Unutilized

Directions: Building 2469 (RPUID:184900) 192 sf.; 2457 (292601) 192 sf.; 2463 (184896) 192 sf.; 2465 (184898) 120 sf.; 2464 (184897) 120 sf.; 2473 (184902) 120 sf.; 2453 (292599) 120 sf.; 2474 (184903) 120 sf.; 2458 (292602) 120 sf.; 2459 (184894) 192 sf.

Comments: off-site removal only; 52+-55+ yrs. old; sq. ft. listed above; dispatch; maintenance shop; storage; no future agency need; contact Army for more information.

10 Buildings

Fort Sill

Fort Sill OK 73503

Landholding Agency: Army

Property Number: 21201710011

Status: Unutilized

Directions: Building 1517 (174221) 80 sf.; 847 (174220) 80 sf.; 846 (174219) 80 sf.; 843 (173449) 192 sf.; 2452 (292598) 120 sf.; 2418 (174225) 722 sf.; 2417 (292595) 722 sf.; 2416 (292594) 722 sf.; 1711 (175646) 2,166 sf.; 1548 (174223) 82 sf.

Comments: off-site removal only; 28+-104+ yrs.; old; sf. listed above; storage; wash support; no future agency need; bldg. 1711 may not be feasible to move; contact Army for more information.

10 Buildings

Fort Sill

Fort Sill OK 73503

Landholding Agency: Army

Property Number: 21201710013

Status: Unutilized

Directions: Building 4913 (183991) 82 sf.; 4925 (183995) 358 sf.; 1538 (187776) 80 sf.; 1540 (18777) 105 sf.; 1670 (175644) 1,683 sf.; 2288 (175706) 400 sf.; 2290 (175707) 82 sf.; 2413 (292591) 720 sf.; 2414 (292592) 720 sf.; 2415 (292593) 720 sf.

Comments: off-site removal only; 29+-77+ yrs. old; sf. listed above; storage; general purpose; no future agency need; bldg. 1670 may not be feasible to move; contact Army for more information.

Pennsylvania

Building 01015

11 Hap Arnold Blvd.

Tobyhanna PA 18466

Landholding Agency: Army

Property Number: 21201320031

Status: Unutilized

Comments: off-site removal only; 3,120 sf.; recruiting station; 1 month vacant; poor conditions; asbestos; secured area; contact Army for more info.

Building 01001

11 Hap Arnold Blvd.

Tobyhanna PA 18466

Landholding Agency: Army

Property Number: 21201320035

Status: Excess

Comments: off-site removal only; 4,830 sf.; youth center/admin.; 1 month vacant; poor conditions; asbestos; secured area; contact Army for more info.

Puerto Rico

2 Buildings

USAG Fort Buchanan RQ327

Fort Buchanan PR 00934

Landholding Agency: Army

Property Number: 21201540057

Status: Excess

Directions: 01024 (300 sq. ft.; storage); 01026 (300 sq. ft.; storage)

Comments: off-site removal only; poor conditions; contact Army for more information on a property listed above.

South Dakota

Shadehill Dam

Bureau of Reclamation

Lemmon SD 57638

Landholding Agency: Interior

Property Number: 61201710016

Status: Excess

Comments: off-site removal only; 864 sq. ft.; may be difficult to relocate; residential; 38+ yrs. vacant; some repairs done; renovations needed; non-friable asbestos; lead; contact Interior for info.

Tennessee

00869

Fort Campbell

Fort Campbell TN 42223

Landholding Agency: Army

Property Number: 21201430036

Status: Excess

Comments: 3,076 sq. ft.; storage; fair conditions; asbestos in floor tiles; secured area; contact Army for more information.

07612

Fort Campbell

Fort Campbell TN 42223

Landholding Agency: Army

Property Number: 21201430044

Status: Excess

Comments: 600 sq. ft.; storage; fair condition; secured area; contact Army for more information.

9 Buildings

Fort Campbell

Ft. Campbell TN 42223

Landholding Agency: Army

Property Number: 21201440002

Status: Excess

Directions: 00039; 00846; 05123; 05638; 05640; 05641; 05646; 07540; 07811

Comments: off-site removal only; relocation may be extremely difficult due to size/type; sq. ft. varies; poor conditions; contamination; contact Army for more information.

03R28, 02r28, & 01R28

Fort Campbell

Ft. Campbell TN 42223

Landholding Agency: Army

Property Number: 21201440005

Status: Underutilized

Comments: off-site removal only; no future agency need; 552 sq. ft.; range support facility; major repairs; secured area; contact Army for more information.

05127

Fort Campbell

Ft. Campbell TN 42223

Landholding Agency: Army

Property Number: 21201440058

Status: Excess

Comments: off-site removal only; 224 sq. ft.; storage; fair conditions; contact Army for more information on accessibility/removal requirements.

4 Buildings

Fort Campbell

Ft. Campbell TN 42223

Landholding Agency: Army

Property Number: 21201440059

Status: Excess

Directions: 05211 (320 sq. ft.); 05665 (800 sq. ft.); 00100 (800 sq. ft.); 01604 (126 sq. ft.)

Comments: off-site removal only; fair conditions; usage varies; contact Army for more information on a specific property.

06907

Ft. Campbell

Ft. Campbell TN 42223

Landholding Agency: Army

Property Number: 21201530029

Status: Unutilized

Comments: 2,581 Sq. ft.; office; 50+ yrs. old; fair conditions; needs repair; daily repair; contamination; daily registration required to access property; contact Army for more information.

3 Buildings

Fort Campbell

Ft. Campbell TN

Landholding Agency: Army

Property Number: 21201540017

Status: Unutilized

Directions: 6995 (RPUID:594789; 3,687 SQ. FT.; OFFICE); 07825 (RPUID: 590376; 15,111 SQ. FT.; Ammo Repair); A6924 (RPUID: 598990; 3,688 SQ. FT.; OFFICE)

Comments: fair to poor conditions; asbestos present; contact Army for more information on a specific property listed above.

Building 763

Mississippi Avenue

Fort Campbell TN 42223

Landholding Agency: Army

Property Number: 21201630020

Status: Excess

Directions: RPUID:584686

Comments: 19+ yrs. old; 3,055 sq. ft.; maintenance shop; fair condition; prior approval needed to gain access; contact Army for more information.

7 Buildings

Fort Campbell

Fort Campbell TN 42223

Landholding Agency: Army

Property Number: 21201630022

Status: Underutilized

Directions: 07860-RPUID:570557 (2,171 sq.); 07856-586791 (8,618 sq.); 07821-229972 (648 sq.); 02525-611262 (4,800 sq.); 07865-563162 (2,171 sq.); 07863-584687 (2,171 sq.); 07862-570558 (2,171 sq.)

Comments: 20+-62+yrs. old; storage; admin. gen.; purp.; sq. ft. above; fair condition; prior approval needed to gain access; contact Army for more information.

2 Buildings

Fort Campbell

Fort Campbell TN 42223

Landholding Agency: Army

Property Number: 21201630025

Status: Unutilized

Directions: Building 05R28-RPUID:233469, 7874-RPUID:594209

Comments: 27+ & 63+ yrs. old; 3,324 sq. ft.; office/storage; toilet/shower; 3+ & 5+ mos. vacant; poor condition; contact Army for more information.

7820-590375

Fort Campbell

Fort Campbell TN 42223

Landholding Agency: Army

Property Number: 21201630038

Status: Unutilized

Comments: 3,224 sq. ft.; poor conditions; drum repair facility; 6+ months vacant; sewage contamination—remediation needed; daily approval to access property; contact Army for more details.

9 Buildings

Fort Campbell

Fort Campbell TN 42223

Landholding Agency: Army

Property Number: 21201630039

Status: Underutilized

Directions: 07862-2,171 sq. ft. (570558); 07863-2,171 sq. ft. (584687); 07865-2,171 sq. ft. (563162); 02525- 4,800 sq. ft.; (611262); 07819-7,750 sq. ft. (580705); 07821-648 sq. ft.; (229972); 078656-8,618 sq. ft. (586791); 07860-2,171 sq. ft. (570557); 07861-2,171 sq. ft. (614055)

Comments: fair conditions; usage varies; daily approval to access; remediation needed; contact Army for more details on a specific property listed above.

Texas

B-42

Fort Hood

Ft. Hood TX 76544

Landholding Agency: Army

Property Number: 21201210007

Status: Excess

Comments: off-site removal only; 893 sq. ft.; current use: storage; asbestos identified.

B-1301

Ft. Bliss

Ft. Bliss TX 79916

Landholding Agency: Army

Property Number: 21201220001

Status: Underutilized

Comments: off-site removal only; 18,739 sf.; current use: thrift shop; poor conditions; need repairs.

Bldg. 7194

Ft. Bliss

Ft. Bliss TX 79916

Landholding Agency: Army

Property Number: 21201220002

Status: Unutilized

Comments: off-site removal only; 2,125 sf.; current use: housing; poor conditions—need repairs; asbestos & lead identified; need remediation.

Building 6951

11331 Montana Ave.

Ft. Bliss TX 79916

Landholding Agency: Army

Property Number: 21201240010

Status: Excess

Comments: off-site removal only; 288 sf.; utility bldg.; poor conditions; limited public access; contact Army for info. on accessibility/removal.

Building 6942

11331 Montana Ave.

Ft. Bliss TX 79916

Landholding Agency: Army

Property Number: 21201240011

Status: Excess

Comments: off-site removal only; 1,059 sf.; storage; poor conditions; limited public access; contact Army for info. on accessibility/removal.

Bldg. 2432

Carrington Rd.

Ft. Bliss TX 79916

Landholding Agency: Army

Property Number: 21201240013

Status: Excess

Comments: off-site removal only; 180 sf.; dispatch bldg.; poor conditions; limited public access; asbestos/lead identified; contact Army for info. on accessibility/removal.

Building 50

50 Slater Rd.

Ft. Bliss TX 79916

Landholding Agency: Army

Property Number: 21201240014

Status: Excess

Comments: off-site removal only; 9,900 sf.; office; poor conditions; limited public access; asbestos/lead identified; contact Army for info. on accessibility/removal.

2 Building

Fort Bliss

Fort Bliss TX 79916

Landholding Agency: Army

Property Number: 21201330029

Status: Unutilized

Directions: 05015(22,915 sf.); 05019(23,495 sf.)

Comments: off-site removal only; no future agency need; poor conditions; 6+ months vacant; contact Army for info. on accessibility; removal reqs.

4285

Fort Hood

Fort Hood TX 76544

Landholding Agency: Army

Property Number: 21201430019

Status: Unutilized

Directions: 4285

Comments: off-site removal only; no future agency need; semi-perm. Structure type; 10,552 sq. ft.; removal may be difficult due to size; poor condition; secured area; contact Army for more information.

2 Buildings

Fort Hood

Fort Hood TX 76544

Landholding Agency: Army

Property Number: 21201430020

Status: Excess

Directions: 4461 (6,515 sq. ft.); 4611 (3,311 sq. ft.)

Comments: off-site removal only; removal may be difficult due to size/type; fair to poor condition; asbestos present in building 4611; secured area; contact Army for more information.

4408

Fort Hood

Fort Hood TX 76544

Landholding Agency: Army

Property Number: 21201430021

Status: Excess

Directions: 4408

Comments: off-site removal only; semi-perm. Structure type; 9,812 sq. ft.; removal difficult due to size; fair condition; secured area; contact Arm for more information.

9 Buildings

Fort Hood

Fort Hood TX 76544

Landholding Agency: Army

Property Number: 21201430030

Status: Unutilized

Directions: 4640 (1,606 sq. ft.); 4641 (2,021 sq. ft.); 4644 (4,080 sq. ft.); 4656 (4,045 sq. ft.); 4657 (4,040 sq. ft.); 36019 (3,192 sq. ft.); 36027 (2,425 sq. ft.); 36028 (2,400 sq. ft.); 36043 (5,000 sq. ft.)

Comments: off-site removal only; no future agency need; due to site relocation may be difficult; poor condition; secured area; contact Army for more information.

715

Fort Hood

Fort Hood TX 76544

Landholding Agency: Army

Property Number: 21201430047

Status: Excess

Comments: off-site removal only; 2,810 sq. ft.; semi-permanent structure type; 11+ months vacant; fair condition; contamination; secured area; contact Army for more information.

07133

Fort Bliss

Ft. Bliss TX 79916

Landholding Agency: Army

Property Number: 21201440011

Status: Unutilized

Comments: off-site removal only; no future agency need; relocation difficult due to size/type; 12,178 sq. ft.; storage; 120+ months vacant; poor conditions; contact Army for more information.

5 Buildings

Fort Bliss

Ft. Bliss TX 79916

Landholding Agency: Army

Property Number: 21201440012

Status: Unutilized

Directions: 07134; 07142; 07153; 07162; 07178

Comments: off-site removal only; no future agency need; relocation difficult due to size/type; sq. ft. varies; 120+ months vacant; poor conditions; contact Army for more information.

05095

Fort Bliss

Ft. Bliss TX 79916

Landholding Agency: Army

Property Number: 21201440022

Status: Unutilized

Comments: off-site removal only; no future agency need; 12+ months vacant; good conditions; secured area; contact Army for more information.

07113

Fort Bliss

Ft. Bliss TX 79916

Landholding Agency: Army

Property Number: 21201440023

Status: Unutilized

Comments: off-site removal only; 8,855 sq. ft.; no future agency need; relocation difficult due to size/type; 120+ months vacant; child-care center; poor conditions; contact Army for more information.

2 Buildings

Yoakum USARC

Yoakum TX 77995

Landholding Agency: Army

Property Number: 21201440035

Status: Underutilized

Directions: P1005; P1006

Comments: off-site removal only; no future agency need; 30 sq. ft.; storage for flammable materials; 53+ yrs.-old; remediation needed; contact Army for more information.

10 Buildings

USAG Fort Bliss

USAG Fort Bliss TX 79916

Landholding Agency: Army

Property Number: 21201520043

Status: Unutilized

Directions: Building 05096 (768 sq.); 08396 (198 sq.); 08395 (198 sq.); 08380 (900 sq.); 08365 (132 sq.); 08364 (432 sq.); 08309 (120 sq.); 08348 (108 sq.); 08268 (432 sq.); 08349 (100 sq.)

Comments: off-site removal; 28-70 yrs. old for bldgs. respectively above; admin; toilet; storg; range bldg.; off. qtrs.; vacant 12-60 mos.; poor cond; no future agency need; contact Army for more info.

90005; RPUID: 285770

Clarke Road

Fort Hood TX

Landholding Agency: Army

Property Number: 21201540012

Status: Excess

Comments: off-site removal only; removal extremely difficult due to type; 181 sq. ft.; Navigation Building, Air; contact Army for more information.

92044; RPUID: 286348

Loop Road

Fort Hood TX 76544

Landholding Agency: Army

Property Number: 21201540021

Status: Excess

Comments: off-site removal only; removal extremely difficult due to type/size; 1,920 sq. ft.; Admin General Purpose; lead and asbestos contamination; contact Army for more information.

1348 (RPUID: 313187)

North Avenue

Fort Hood TX 76544

Landholding Agency: Army

Property Number: 21201540022

Status: Excess

Comments: off-site removal only; 654 sq. ft.; Admin General Purpose; fair/moderate conditions; Asbestos located in Building caulking and putties; contact Army for more information.

91003; RPUID: 286087

West Headquarters Avenue

Fort Hood TX 76544

Landholding Agency: Army

Property Number: 21201540025

Status: Excess

Comments: off-site removal only; removal extremely difficult due to type; 325 sq. ft.; Storage General Purpose; possible lead and asbestos contamination; contact Army for more information.

36017; RPUID: 174093

Wratten Drive

Fort Hood TX 76544

Landholding Agency: Army

Property Number: 21201540027

Status: Excess

Comments: off-site removal only; removal extremely difficult due to type/size; 2,400 sq. ft.; Laboratory; contact Army for more information.

12 Buildings

Fort Hood

Fort Hood TX

Landholding Agency: Army

Property Number: 21201610030

Status: Excess

Directions: 56204:311933 240 sq.; 56191:170499 200 sq.; 56167:171025 240 sq.; 56153:172770 200 sq.; 56186:312163 240 sq.; 56178:312162 350 sq.; 56144:172878 240 sq.; 56141:17255 240 sq.; 56119:314224 200 sq.; 56123:314228 240 sq.; 56116:314216 240 sq.; 56003:172568 248 sq.

Comments: off-site removal only; 13+-22+yrs old; toilet/shower; contact Army for more information.

12 Buildings

Foot Hood

Foot Hood TX

Landholding Agency: Army

Property Number: 21201610031

Status: Excess

Directions: 56224:172687 80 sq.; 56211:172817 200 sq.; 56243:172623 240 sq.; 56256:172644 220 sq.; 56264:312164 240 sq.; 56283:171026 240 sq.; 56258:172645 220 sq.; 56338 117 sq.; 56291:170733 200 sq.; 56236:172643 384 sq.; 56228:314213 80 sq.; 56226:172828 80 sq.

Comments: off-site removal only; 1+-28+ yrs. old; toilet/shower; contact Army for more information.

4 Buildings

Fort Hood

Fort Hood TX

Landholding Agency: Army

Property Number: 21201610032

Status: Unutilized

Directions: Building 92062 RPUID:286949 96 Sq. ft.; A4211 RPUID:182761 87 sq. ft.; 92043 RPUID:286347 464 sq. ft.; 90073 RPUID:286004 120 sq. ft.

Comments: off-site removal only; 34+-64+ yrs. old; power plant; storage; no future agency need; contact Army for more information.

5 Buildings

Fort Hood

Fort Hood TX 76544

Landholding Agency: Army

Property Number: 21201610053

Status: Excess

Directions: 2028-RPUID:171488 (7,848 sq. ft.); 51018-RPUID:169913 (11,854 sq. ft.); 2032-RPUID:171492 (1,288 sq. ft.); 51019-RPUID:169914 (11,854 sq. ft.); 4262-RPUID: 312301 (11,854 sq. ft.)

Comments: off-site removal only; 14+-79+ yrs. old; storage; maintenance shop; toilet/shower; maybe difficult to move; contact Army for more information.

5 Buildings

Fort Hood

Fort Hood TX 76544

Landholding Agency: Army

Property Number: 21201610055

Status: Excess

Directions: 11020-RPUID:181444 (1,224 sq. ft.); 4611-RPUID:314513 (11,854 sq. ft.); 51017-RPUID:169912 (11,854 sq. ft.); 51015-RPUID:169910 (11,854 sq. ft.); 7020-RPUID:584784 (6,104 sq. ft.)

Comments: off-site removal only; 13+-49+ yrs. old; storage; battery shop; battalion hdqts.; may be difficult to move; contact Army for more information.

6 Buildings

Fort Hood

Fort Hood TX 76544

Landholding Agency: Army

Property Number: 21201610056

Status: Excess

Directions: 51020-RPUID:169909 (11,854 sq. ft.); 51016-RPUID:169911 (11,854 sq. ft.); 91003-RPUID:286087 (325 sq. ft.); 92065-RPUID:286952 (3,994 sq. ft.); 421-RPUID:171462 (10,752 sq. ft.); 1156-RPUID:171784 (7,079 sq. ft.)

Comments: off-site removal only; 10+-73+ yrs. old; storage; administrative; health clinic; may be difficult to move; contact Army for more information.

3 Buildings

Fort Hood

Fort Hood TX 76544

Landholding Agency: Army

Property Number: 21201610057

Status: Unutilized

Directions: 233-RPUID:170829 (2,250 sq. ft.); 230-RPUID:170826 (5,851 sq. ft.); 229-RPUID:170825 (7,310 sq. ft.)

Comments: off-site removal only; 73+-74+ yrs. old; training aids center; no future agency need; contact Army for more information.

Building Number 4499

77th Street

Fort Hood TX 76544

Landholding Agency: Army

Property Number: 21201610059

Status: Excess

Directions: RPUID:314497

Comments: 29+ yrs. old; 2,449 sq. ft.; shed; contact Army for more information.

20 Buildings

Red River Army Depot

Texarkana TX 75507

Landholding Agency: Army

Property Number: 21201630001

Status: Excess

Directions: 02095; 02101; 02109; 02113; 02125; 02127; 02135; 02143; 02145; 02197; 02263; 02261; 02205; 02255; 02249; 02247; 02241; 02211; 02217; 02235

Comments: off-site removal only; poor conditions; 168 sq. ft. each; safety shelters; contact Army for more details on a specific property listed above.

15 Buildings

Red River Army Depot

Texarkana TX 75507-5000

Landholding Agency: Army

Property Number: 21201630002

Status: Excess

Directions: 02287; 02275; 02271; 02379; 02289; 02323; 02351; 02397; 02403; 02419; 02423; 02383; 02093; 02305; 02309

Comments: off-site removal only; poor conditions; 168 sq. ft. for each; contact Army for more details on a specific property listed above.

2 Buildings

Red River Army Depot

Texarkana TX 75507

Landholding Agency: Army

Property Number: 21201630005

Status: Excess

Directions: 02369 (257 sq. ft.; access control facility); 00450 (44 sq. ft.; FE Maint.)

Comments: off-site removal only; very poor conditions; contact Army for more specific details on a property listed above.

Utah

Building 00030

Tooele Army Depot

Tooele UT 84074

Landholding Agency: Army

Property Number: 21201310067

Status: Underutilized

Comments: off-site removal only; playground; disassembly required; minor restoration needed; restricted area; contact Army for accessibility/removal reqs.

Building 01322

1 Tooele Army Depot

Tooele UT 84074

Landholding Agency: Army

Property Number: 21201330047

Status: Unutilized

Comments: off-site removal only; no future agency need; 53 sf.; 26+ months vacant; access control facility; poor conditions; secured area; contact Army for more info. on accessibility removal reqs.

Virginia

2799 Harrison Loop

JBLE Ft. Eustis

Ft. Eustis VA

Landholding Agency: Air Force

Property Number: 18201620011

Status: Unutilized

Comments: off-site removal only; no future agency need; Admin.; 5,700 sq. ft.; extreme. difficult to remove; very poor conditions; lead; contact Air Force for more info.

2785 Harrison Loop

JBLE Ft. Eustis

Ft. Eustis VA

Landholding Agency: Air Force

Property Number: 18201620012

Status: Unutilized

Comments: off-site removal only; no future agency need; 7,715 sq. ft.; extreme. difficult to remove; Admin. very poor conditions; contact Air Force for more info.

811 Gaffy Place

JBLE Ft. Eustis

Ft. Eustis VA

Landholding Agency: Air Force

Property Number: 18201620013

Status: Unutilized

Comments: off-site removal only; no future agency need; extreme. difficult to remove; 40,166 sq. ft.; barracks; very poor conditions; contact Air Force for more info.

652 Williamson Loop

JBLE Ft. Eustis

Ft. Eustis VA

Landholding Agency: Air Force

Property Number: 18201620014

Status: Unutilized

Comments: off-site removal only; no future agency need; extreme. difficult remove; 3,214 sq. ft.; storage; very poor conditions; contact Air Force for more info.

2749 Taylor Ave.

JBLE Ft. Eustis

Ft. Eustis VA

Landholding Agency: Air Force

Property Number: 18201620015

Status: Unutilized

Comments: off-site removal only; no future agency need; 100 sq. ft.; storage; very poor conditions; contact Air Force for more info.

876 Lee Blvd.

JBLE

Ft. Eustis VA 23604

Landholding Agency: Air Force

Property Number: 18201620018

Status: Unutilized

Comments: off-site removal only; no future agency need; 651 sq. ft.; office; very poor conditions; contact Air Force for more info.

2703

Marshall St.

Ft. Eustis VA 23604

Landholding Agency: Air Force

Property Number: 18201620019

Status: Unutilized

Comments: off-site removal only; no future agency need; difficult to remove; 1,200 sq. ft.; storage; very poor conditions; contact Air Force for more info.

3913

Mulberry Island Rd.

Ft. Eustis VA 23604

Landholding Agency: Air Force

Property Number: 18201620020

Status: Unutilized

Comments: off-site removal only; no future agency need; 767 sq. ft.; very poor conditions; contact Air Force for more info.

2794 Harrison Loop

JBLE

Ft. Eustis VA

Landholding Agency: Air Force

Property Number: 18201620022

Status: Unutilized

Comments: off-site removal only; no future agency need extreme. difficult to remove; 6,782 sq. ft.; Admin.; very poor conditions; contact Air Force for more info.

822 Lee Blvd.

Fort Eustis VA 23604

Landholding Agency: Air Force

Property Number: 18201620034

Status: Unutilized

Comments: 8+ yrs old; 205 sq. ft.; heat plant facility; vacant 7+ mos.; beyond economic repair; no future agency need; contact AF for more information.

663 Darcy Pl.

JBLE

Ft. Eustis VA

Landholding Agency: Air Force

Property Number: 18201630016

Status: Unutilized

Comments: off-site removal only; no future agency need; 40,090 sq. ft.; relocation extremely difficult due to size/type; barracks; contact Air Force for more details.

9 Buildings

Ft. Belvoir

Ft. Belvoir VA 22060

Landholding Agency: Army

Property Number: 21201240003

Status: Unutilized

Directions: 358, 361, 1140, 1141, 1142, 1143, 1498, 1499, 2302

Comments: off-site removal only; sf. varies; Admin.; fair conditions; located in restricted area; contact Army for info. on accessibility/removal & specific info. on a property.

510

Defense Supply Center

Richmond VA 23237

Landholding Agency: Army

Property Number: 21201430007

Status: Excess

Directions: 510

Comments: off-site removal only; removal may be difficult due to structure type; Barbeque Pit; 20 sq. ft.; 22+ years old; secured area; contact Army for more information.

Building 22696

Fort Drum

Ft. Drum VA 13602

Landholding Agency: Army

Property Number: 21201510015

Status: Unutilized

Comments: off-site removal only; no future agency need; removal may be difficult; 400 sq. ft.; range operations bldg.; deteriorated; contact Army for more information.

T-482

JB Myer Henderson Hall

Ft. Myer VA 22211

Landholding Agency: Army

Property Number: 21201520003

Status: Excess

Comments: off-site removal only; 8,267 sq. ft.; relocation may be difficult to size; office; 6+ months vacant; contact Army for more information.

Building 8400

Fort Lee

Fort Lee VA 23801

Landholding Agency: Army

Property Number: 21201610029

Status: Underutilized

Comments: 61+ yrs. old; 9,878 sq. ft.; dining facility; requires extensive renovation; prior approval to gain access is required; building in use; contact Army for more information.

1201; RPUID: 572697

Fort A.P. Hill

Ft. A.P. Hill VA 22427

Landholding Agency: Army

Property Number: 21201640008

Status: Underutilized

Comments: off-site removal only; no future agency need; relocation extremely difficult due to size/type; airfield ops. bldg.; fair/poor conditions; contact Army for more info.

Washington

E1302 & R7610

JBLM

JBLM WA 98433

Landholding Agency: Army

Property Number: 21201230028

Status: Unutilized

Comments: 80 sf. (E1302); 503 sf. (R7610); use: varies; major repairs needed; secured area; contact Army re: accessibility requirements.

Bldg. 06239

Joint Base Lewis McChord

JBLM WA 90433

Landholding Agency: Army

Property Number: 21201430053

Status: Unutilized

Comments: off-site removal only; no future agency need; deconstruct to relocate; difficult to relocate due to size/type; poor conditions; contact Army for more info.

23 Buildings

Joint Base Lewis McChord

JBLM WA 98433

Landholding Agency: Army

Property Number: 21201430054

Status: Underutilized

Directions: 03223; 03225; 03627; 03628; 03629; 03632; 03638; 03640; 03641; 03643; 03644; 03645; 06991; 09663; 09998; 11680; A0303; C1342; F0017; F0018; J0831; J0833; W3641

Comments: off-site removal only; no future agency need; deconstruct to relocate; difficult to relocate due to type/size; poor conditions; secured area; contact for more info.

Building 02080

Joint Base Lewis McChord

JBLM WA 98433

Landholding Agency: Army

Property Number: 21201440048

Status: Underutilized

Comments: off-site removal only; no future agency need; relocation may be difficult due to type/size; 2,031 sq. ft.; storage; 1+ month vacant; major repairs needed; contact Army for more information.

2 Buildings

Joint Base Lewis McChord

JBLM WA 98433

Landholding Agency: Army

Property Number: 21201440057

Status: Underutilized

Directions: 01036; 01037

Comments: off-site removal only; no future agency need; relocation extremely difficult due to size; 8,142 sq. ft. for each; major repairs needed; contact Army for more information.

5 Buildings

Joint Base Lewis McChord

JBLM WA 98433

Landholding Agency: Army

Property Number: 21201510042

Status: Underutilized

Directions: D0110 (148 sq. ft.); 03933 (192 sq. ft.); O04ED (48 sq. ft.); 14109 (225 sq. ft.); 09643 (720 sq. ft.)

Comments: off-site removal only; no future agency need; significant repairs needed; contact Army for more information on a specific property.

Building 03932

Joint Base Lewis McChord

JBLM WA 98433

Landholding Agency: Army

Property Number: 21201520001

Status: Underutilized

Comments: off-site removal only; no future agency need; 120 sq. ft.; storage; 49+ yrs.; significant repairs for restoration; contamination; contact Army for accessibility and removal requirements.

Pair of Adjacent one-hole pit

State Hwy 261/Lyons Ferry State Park

Starbuck WA 99359

Landholding Agency: Army

Property Number: 21201610046

Status: Excess

Comments: 36+ yrs. old; 36 sq. ft. each; toilets; poor conditions; contact ARMY for more information.

Wisconsin

5 Buildings

Milwaukee USARC/AMSA #49

Milwaukee WI 53218

Landholding Agency: Army

Property Number: 21201640011

Status: Unutilized

Directions: 00312- 3,216 sq. ft. (968290); 00308- 14,903 sq. ft. (968288); 00307-9,657 sq. ft. (968287); 00316- 54 sq. ft. (587956); 00314- 136 sq. ft. (621067)

Comments: off-site removal only; no future agency need; relocation extremely difficult for some due to size/type; poor conditions; contact Army for more info. on a specific property listed above.

Land

Illinois

Outer Marker & Bldg. 262

South East of Mascoutah off Highbanks Road

Mascoutah IL 62258

Landholding Agency: Air Force

Property Number: 18201630013

Status: Unutilized

Comments: 62+ yrs. old; 333 sq. ft.; unusable, beyond repair; asbestos walls; sits on .87 acres of land; requires easement for roads to access property; contact AF for more information.

Suitable/Unavailable Properties

Building

California

00806

Fort Hunter Liggett

Fort Hunter Liggett CA 93928

Landholding Agency: Army

Property Number: 21201410017

Status: Unutilized

Comments: off-site removal only; no future agency need; 1,600 sq. ft.; 60+ months vacant; poor conditions; exposed to elements/wildlife; secured area; contact Army for more info.

Georgia

1096

Fort Stewart

Ft. Stewart GA 31314

Landholding Agency: Army

Property Number: 21201410001

Status: Excess

Comments: off-site removal only; due to structure type relocation may be difficult; poor conditions; 7,643 sq. ft.; secured area; contact Army for more information.

3 Buildings

Hunter Army Airfield

Hunter Army Airfield GA 31409

Landholding Agency: Army

Property Number: 21201410002

Status: Excess

Directions: 1126 (1,196 sq.); 1127 (1,196 sq. ft.); 1129 (5,376 sq. ft.)

Comments: off-site removal only; dissemble required; poor conditions; secured area; gov't escort required; contact Army for more information.

1124

Hunter Army Airfield

Hunter Army Airfield GA 31409

Landholding Agency: Army

Property Number: 21201410010

Status: Excess

Comments: off-site removal only; 1,188 sq. ft.; due to structure type relocation may be difficult; poor conditions; secured area; contact Army for more info.

Louisiana

8 Buildings

Fort Polk

Fort Polk LA 71459

Landholding Agency: Army

Property Number: 21201340023

Status: Underutilized

Directions: 3337,3339,3405,3409,3491,3728,4550,4798? ? (Please Note: buildings 3728 and 4798 are SUITABLE/AVAILABLE)

Comments: Off-site removal only; no future agency need; sq. ft. varies; poor conditions; contact Army for more information on a specific property & removal requirement.

Texas

Building 6924

11331 Montana Ave.

Ft. Bliss TX 79916

Landholding Agency: Army

Property Number: 21201240012

Status: Excess

Comments: off-site removal only; 10,340 sf.; aircraft hangar; poor conditions; limited public access; contact Army for info. on accessibility/removal.

8 Buildings

Fort Hood

Ft. Hood TX 76544

Landholding Agency: Army

Property Number: 21201410020

Status: Excess

Directions: 94030 (2,567 sq. ft.); 90083 (150 sq. ft.); 26011 (4,789 sq. ft.); 26010 (4,735 sq. ft.); 26009 (4,735 sq. ft.); 26008 (4,735 sq. ft.); 26007 (4,735 sq. ft.); 08640 (3,735 sq. ft.)

Comments: off-site removal only; removal difficult due to structure type; contamination; secured area; contact Army for more information.

9 Buildings

Fort Hood

Fort Hood TX 96544

Landholding Agency: Army

Property Number: 21201410021

Status: Excess

Directions: 04481 (48 sq. ft.); 4292 (1,830 sq. ft.); 4291 (6,400 sq. ft.); 04290 (674 sq. ft.); 4283 (8,940 sq. ft.); 4281 (2,000 sq. ft.); 04273 (687 sq. ft.); 04206 (651 sq. ft.); 04203 (2,196 sq. ft.)

Comments: off-site removal only; removal may be difficult due to structure type; secured area; contact Army for more information.

8 Buildings

Fort Hood

Fort Hood TX 76544

Landholding Agency: Army

Property Number: 21201410023

Status: Excess

Directions: 07035 (1,702 sq. ft.); 7008 (288 sq. ft.); 6987 (192 sq. ft.); 04643 (4,017 sq. ft.); 04642 (4,017 sq. ft.); 04619 (4,103 sq. ft.); 04496 (284 sq. ft.); 04495 (347 sq. ft.)

Comments: off-site removal only; removal may be difficult due to structure type; secured area; contact Army for more information.

8 Buildings

Fort Hood

Ft. Hood TX 76544

Landholding Agency: Army

Property Number: 21201410028

Status: Excess

Directions: 04163, 04165, 51015, 51016, 51017, 51018, 51019, 51020

Comments: off-site removal only; sq. ft. varies; secured area; contact Army for specific property and/or accessibility/removal reqs.

Washington

03215

Joint Base Lewis McChord

JBLM WA 98433

Landholding Agency: Army

Property Number: 21201410008

Status: Underutilized

Comments: off-site removal only; still existing Federal need; due to age/structure relocation may be difficult; 33,460 sq. ft.; 61+ yrs.-old; barracks; significant renovations; secured area; contact Army.

03221

Joint Base Lewis McChord

JBLM WA 98433

Landholding Agency: Army

Property Number: 21201410039

Status: Underutilized

Comments: off-site removal only; still existing Federal need; dissemble may be required; 33,460 sq. ft.; may be difficult to relocate due to sq. ft. & structure type; contact Army for more info.

Alabama

Bldg. 7358A

Sandpiper Road

Redstone Arsenal AL 35898

Landholding Agency: Army

Property Number: 21201140047

Status: Unutilized

Reasons: Secured Area Within 2000 ft. of flammable or explosive material

Bldg. C1302

null

Fort McClellan AL 36205

Landholding Agency: Army

Property Number: 21201140073

Status: Unutilized

Reasons: Extensive deterioration Secured Area

106

Red Arsenal

Red Arsenal AL 35898

Landholding Agency: Army

Property Number: 21201430048

Status: Unutilized

Comments: documented deficiencies: building is collapsing; extensive conditions that represents a clear threat to personal physical safety.

Reasons: Extensive deterioration

C1310

Fort McClellan

Ft. McClellan AL 36205

Landholding Agency: Army

Property Number: 21201440032

Status: Unutilized

Comments: public access denied and no alternative method to gain access w/out compromising national security.

Reasons: Secured Area

4812

Redstone Arsenal

Redstone Arsenal AL 35898

Landholding Agency: Army

Property Number: 21201440039

Status: Unutilized

Comments: documented deficiencies: suffered major damage from tornado; roof torn completely off; clear threat to physical safety

Reasons: Extensive deterioration

2 Buildings

Redstone Arsenal

Redstone Arsenal AL 35898

Landholding Agency: Army

Property Number: 21201520024

Status: Unutilized

Directions: Buildings 4122, 4123

Comments: public access denied and no alternative method to gain access without compromising national security.

Reasons: Secured Area Within 2000 ft. of flammable or explosive material

Building 4120A

4120A Redstone Road

Redstone AL 35898

Landholding Agency: Army

Property Number: 21201520025

Status: Unutilized

Comments: flammable/explosive material are located on adjacent industrial, commercial, or Federal facility. Further detailed provided under “comments” below.

Reasons: Within 2000 ft. of flammable or explosive material

Building 4120

4120 Redstone Road

Madison AL 35898

Landholding Agency: Army

Property Number: 21201520045

Status: Unutilized

Comments: flam./explosive material is located on adjacent indus.; commercial, or Federal facility; Further details provided. Public access denied & no alt. method to gain access w/out compromising Nat. Sec.

Reasons: Within 2000 ft. of flammable or explosive material Secured Area

Building 7352

Redstone Arsenal; Flicker Rd.

Redstone Arsenal AL 35898

Landholding Agency: Army

Property Number: 21201530090

Status: Unutilized

Comments: 2,000 ft. within explosive testing conducted on surrounding properties; suffered major damage due to explosive testing; structurally unsound.

Reasons: Extensive deterioration Within 2000 ft. of flammable or explosive material

3 Buildings

Redstone Arsenal

Redstone Arsenal AL

Landholding Agency: Army

Property Number: 21201530091

Status: Unutilized

Directions: 7358; 7309; 7810

Comments: 2,000 ft. w/in explosive testing conducted on surrounding properties.

Reasons: Within 2000 ft. of flammable or explosive material

8 Buildings

Ft. McClellan Training Center

Ft. McClellan AL 36205

Landholding Agency: Army

Property Number: 21201610004

Status: Unutilized

Directions: C1328:300651; C1327:300650; C1323:300647; C1356:300653; C1324:300648; C1355:302115; C1321:299707; C1317:299705

Comments: public access denied and no alternative method to gain access without compromising national security.

Reasons: Secured Area

2 Buildings

Ft. McClellan Training Center

Ft. McClellan AL 36206

Landholding Agency: Army

Property Number: 21201610033

Status: Unutilized

Directions: P8205 RPUID:303146; P8604 RPUID:302852

Comments: public access denied and no alternative method to gain access without compromising national security.

Reasons: Secured Area

2 Buildings

Redstone Arsenal

Redstone Arsenal AL 35898

Landholding Agency: Army

Property Number: 21201610038

Status: Unutilized

Directions: 115 RPUID:365235 (2,787 sq. ft.); 7549 RPUID:367945 (3,200 sq. ft.)

Comments: flammable/explosive materials are located on adjacent industrial, commercial, or Federal facility; which covers 38,138 acres.

Reasons: Within 2000 ft. of flammable or explosive material

5 Buildings

Military Ocean Terminal Concord

Concord AL 94520

Landholding Agency: Army

Property Number: 21201620018

Status: Unutilized

Directions: 00350: RPUID:959486; 00352: RPUID:959488; 00100: RPUID:959345; 00262: RPUID:1039404; 00283: RPUID:959484

Comments: public access denied and no alternative method to gain access without compromising national security.

Reasons: Secured Area

Alaska

Hanger Nose Dock 5

2685 Flight Line Ave.

Eielson Air Force Bas AK 99702

Landholding Agency: Air Force

Property Number: 18201620023

Status: Unutilized

Comments: public access denied and no alternative method to gain access without compromising national security; property located within an airport runway clear zone or military airfield.

Reasons: Within airport runway clear zone Secured Area

Vehicle Operations Heat Pkng.

Building 32448

JBER

JBER AK

Landholding Agency: Air Force

Property Number: 18201640004

Status: Unutilized

Comments: public access denied and no alternative method to gain access without compromising national security.

Reasons: Secured Area

Hangar Maintenance

(Facility #100)

TKLH Point Barrow LRRS

USAF AK 99723

Landholding Agency: Air Force

Property Number: 18201640005

Status: Unutilized

Directions: Contaminants that are located on property, documented hazardous levels. Documentation provided represents a clear threat to personal physical safety; PCB contaminated soil.

Comments: property located within an airport runway & within floodway which has not been correct or contained.

Reasons: Within airport runway clear zone; Floodway; Contamination

Terminal, Air Freight

(Facility #003)

AYED Barter Island LRRS

Barter Island AK 99747

Landholding Agency: Air Force

Property Number: 18201640006

Status: Unutilized

Comments: contaminants located on property; PCB, arsenic & chromium; property located within an airport runway & within floodway which has not been corrected or contained.

Reasons: Contamination; Within airport runway clear zone; Floodway

Latrine (Pedneau Range)

Building 59192

JBER

JBER AK 99505

Landholding Agency: Air Force

Property Number: 18201640019

Status: Excess

Comments: public access denied and no alternative method to gain access without compromising national security.

Reasons: Secured Area

Eielson Education Center

Eielson Air Force Base

Eielson AFB AK 99702

Landholding Agency: Air Force

Property Number: 18201640045

Status: Unutilized

Comments: public access denied and no alternative method to gain access without compromising national security.

Reasons: Secured Area

Building 59182 Control Tower

at Peandneau Range JBER

JBER AK 99505

Landholding Agency: Air Force

Property Number: 18201640046

Status: Excess

Comments: public access denied and no alternative method to gain access without compromising national security.

Reasons: Secured Area

Latrine at Malmate Range

Building 59531 JBER

JBER AK 99506

Landholding Agency: Air Force

Property Number: 18201640047

Status: Unutilized

Comments: public access denied and no alternative method to gain access without compromising national security.

Reasons: Secured Area

Bldgs. 789-790

Fort Richardson

Anchorage AK 99505

Landholding Agency: Army

Property Number: 21201030001

Status: Unutilized

Reasons: Secured Area

Building 2092

Kinney Rd.

Fort Wainwright AK 99703

Landholding Agency: Army

Property Number: 21201540005

Status: Underutilized

Comments: located w/in floodway which has not been corrected or contained; public access denied and no alternative method to gain access without compromising national security.

Reasons: Secured Area Floodway

Building 3562B

3562B Neely Road

Fort Wainwright AK 99703

Landholding Agency: Army

Property Number: 21201610048

Status: Underutilized

Directions: RPUID:1176767

Comments: public access denied and no alternative method to gain access without compromising national security.

Reasons: Secured Area

Arizona

S0350

Camp Navajo

Bellemont AZ 86015

Landholding Agency: Army

Property Number: 21201410006

Status: Unutilized

Comments: public access denied and no alternative method to gain access w/out compromising national security.

Reasons: Secured Area

L5322

FMR East

Florence AZ 85232

Landholding Agency: Army

Property Number: 21201510044

Status: Underutilized

Comments: public access denied and no alternative method to gain access without compromising national security.

Reasons: Secured Area

4 Buildings

5636 E. McDowell Road

Phoenix AZ 85008

Landholding Agency: Army

Property Number: 21201520006

Status: Excess

Directions: Building M5352, M5354, M5358, M5356

Comments: flammable materials located on adjacent property w/in 200 ft.

Reasons: Within 2000 ft. of flammable or explosive material

Arkansas

16340

Fleming Drive

Pine Bluff Arsenal AR 71602

Landholding Agency: Army

Property Number: 21201540035

Status: Unutilized

Comments: public access denied and no alternative method to gain access without compromising national security.

Reasons: Secured Area

11 Buildings

Pine Bluff Arsenal

Pine Bluff AR 71602

Landholding Agency: Army

Property Number: 21201610006

Status: Unutilized

Directions: #60090; 60520; 34160; 60070; 32130; 32140; 32150; 60060; 64251; 64351; 34985

Comments: public access denied and no alternative method to gain access without compromising national security.

Reasons: Secured Area

3 Buildings

Pine Bluff Arsenal

Pine Bluff AR 71602

Landholding Agency: Army

Property Number: 21201610049

Status: Unutilized

Directions: Building #85131, 83611, 81020

Comments: public access denied and no alternative method to gain access without compromising national security.

Reasons: Secured Area

California

Building 78

Fort MacArthur

San Pedro CA

Landholding Agency: Air Force

Property Number: 18201620026

Status: Underutilized

Comments: public access denied and no alternative method to gain access without compromising national security.

Reasons: Secured Area

Building 285

Ft. MacArthur

El Segundo CA

Landholding Agency: Air Force

Property Number: 18201620027

Status: Excess

Comments: public access denied and no alternative method to gain access without compromising national security.

Reasons: Secured Area

Building 72

Fort MacArthur

San Pedro CA 90731

Landholding Agency: Air Force

Property Number: 18201620030

Status: Underutilized

Comments: public access denied and no alternative method to gain access without compromising national security; Flammable/explosive; diesel fuel adjacent to bldg. 75.

Reasons: Secured Area

13 Bldgs.

Fort Irwin

San Bernardino CA 92310

Landholding Agency: Army

Property Number: 21201040003

Status: Unutilized

Directions: 100, 338, 343, 385, 411, 412, 413, 486, 489, 490, 491, 493, 5006

Reasons: Secured Area

4 Bldgs.

JFTB

Los Alanitos CA 90720

Landholding Agency: Army

Property Number: 21201110046

Status: Excess

Directions: 00147, 00207, 00259, 00297

Reasons: Extensive deterioration

Bldg. 00023

Sierra Army Depot

Herlong CA

Landholding Agency: Army

Property Number: 21201120054

Status: Unutilized

Reasons: Secured Area

2 Bldgs.

Sierra Army Depot

Herlong CA 96113

Landholding Agency: Army

Property Number: 21201140076

Status: Unutilized

Directions: 00349, 00587

Reasons: Contamination Secured Area Extensive deterioration

Bldg. 00203

4th Street, Sierra Army Depot

Herlong CA 96113

Landholding Agency: Army

Property Number: 21201140077

Status: Unutilized

Reasons: Contamination Secured Area

13 Building

Sierra Army Depot

Herlong CA 96113

Landholding Agency: Army

Property Number: 21201240032

Status: Unutilized

Directions: 10, 20, 54, 141, 202, 227, 633, 634, 639, 640, 641, 642, 643

Comments: located in a secured area, public access is denied and no alternative method to gain access without compromising national security.

Reasons: Secured Area

Building 179

Sharpe Site

Lathrop CA 95231

Landholding Agency: Army

Property Number: 21201330072

Status: Unutilized

Directions: 179

Comments: public access denied and no alternative method to gain access w/out compromising Nat'l security.

Reasons: Secured Area

Building 178

Defense Distribution San Joaquin, Sharpe Site

700 E Roth Road

San Joaquin CA 95231

Landholding Agency: Army

Property Number: 21201340024

Status: Unutilized

Directions: 178

Comments: public access denied and no alternative method to gain access without compromising national security.

Reasons: Secured Area

3 Buildings

Sierra Army Depot

Herlong CA 96113

Landholding Agency: Army

Property Number: 21201520023

Status: Unutilized

Directions: Buildings 00502, 00503, 00504

Comments: public access denied and no alternative method to gain access without compromising national security.

Reasons: Secured Area

Building 275

275 7th Division Road

Fort Hunter Liggett CA 93928

Landholding Agency: Army

Property Number: 21201520027

Status: Unutilized

Comments: public access denied and no alternative method to gain access without compromising national security.

Reasons: Secured Area

10 Buildings

Military Ocean Terminal Concord

Concord CA 94520

Landholding Agency: Army

Property Number: 21201530033

Status: Unutilized

Directions: Buildings 0E103-RPUID:960149, 0E101-960148, 00A32-959952, 00A29-959951, 00A17-959945, 00A16-959944, 00A14-1039400, 00A11-1039401, 00A10-959942, 00407-959923

Comments: public access denied and no alternative method to gain access without compromising national security.

Reasons: Secured Area

Building 00083

Sierra Army Depot

Herlong CA 96113

Landholding Agency: Army

Property Number: 21201530034

Status: Underutilized

Directions: RPUID:200781

Comments: public access denied and no alternative method to gain access without compromising national security.

Reasons: Secured Area

4 Buildings

Sierra Army Depot

Herlong CA 96113

Landholding Agency: Army

Property Number: 21201530035

Status: Unutilized

Directions: 536-RPUID:7277536, 129-197360, 00577-202547, 679-203542

Comments: public access denied and no alternative method to gain access without compromising national security.

Reasons: Secured Area

2 Buildings

Sierra Army Depot

Herlong CA 96113

Landholding Agency: Army

Property Number: 21201530036

Status: Excess

Directions: Building 00187-RPUID:197384, 00183-197382

Comments: public access denied and no alternative method to gain access without compromising national security.

Reasons: Secured Area

Building 01265

Sierra Army Depot

Herlong CA 96113

Landholding Agency: Army

Property Number: 21201530057

Status: Unutilized

Comments: public access denied and no alternative method to gain access without compromising National Security.

Reasons: Secured Area

2 Buildings

Sierra Army Depot

Herlong CA 96113

Landholding Agency: Army

Property Number: 21201530086

Status: Unutilized

Directions: 02105 RPUID:203564; 02106 RPUID:203565

Comments: public access denied and no alternative method to gain access without compromising national security.

Reasons: Secured Area

2 Buildings

Sierra Army Depot

Herlong CA 96113

Landholding Agency: Army

Property Number: 21201530097

Status: Unutilized

Directions: 02105 (203564); 012106 (203565)

Comments: public access denied and no alternative method to gain access w/out compromising national security.

Reasons: Secured Area

Defense Distribution San Joaquin

#1; 26500 S. Chrisman Road

Tracy CA 95304

Landholding Agency: Army

Property Number: 21201620008

Status: Unutilized

Comments: public access denied and no alternative method to gain access without compromising national security.

Reasons: Secured Area

6 Buildings

Sierra Army Depot

Herlong CA 96113

Landholding Agency: Army

Property Number: 21201620010

Status: Unutilized

Directions: 00180: RPUID:197379; 00182: RPUID:197381; 00319: RPUID:197415; 00176: RPUID:197375; 0179: RPUID:197378; 00181: RPUID:197380

Comments: public access denied and no alternative method to gain access without compromising national security.

Reasons: Secured Area

8 Buildings

Sierra Army Depot

Herlong CA 96113

Landholding Agency: Army

Property Number: 21201620011

Status: Unutilized

Directions: 00019: RPUID:200744; 00018: RPUID:200743; 00016: RPUID:200741; 00015: RPUID:200740; 00025: RPUID:200750; 00024: RPUID:200749; 00022: RPUID:200747; 00021: RPUID:200746

Comments: public access denied and no alternative method to gain access without compromising national security.

Reasons: Secured Area

5 Buildings

Military Ocean Terminal Concord

Military Ocean Termin CA 94520

Landholding Agency: Army

Property Number: 21201620012

Status: Unutilized

Directions: Building 00E61: RPUID:959953; 00A31: RPUID:1039399; 00S51: RPUID:960038; 00S45: RPUID:960035

Comments: public access denied and no alternative method to gain access without compromising national security.

Reasons: Secured Area

00IA2: RPUID:1039398

Military Ocean Terminal Concord

Concord CA 94520

Landholding Agency: Army

Property Number: 21201620016

Status: Unutilized

Comments: public access denied and no alternative method to gain access without compromising national security.

Reasons: Secured Area

4 Buildings

5604 Exercise Street

Dublin CA 94568

Landholding Agency: Army

Property Number: 21201620026

Status: Unutilized

Directions: 985: RPUID:376808; 986: RPUID:376809; 987: RPUID:376810; 984: RPUID:376807

Comments: public access denied and no alternative method to gain access without compromising national security.

Reasons: Secured Area

2 Buildings

Military Ocean Terminal Concord

Concord CA 94520

Landholding Agency: Army

Property Number: 21201630024

Status: Unutilized

Directions: 00297-RPUID:1095150, 00296-RPUID:1095149

Comments: public access denied and no alternative method to gain access without compromising national security.

Reasons: Secured Area

5 Buildings

Sierra Army Depot

Herlong CA

Landholding Agency: Army

Property Number: 21201710005

Status: Unutilized

Directions: Building 2115 (RPUID:203569); 2100 (RPUID:203559); 65C (RPUID:200770); TE000 (RPUID:203559); 65 (RPUID:200770)

Comments: public access denied and no alternative method to gain access without compromising national security.

Reasons: Secured Area

Trailer 1725-Mars Modular

T1723 Restroom

4800 Oak Grove Drive

Pasadena CA 91109

Landholding Agency: NASA

Property Number: 71201710001

Status: Excess

Directions: Jet Propulsion Laboratory

Comments: public access denied and no alternative method to gain access without compromising national security.

Reasons: Secured Area

Trailer 1724-Mar Modular

T1722 Restroom

4800 Oak Grove Drive

Pasadena CA 91109

Landholding Agency: NASA

Property Number: 71201710002

Status: Excess

Directions: Jet Propulsion Laboratory

Comments: public access denied and no alternative method to gain access without compromising national security.

Reasons: Secured Area

Trailer 1721

Jet Propulsion Laboratory

4800 Oak Grove Drive

Pasadena CA 91109

Landholding Agency: NASA

Property Number: 71201710003

Status: Excess

Comments: public access denied and no alternative method to gain access without compromising national security.

Reasons: Secured Area

Trailer 1720

Jet Propulsion Lab

4800 Oak Grove Drive

Pasadena CA 91109

Landholding Agency: NASA

Property Number: 71201710004

Status: Excess

Comments: public access denied and no alternative method to gain access without compromising national security.

Reasons: Secured Area

Trailer 1719

4800 Oak Grove Drive

Jet Propulsion Lab

Pasadena CA 91109

Landholding Agency: NASA

Property Number: 71201710005

Status: Excess

Comments: public access denied and no alternative method to gain access without compromising national security.

Reasons: Secured Area

Colorado

Building 1606,

Fire Crash House; 560 S. Silver Creek Street

Buckley AFB CO 80011

Landholding Agency: Air Force

Property Number: 18201630012

Status: Unutilized

Comments: public access denied and no alternative method to gain access without compromising national security; property located within an airport runway clear zone or military airfield.

Reasons: Secured Area Within airport runway clear zone

1156

Peterson

Peterson AFB CO 80914

Landholding Agency: Air Force

Property Number: 18201640013

Status: Unutilized

Comments: public access denied and no alternative method to gain access without compromising national security.

Reasons: Secured Area

Building 1154

Peterson AFB

Peterson CO 80914

Landholding Agency: Air Force

Property Number: 18201640016

Status: Unutilized

Comments: public access denied and no alternative method to gain access without compromising national security.

Reasons: Secured Area

Building 00593

45825 Hay 96 East

Pueblo CO 81006

Landholding Agency: Army

Property Number: 21201320006

Status: Underutilized

Comments: public access denied & no alter. method w/out compromising Nat'l sec.

Reasons: Secured Area

4 Buildings

Fort Carson

Fort Carson CO 80913

Landholding Agency: Army

Property Number: 21201520016

Status: Underutilized

Directions: Buildings 01669, 00221, 00210, 00207

Comments: public access denied and no alternative method to gain access without compromising national security.

Reasons: Secured Area

2 Buildings

Fort Carson

Fort Carson CO 80913

Landholding Agency: Army

Property Number: 21201520017

Status: Unutilized

Directions: Building 00812, 0209A

Comments: public access denied and no alternative method to gain access without compromising national security.

Reasons: Secured Area

7 Buildings

Fort Carson

Fort Carson CO 80902

Landholding Agency: Army

Property Number: 21201540018

Status: Unutilized

Directions: 5557 (RPUID: 591785); 5559 (RPUID: 596873); 5561 (RPUID: 601301); 5563 (RPUID: 577607); 5565 (RPUID: 593788); 5567 (RPUID: 591786); 5569 (RPUID: 591787)

Comments: (property located within floodway which has not been correct or contained)

Reasons: Floodway

8 Buildings

Fort Carson

Ft. Carson CO 80902

Landholding Agency: Army

Property Number: 21201540019

Status: Unutilized

Directions: 5540 (RPUID:610022); 5541 (RPUID: 586846); 5542 (RPUID: 616626); 5543 (RPUID: 598076); 5544 (RPUID:567013); 5545 (RPUID:596871); 5546 (RPUID: 593098); 5547 (RPUID: 616627); 5549 (RPUID: 616627); 5551 (RPUID: 596872); 5553 (RPUID: 606097); 5555 (RPUID: 606639)

Comments: (property located within floodway which has not been correct or contained)

Reasons: Floodway

Building 00318

Fort Carson

Fort Carson CO 80913

Landholding Agency: Army

Property Number: 21201610025

Status: Unutilized

Comments: public access denied and no alternative method to gain access without compromising national security.

Reasons: Secured Area

2 Buildings

Fort Carson

Fort Carson CO 80913

Landholding Agency: Army

Property Number: 21201620002

Status: Unutilized

Directions: Building 00300 & 00301

Comments: public access denied and no alternative method to gain access without compromising national security; property located within floodway which has not been correct or contained.

Reasons: Secured Area

Florida

2 Buildings

Eglin AFB

Eglin AFB FL 32542

Landholding Agency: Air Force

Property Number: 18201620039

Status: Excess

Directions: Facility 642 & 1328

Comments: public access denied and no alternative method to gain access without compromising national security.

Reasons: Secured Area

9 Buildings

Eglin AFB

Eglin AFB FL 32542

Landholding Agency: Air Force

Property Number: 18201620043

Status: Unutilized

Directions: Building 2810, 2814, 9271, 9268, 1338, 12551, 2812, 918, 2813

Comments: public access denied and no alternative method to gain access without compromising national security.

Reasons: Secured Area

2 Buildings

Eglin AFB

Eglin AFB FL 32542

Landholding Agency: Air Force

Property Number: 18201630006

Status: Unutilized

Directions: Building 6016 & 9306

Comments: public access denied and no alternative method to gain access without compromising national security.

Reasons: Secured Area

2 Buildings

Eglin AFB

Eglin FL 32542

Landholding Agency: Air Force

Property Number: 18201640034

Status: Unutilized

Directions: 9370; 9376

Comments: public access denied and no alternative method to gain access without compromising national security.

Reasons: Secured Area

Georgia

Savannah HHIAP, Facility 1907

XDQU; 1401 Robert b. Miller Dr.

Garden City GA 31048

Landholding Agency: Air Force

Property Number: 18201620002

Status: Underutilized

Comments: public access denied and no alternative method to gain access without compromising national security.

Reasons: Secured Area

Savannah HHIAP

Fac. 1907 &1914 XDQU

1401 Robert B. Miller Dr.

Garden City GA

Landholding Agency: Air Force

Property Number: 18201620010

Status: Underutilized

Comments: public access denied and no alternative without compromising national security.

Reasons: Secured Area

6 Buildings

Robins Air Force Base

Robins Air Force Base GA 31098

Landholding Agency: Air Force

Property Number: 18201620038

Status: Underutilized

Directions:

Building 978, 990, 991, 992, 996, 995

Comments: public access denied and no alternative method to gain access without compromising national security.

Reasons: Secured Area

Savannah HHIAP,

Facility 1906, XDQU

1401 Robert B. Millier Dr.

Garden City GA 31408

Landholding Agency: Air Force

Property Number: 18201620042

Status: Excess

Comments: public access denied and no alternative method to gain access without compromising national security.

Reasons: Secured Area

Savannah HHIAP, Facility 1906

XDQU

1401 Robert B. Miller Dr.

Garden City GA 31408

Landholding Agency: Air Force

Property Number: 18201630002

Status: Excess

Comments: public access denied and no alternative method to gain access without compromising national security.

Reasons: Secured Area

4 Buildings

Robins Air Force Base

Robins AFB GA

Landholding Agency: Air Force

Property Number: 18201640002

Status: Underutilized

Directions: 4277; 4273; 2070; 2028

Comments: public access denied and no alternative method to gain access without compromising national security.

Reasons: Secured Area

Facility 4287

Robins Air Force Base

RAFB GA 31098

Landholding Agency: Air Force

Property Number: 18201640030

Status: Underutilized

Comments: public access denied & no alternative method to gain access without compromising national security.

Reasons: Secured Area

Facility 4285

Robins Air Force Base

RAFB GA 31098

Landholding Agency: Air Force

Property Number: 18201640031

Status: Underutilized

Comments: public access denied & no alternative method to gain access without compromising national security.

Reasons: Secured Area

Facility 4283

Robins Air Force Base

RAFB GA 31098

Landholding Agency: Air Force

Property Number: 18201640032

Status: Underutilized

Comments: public access denied & no alternative method to gain access without compromising national security.

Reasons: Secured Area

Facility 4281

Robins Air Force Base

RAFB GA 31098

Landholding Agency: Air Force

Property Number: 18201640033

Status: Underutilized

Comments: public access denied & no alternative method to gain access without compromising national security.

Reasons: Secured Area

Bldg. 815

Hunter Army Airfield

Savannah GA 31409

Landholding Agency: Army

Property Number: 21201030008

Status: Excess

Reasons: Secured Area

Bldg. 1257

Fort Stewart

Hinesville GA 31314

Landholding Agency: Army

Property Number: 21201030009

Status: Excess

Reasons: Extensive deterioration

Bldg. 08708

Hunter Army Airfield

Savannah GA

Landholding Agency: Army

Property Number: 21201120050

Status: Excess

Reasons: Extensive deterioration

Bldg. 08711

Hunter Army Airfield

Savannah GA

Landholding Agency: Army

Property Number: 21201120051

Status: Excess

Reasons: Extensive deterioration

Bldg. 08712

Hunter Army Airfield

Savannah GA

Landholding Agency: Army

Property Number: 21201120052

Status: Excess

Reasons: Extensive deterioration

2 Buildings

Fort Benning

Fort Benning GA 31905

Landholding Agency: Army

Property Number: 21201620007

Status: Excess

Directions: Building 02831: RPUID:282470 & 02836: RPUID:282475

Comments: public access denied and no alternative method to gain access without compromising national security.

Reasons: Secured Area

3 Buildings

West Point Lake

Troup County GA 31833

Landholding Agency: Army

Property Number: 21201630049

Status: Unutilized

Directions: Floating Boat Storage Cover, Picnic Shelter, Vault Toilet

Comments: property located within floodway which has not been correct or contained.

Reasons: Floodway

Bldg. 75073

Wheeler Army Airfield

Wahiawa HI 96786

Landholding Agency: Army

Property Number: 21201030011

Status: Unutilized

Reasons: Within airport runway clear zone

Hawaii

6 Bldgs.

Schofield Barracks

Wahiawa HI 96786

Landholding Agency: Army

Property Number: 21201110020

Status: Unutilized

Reasons: Extensive deterioration

Bldg. 01070

Wheeler Army Airfield

Denny Rd

Wahiawa HI 96786

Landholding Agency: Army

Property Number: 21201110021

Status: Unutilized

Directions: between Denny Rd & wastewater treatment plant on Wheeler Army Airfield

Reasons: Within airport runway clear zone Extensive deterioration

Bldg. 224

124 Danis Road

Wahiawa HI 96857

Landholding Agency: Army

Property Number: 21201120101

Status: Unutilized

Reasons: Within airport runway clear zone Secured Area

7 Bldgs.

91-1227 Enterprise Ave

Kalaeloa

Kapolei HI 96707

Landholding Agency: Army

Property Number: 21201140046

Status: Unutilized

Directions: 01676, 01677, 01818, 01875, 01954, 00537, 00182

Reasons: Secured Area Extensive deterioration

Bldg. 01537

124 Takata Road

Honolulu HI 96819

Landholding Agency: Army

Property Number: 21201140075

Status: Unutilized

Reasons: Secured Area Extensive deterioration

Idaho

Bldg. 00253

4097 W. Cessna St.

Gowen Field 16A20

Boise ID 83705

Landholding Agency: Army

Property Number: 21201140068

Status: Excess

Reasons: Secured Area Extensive deterioration

Illinois

Building 434

434 Hangar Road

Scott AFB IL 62225

Landholding Agency: Air Force

Property Number: 18201630015

Status: Unutilized

Comments: public access denied and no alternative method to gain access without compromising national security; property located within an airport runway clear zone or military airfield.

Reasons: Secured Area Within airport runway clear zone

2 Buildings

Peoria AASF #3

Peoria IL 61607

Landholding Agency: Army

Property Number: 21201610003

Status: Unutilized

Directions:

Building 00003 & 00020

Comments: public access denied and no alternative method to gain access without compromising national security; Property located within an airport runway clear zone or military airfield.

Reasons: Secured Area

Building 98G02

1612/98G02 Walker Ct.

Rock Island IL 61299

Landholding Agency: Army

Property Number: 21201610063

Status: Underutilized

Directions: RPUID:366349

Comments: public access denied and no alternative method to gain access without compromising national security.

Reasons: Secured Area

3 Buildings

Rock Island Arsenal

Rock Island IL 61299

Landholding Agency: Army

Property Number: 21201620015

Status: Underutilized

Directions: 0030G: RPUID:366331; 31: RPUID:610280; 30: RPUID:610255

Comments: property located within floodway which has not been correct or contained.

Reasons: Floodway

Indiana

Building 31

181 IW, 8001 Reinoehl Rd.

Terre Haute IN 47803

Landholding Agency: Air Force

Property Number: 18201620001

Status: Unutilized

Comments: public access denied and no alternative method to gain access without compromising national security.

Reasons: Secured Area

Bldg. 31

181 IW; 8001 Reinoehl Rd.

Terre Haute IN 47803

Landholding Agency: Air Force

Property Number: 18201620009

Status: Unutilized

Comments: public access denied and no alternative method to gain access without compromising national security.

Reasons: Secured Area

Fuel Station

2 Buildings

3008 Hospital Rd.

Edinburgh IN 46124

Landholding Agency: Army

Property Number: 21201320002

Status: Unutilized

Directions: 00126 & 00331

Comments: located in secured area; public access denied & no alternative method to gain access w/out compromising Nat'l security.

Reasons: Secured Area

Building 00400

3008 Hospital Road (Camp Atterbury)

Edinburgh IN 46124

Landholding Agency: Army

Property Number: 21201330034

Status: Underutilized

Comments: public access denied & no alternative to gain access w/out compromising Nat'l security.

Reasons: Secured Area

00435

Camp Atterbury

Edinburgh IN 46124

Landholding Agency: Army

Property Number: 21201530003

Status: Unutilized

Comments: public access denied and no alternative method to gain access without compromising National Security.

Reasons: Secured Area

Building AR009

1LT Charles L. Waples USARC

Anderson IN 46016

Landholding Agency: Army

Property Number: 21201540047

Status: Unutilized

Comments: documented deficiencies: structurally unsound; clear threat to physical safety.

Reasons: Extensive deterioration

Building AR033

1LT Charles L. Waples USARC

Anderson IN 46016

Landholding Agency: Army

Property Number: 21201540048

Status: Unutilized

Comments: documented deficiencies: structurally unsound; clear threat to physical safety.

Reasons: Extensive deterioration

7 Buildings

Camp Atterbury

Edinburgh IN 46124

Landholding Agency: Army

Property Number: 21201630037

Status: Underutilized

Directions: 00700; 00516; 00609; 00501; 00125; 00328; 00400

Comments: public access denied and no alternative method to gain access without compromising national security.

Reasons: Secured Area

00011

Camp Atterbury

Edinburgh IN 46124

Landholding Agency: Army

Property Number: 21201630053

Status: Unutilized

Comments: public access denied and no alternative method to gain access without compromising national security.

Reasons: Secured Area

Iowa

Bldgs. A0190, 00190, 01069

Iowa AAP

Middletown IA 52601

Landholding Agency: Army

Property Number: 21201040007

Status: Unutilized

Reasons: Secured Area Within 2000 ft. of flammable or explosive material Extensive deterioration

Bldg. 01110, Iowa Army Ammo

17575 State Highway 79

Middletown IA 52601

Landholding Agency: Army

Property Number: 21201120005

Status: Unutilized

Reasons: Within 2000 ft. of flammable or explosive material Secured Area Extensive Deterioration Not accessible by road

10 Buildings

Iowa Army Ammunition Plant

Middletown IA 52638

Landholding Agency: Army

Property Number: 21201230019

Status: Underutilized

Directions: 620, 626, 641, 642, 643, 644, 645, 646, 647, 5207

Comments: public access denied & no alternative method to gain access w/out comprising Nat'l security.

Reasons: Secured Area

4 Buildings

Iwa Army Ammunition Plant

Middletown IA 52601

Landholding Agency: Army

Property Number: 21201340034

Status: Unutilized

Directions: 0023A, 00128, 00153, 05213

Comments: public access denied and no alternative method to gain access without compromising national security.

Reasons: Secured Area

9 Buildings

Iowa Army Ammunition Plant

17575 Highway 79

Middletown IA 52601

Landholding Agency: Army

Property Number: 21201420031

Status: Unutilized

Directions: 00028; 00029; 00030; 00031; 00033; 00918; 00920; 05026; 05072

Comments: public access denied and no alternative method to gain access without compromising national security.

Reasons: Secured Area

Bldg. 09451

9455 Rifle Range Road

Fort Riley KS

Landholding Agency: Army

Property Number: 21201120068

Status: Unutilized

Reasons: Other—Temporary bldg., gas chamber

Bldg. 00745

745 Ray Rd.

Fort Riley USAR

Fort Riley KS

Landholding Agency: Army

Property Number: 21201120069

Status: Unutilized

Reasons: Other—aviation storage shed; off site removal

Kansas

Bldg. 8329

8329 Wells St.

Ft. Riley

Fort Riley KS

Landholding Agency: Army

Property Number: 21201120072

Status: Unutilized

Reasons: Other—vehicle maint.; oil storage

Bldg. 08324

8324 Wells St.

Fort Riley KS

Landholding Agency: Army

Property Number: 21201120073

Status: Unutilized

Reasons: Other—to be demolished

Bldg. 07634

7634 McGlachlin

Fort Riley KS

Landholding Agency: Army

Property Number: 21201120074

Status: Unutilized

Reasons: Other—Power Plant

Bldg. 00747

747 Ray Rd.

Fort Riley KS

Landholding Agency: Army

Property Number: 21201120078

Status: Unutilized

Reasons: Other—Power plant; off site removal

Bldg. 00613

null

Fort Riley KS

Landholding Agency: Army

Property Number: 21201120079

Status: Unutilized

Reasons: Other—off site removal only

Bldg. 01781

1781 “K” Street

Fort Riley KS

Landholding Agency: Army

Property Number: 21201120082

Status: Unutilized

Reasons: Other environmental Other—work animal storage (DNE)

Bldg. 09455

9455 Rifle Range Road

Fort Riley KS

Landholding Agency: Army

Property Number: 21201120085

Status: Unutilized

Reasons: Other—Gas Chamber; off site removal only

Bldg. 00615

615 Huebner Rd.

Fort Riley KS

Landholding Agency: Army

Property Number: 21201120087

Status: Unutilized

Reasons: Other—off site removal only

Bldg. 08323

8323 Wells St.

Fort Riley KS

Landholding Agency: Army

Property Number: 21201120088

Status: Unutilized

Reasons: Other—vehicle maint. shop; off site removal

Bldg. 08328

8328 Wells St.

Fort Riley KS

Landholding Agency: Army

Property Number: 21201120089

Status: Unutilized

Reasons: Other environmental

Bldg. 07739

7739 Apennines Drive

Fort Riley KS

Landholding Agency: Army

Property Number: 21201120090

Status: Unutilized

Reasons: Other environmental Other—oil storage bldg.; off site removal

Bldg. 01780

1780 “K” Street

Fort Riley KS

Landholding Agency: Army

Property Number: 21201120091

Status: Unutilized

Reasons: Other environmental

Bldg. 09382

Fort Riley

Fort Riley KS 66442

Landholding Agency: Army

Property Number: 21201130035

Status: Unutilized

Reasons: Extensive deterioration

4 Bldgs.

null

Fort Riley KS

Landholding Agency: Army

Property Number: 21201130037

Status: Unutilized

Directions: 09081, 07123, 1865, 00747

Reasons: Extensive deterioration

6 Bldgs.

null

Fort Riley KS

Landholding Agency: Army

Property Number: 21201130038

Status: Unutilized

Directions: 09079, 09078, 09455, 09382, 09087, 09381

Reasons: Extensive deterioration

Bldgs. 09133 and 1865

null

Fort Riley KS 66442

Landholding Agency: Army

Property Number: 21201130043

Status: Unutilized

Reasons: Extensive deterioration

Bldg., 612

null

Fort Riley KS 66442

Landholding Agency: Army

Property Number: 21201130045

Status: Unutilized

Reasons: Extensive deterioration

5 Bldgs.

null

Fort Riley KS 66442

Landholding Agency: Army

Property Number: 21201130060

Status: Unutilized

Directions: 09455, 07634, 00852, 00853

Reasons: Extensive deterioration

2 Bldgs.

null

Fort Riley KS 66442

Landholding Agency: Army

Property Number: 21201130064

Status: Unutilized

Directions: 09098, 00613

Reasons: Extensive deterioration

Bldg. 00512 & 00617

Fort Riley

Fort Riley KS 66442

Landholding Agency: Army

Property Number: 21201140064

Status: Unutilized

Reasons: Secured Area

Kentucky

Fort Knox Bldg. #487

Spearhead Division Avenue

Fort Knox KY 40121

Landholding Agency: Army

Property Number: 21201510022

Status: Unutilized

Directions: 487

Comments: public access denied & no alternative method to gain access w/out compromising Nat'l Sec.

Reasons: Secured Area

4 Buildings

Fort Knox

Fort Knox KY 40121

Landholding Agency: Army

Property Number: 21201610017

Status: Unutilized

Directions: 1069 RPUID:310462; 1478 RPUID:309724; 4556 RPUID:286473; 6295: RPUID:3072543

Comments: public access denied and no alternative method to gain access without compromising national security.

Reasons: Secured Area

10 Buildings

Porter River Road

Fort Knox KY 40121

Landholding Agency: Army

Property Number: 21201620028

Status: Unutilized

Directions: 9606: RPUID:310162; 9475: RPUID:286869; 9322: RPUID:182117; 9679: RPUID:309686; 9395: RPUID:293399; 9676: RPUID:286480; 9353: RPUID:310217; 9671: RPUID:1104885; 9342: RPUID:309470; 9660: RPUID:308904

Comments: public access denied and no alternative method to gain access without compromising national security.

Reasons: Secured Area

10 Buildings

Main Range Road

Fort Knox KY 40121

Landholding Agency: Army

Property Number: 21201620029

Status: Unutilized

Directions: 9282: RPUID:286483; 9240: RPUID:286705; 9284: RPUID:309690; 9241: RPUID:309683; 9290: RPUID:309737; 9242: RPUID:310425; 9234: RPUID:310217; 9258: RPUID:309480; 9265: RPUID:309473; 9235: RPUID:310418

Comments: public access denied and no alternative method to gain access without compromising national security.

Reasons: Secured Area

13 Buildings

Ft. Knox

Ft. Knox KY 40121

Landholding Agency: Army

Property Number: 21201620036

Status: Unutilized

Directions: 9697 (310446); 9701 (310071); 9702 (310072); 9704 (309327); 9751 (178549); 9682 (309486); 9684 (310449); 9685 (309485); 9686 (309483); 9687 (309484); 9694 (310043); 9695 (310444); 9696 (310445)

Comments: public access denied and no alternative method to gain access without compromising national security.

Reasons: Secured Area

Maryland

2 Buildings

1291 & 1292 Ramp Drive

Joint Base Andrews MD 20762

Landholding Agency: Air Force

Property Number: 18201620031

Status: Unutilized

Directions: Building 1291 & 1292

Comments: public access denied and no alternative method to gain access without compromising national security.

Reasons: Secured Area

Building 1682

1682 Arnold Avenue

Joint Base Andrews MD 20762

Landholding Agency: Air Force

Property Number: 18201620032

Status: Excess

Comments: public access denied and no alternative method to gain access without compromising national security.

Reasons: Secured Area

3487

Fetchet Ave.

Joint Base Andrews MD

Landholding Agency: Air Force

Property Number: 18201710021

Status: Excess

Comments: public access denied and no alternative method to gain access without compromising national security.

Reasons: Secured Area

1713

First Street

Joint Base Andrews MD 20762

Landholding Agency: Air Force

Property Number: 18201710022

Status: Excess

Comments: public access denied and no alternative method to gain access without compromising national security.

Reasons: Secured Area

1558

Alabama Avenue

Joint Base Andrews MD 20762

Landholding Agency: Air Force

Property Number: 18201710023

Status: Excess

Comments: public access denied and no alternative method to gain access without compromising national security.

Reasons: Secured Area

1539

Arkansas

Joint Base Andrews MD 20762

Landholding Agency: Air Force

Property Number: 18201710024

Status: Excess

Comments: public access denied and no alternative method to gain access without compromising national security.

Reasons: Secured Area

Bldg. SPITO

Adelphi Lab Center

Prince George MD 20783

Landholding Agency: Army

Property Number: 21201010008

Status: Unutilized

Reasons: Extensive deterioration

Bldg. 00517

517 Blossom Point Road

Blossom Point Research Facility

Welcome MD 20693

Landholding Agency: Army

Property Number: 21201140040

Status: Unutilized

Reasons: Extensive deterioration Secured Area

Bldg. 00402

402 Blossom Point Road

Blossom Point Research Facility

Welcome MD 20693

Landholding Agency: Army

Property Number: 21201140041

Status: Unutilized

Reasons: Within 2000 ft. of flammable or explosive material Secured Area

0184C

Fort Detrick Forest Glen Annex

Silver Spring MD 20910

Landholding Agency: Army

Property Number: 21201430031

Status: Unutilized

Comments: public access denied & no alternative without compromising National Security.

Reasons: Secured Area

Building 01247

Fort Detrick

Frederick MD 21702

Landholding Agency: Army

Property Number: 21201520029

Status: Unutilized

Comments: public access denied and no alternative method to gain access without compromising national security.

Reasons: Secured Area

E5868

Aberdeen Proving Ground

5868 Austin Rd.

Harford MD 21005

Landholding Agency: Army

Property Number: 21201520049

Status: Unutilized

Comments: public access denied and no alternative method to gain access without compromising national security.

Reasons: Secured Area

4 Buildings

Aberdeen Proving Ground

Aberdeen Proving Grou MD 21005

Landholding Agency: Army

Property Number: 21201540006

Status: Unutilized

Directions: 530-RPUID: 232987; 00502-RPUID:231120; 00504-RPUID: 231122; 00507-RPUID:231124

Comments: public access denied and no alternative method to gain access without compromising national security.

Reasons: Secured Area

10 Buildings

Aberdeen Proving Ground

Aberdeen Proving Grou MD 21005

Landholding Agency: Army

Property Number: 21201540008

Status: Unutilized

Directions: E2499-RPUID: 1115220; 248-RPUID: 233131; 324-RPUID:233380; 00325-RPUID: 233381; 335-RPUID: 233389; 00336-RPUID: 233390; 00342-RPUID: 233396; 00343-RPUID: 233397; 00501-RPUID: 21119; 00503-RPUID: 231121

Comments: public access denied and no alternative method to gain access without compromising national security.

Reasons: Secured Area

10 Buildings

Aberdeen Proving Ground

Aberdeen Proving Grou MD 21005

Landholding Agency: Army

Property Number: 21201540009

Status: Unutilized

Directions: 1100A-RPUID:232502; 5112-RPUID:231874; E1426-RPUID:230361; E2144-RPUID:231462; E2180-RPUID:231474; E2200-RPUID:236777; E3100-RPUID:229840; E3240-RPUID:225691; E3245-RPUID:1233661; E5027-RPUID:235043

Comments: public access denied and no alternative method to gain access without compromising national security.

Reasons: Secured Area

10 Buildings

Aberdeen Proving Ground

Aberdeen MD 21005

Landholding Agency: Army

Property Number: 21201540010

Status: Unutilized

Directions: 00320-RPUID:233377; 00534-RPUID:232990; 00894-RPUID:229860; 01096-RPUID:230735; 2352-RPUID:232067; 4314-RPUID:230781; 00938-RPUID:229876; E1932-RPUID:231449; E1942-RPUID:230062; 00535-RPUID:232991

Comments: public access denied and no alternative method to gain access without compromising national security.

Reasons: Secured Area

10 Buildings

Aberdeen Proving Ground

Aberdeen Proving Grou MD 21005

Landholding Agency: Army

Property Number: 21201540011

Status: Unutilized

Directions: E3032-RPUID:981051; E5060-RPUID:235049; E5140-RPUID:235827; E5172-RPUID:235834; E5173-RPUID:235835; E5244-RPUID:235853; E5352-RPUID:236079; E5429-RPUID:236092; E5826-RPUID:237105; E7987-RPUID:234070

Comments: public access denied and no alternative method to gain access without compromising national security.

Reasons: Secured Area

10 Buildings

Aberdeen Proving Ground

Aberdeen Proving Grou MD 21005

Landholding Agency: Army

Property Number: 21201540043

Status: Underutilized

Directions: E2162-RPUID:231464; E2166-RPUID:231465; E2182-RPUID:231475; E2188-RPUID:236771; E2194-RPUID:236773; E2198-RPUID:236776; E5061-RPUID:235050; E5101-RPUID:230074; E5842-RPUID:237111; E5844-RPUID:237112

Comments: public access denied and no alternative method to gain access without compromising national security.

Reasons: Secured Area

8 Buildings

Aberdeen Providing Ground

Aberdeen Providing Gr MD 21005

Landholding Agency: Army

Property Number: 21201540044

Status: Unutilized

Directions: E5848-RPUID:237114; E5860-RPUID:237116; E5862-RPUID:237117; E5884-RPUID:237129; E5886-RPUID:237130; E5892-RPUID:237888; E5894-RPUID:237889; E5896-RPUID:237890

Comments: public access denied and no alternative method to gain access without compromising national security.

Reasons: Secured Area

Building 00922

922 Live Fire Lane

Aberdeen Proving Grou MD 21005

Landholding Agency: Army

Property Number: 21201540045

Status: Unutilized

Comments: public access denied and no alternative method to gain access without compromising national security.

Reasons: Secured Area

10 Buildings

Aberdeen Proving Ground

Aberdeen Proving Grou MD 21005

Landholding Agency: Army

Property Number: 21201610007

Status: Unutilized

Directions: Building #714A-RPUID:231382; 714B-RPUID:231383; 714C-RPUID:231384; 892-RPUID:229858; 893-RPUID:229859; 2482-RPUID:232910; 2482-RPUID:232910; 2483-RPUID:232911; 2484-RPUID:232912; E5106-RPUID:235814

Comments: public access denied and no alternative method to gain access without compromising national security.

Reasons: Secured Area

10 Buildings

Aberdeen Proving Ground

Aberdeen Proving Grou MD 21010

Landholding Agency: Army

Property Number: 21201610008

Status: Unutilized

Directions: Building #E7248-RPUID:230927; E7931-RPUID:234069; 1103A-RPUID:233336; E1407-RPUID:230346; E1410-RPUID:230349; E2195-RPUID:236774; E3220-RPUID:225680; E5282-RPUID:236063; 713-RPUID:233259; 714-RPUID:233260

Comments: public access denied and no alternative method to gain access without compromising national security.

Reasons: Secured Area

12 Buildings

Aberdeen Proving Grounds

Aberdeen Proving Grou MD 21010

Landholding Agency: Army

Property Number: 21201610014

Status: Unutilized

Directions: Building #E7012-RPUID:234053; E6833-RPUID:234044; E5916-RPUID:237898; E5738-RPUID:236872; E5664-RPUID:236854; E5604-RPUID:236842; E5265-RPUID:233752; E3728-RPUID:237182; E3640-RPUID: 237173; E3623-RPUID:237171; E3561-RPUID:236930; E3517-RPUID:236913

Comments: public access denied and no alternative method to gain access without compromising national security.

Reasons: Secured Area

5 Buildings

Fort Detrick

Frederick MD 21702

Landholding Agency: Army

Property Number: 21201610015

Status: Unutilized

Directions: Building 00121; 00387; 00722; 01531; 01656

Comments: public access denied and no alternative method to gain access without compromising national security.

Reasons: Secured Area

11 Buildings

Aberdeen Proving Ground

Aberdeen Proving Grou MD 21010

Landholding Agency: Army

Property Number: 21201610020

Status: Unutilized

Directions: Building #E3349-RPUID:225917; E3109-RPUID:225672; E3106-RPUID:225670; E2650-RPUID:237053; E2340-RPUID:236789; E2340-RPUID:236789; E2338-RPUID:236788; E1485-RPUID:231226; E1443-RPUID:231202; E1041-RPUID:957911; 5650-RPUID:231144

Comments: public access denied and no alternative method to gain access without compromising national security.

Reasons: Secured Area

12 Buildings

Aberdeen Proving Ground

Aberdeen Proving Grou MD 21010

Landholding Agency: Army

Property Number: 21201610067

Status: Unutilized

Directions: E5354 RPUID:236080; 4025A RPUID:233596; E5179 RPUID:235837; E3160 RPUID:225676; E1426 RPUID:230361; 797 RPUID:229641; 655 RPUID:233016; 459B RPUID:230811; 2334 RPUID:232061; 1132 RPUID:230962; E5554 RPUID:236839; E5560 RPUID:236840

Comments: public access denied and no alternative method to gain access without compromising national security.

Reasons: Secured Area

6 Buildings

Aberdeen Proving Ground

APG MD 21010

Landholding Agency: Army

Property Number: 21201620031

Status: Unutilized

Directions: E5181 (235839); E4655 (235019); E6882 (234049); E5286 (236064); E5920 (237899); E3966 (237859)

Comments: public access denied and no alternative method to gain access without compromising national security.

Reasons: Secured Area

10 Buildings

Aberdeen Proving Ground

APG MD 21010

Landholding Agency: Army

Property Number: 21201620032

Status: Unutilized

Directions: E3965 (237858); E2300 (236780); E3334 (225912); E3335 (225913); E3346 (225915); E3508 (236906); E3727 (237181); E3860 (237205); E3951 (237844); E3955 (237848)

Comments: public access denied and no alternative method to gain access without compromising national security.

Reasons: Secured Area

10 Buildings

Aberdeen Proving Ground

APG MD 21010

Landholding Agency: Army

Property Number: 21201620033

Status: Unutilized

Directions: E1421 (230356); E1425 (230360); 5608E (233610); E1467 (231217); 1128 (230958); 1149A (233364); 1169 (231805); 4303 (230771); 4725 (231020); E1406 (230345)

Comments: public access denied and no alternative method to gain access without compromising national security.

Reasons: Secured Area

10 Buildings

Aberdeen Proving Ground

APG MD 21005

Landholding Agency: Army

Property Number: 21201620034

Status: Unutilized

Directions: 1076B (1197700); 1101A (2333334); 714D (231385); 718 (233262); 783 (229636); 852A (232469); 798 (229642); 806 (229846); 807 (229847); 808 (229848)

Comments: public access denied and no alternative method to gain access without compromising national security.

Reasons: Secured Area

10 Buildings

Aberdeen Proving Ground

APG MD 21005

Landholding Agency: Army

Property Number: 21201620035

Status: Unutilized

Directions: 303 (233151); 312 (957898); 335A (233192); 347A (229683); 457 (231108); 526 (232983); 527 (232984); 700h (251369); 00036 (232287); 279 (233148)

Comments: public access denied and no alternative method to gain access without compromising national security.

Reasons: Secured Area

E5950 (RPUID:237908)

Callahan St.

Aberdeen Proving Ground

APG MD 21010

Landholding Agency: Army

Property Number: 21201620038

Status: Unutilized

Comments: public access denied and no alternative method to gain access without compromising national security.

Reasons: Secured Area

2 Buildings

Aberdeen Proving Ground

Edgewood MD 21005

Landholding Agency: Army

Property Number: 21201710004

Status: Unutilized

Directions: Building E2344 (RPUID:236791); 387 (RPUID:226469)

Comments: public access denied and no alternative method to gain access without compromising national security.

Reasons: Secured Area

5 Buildings

Fort Detrick

Frederick MD 21702

Landholding Agency: Army

Property Number: 21201710014

Status: Unutilized

Directions: 1542 (1010968); 1530 (957742); 263 (958384); 262 (958072); 261 (958784)

Comments: public access denied and no alternative method to gain access without compromising national security.

Reasons: Secured Area

Massachusetts

2 Buildings

Soldier Systems Center Natick

Natick MA 01760

Landholding Agency: Army

Property Number: 21201620013

Status: Underutilized

Directions: T0024: RPUID: 206927 & T0025: (RPUID): 206928

Comments: public access denied and no alternative method to gain access without compromising national security.

Reasons: Secured Area

Michigan

6 Bldgs.

Detroit Arsenal

Warren MI 48397

Landholding Agency: Army

Property Number: 21201010009

Status: Unutilized

Directions: 521, 213, 214, 237, 00007, 00008

Reasons: Secured Area

Building 01197

Bldg. #1197 Flight Line Road

Grayling MI 49738

Landholding Agency: Army

Property Number: 21201610012

Status: Excess

Directions: RPUID: 324513

Comments: public access denied and no alternative method to gain access without compromising national security.

Reasons: Secured Area

2 Buildings

Grayling Army Airfield

Grayling MI 49738

Landholding Agency: Army

Property Number: 21201610037

Status: Unutilized

Directions: Building 01107 RPUID:324301 & 01106 RPUID:324302

Comments: public access denied and no alternative method to gain access without compromising national security.

Reasons: Secured Area

2 Buildings

Grayling Army Airfield

Grayling MI 49738

Landholding Agency: Army

Property Number: 21201630041

Status: Unutilized

Directions: 01143 (324485); 01145 (324486)

Comments: public access denied and no alternative method to gain access without compromising national security.

Reasons: Secured Area

02551

Fort Custer Training Center

Augusta MI 49012

Landholding Agency: Army

Property Number: 21201630042

Status: Unutilized

Comments: public access denied and no alternative method to gain access without compromising national security.

Reasons: Secured Area

5 Buildings

Fort Custer Training Center

Augusta MI 49012

Landholding Agency: Army

Property Number: 21201710001

Status: Underutilized

Directions: Building 02435 (RPUID:569725); 02433 (RPUID:569723); 02535 (RPUID:571902); 02431 (RPUID:571671); 02432 (RPUID:569722)

Comments: public access denied and no alternative method to gain access without compromising national security.

Reasons: Secured Area

Mississippi

Bldg. 9110C Shelter Building

Stennis Space Center

Hancock Co. MS 39529

Landholding Agency: NASA

Property Number: 71201710007

Status: Unutilized

Comments: public access denied and no alternative method to gain access without compromising national security.

Reasons: Secured Area

4003 Storage Building

Stennis Space Center

Hancock Co. MS

Landholding Agency: NASA

Property Number: 71201710008

Status: Unutilized

Comments: public access denied and no alternative method to gain access without compromising national security.

Reasons: Secured Area

9137 Load Ramp

Stennis Space Center

Hancock Co. MS 39529

Landholding Agency: NASA

Property Number: 71201710009

Status: Unutilized

Comments: public access denied and no alternative method to gain access without compromising national security.

Reasons: Secured Area

Bldg. 9800A Igloo

Stennis Space Center

Hancock Co. MS 39529

Landholding Agency: NASA

Property Number: 71201710010

Status: Unutilized

Comments: public access denied and no alternative method to gain access without compromising national security.

Reasons: Secured Area

Missouri

Bldg. 06020

Fort Leonard Wood

Pulaski MO 65473

Landholding Agency: Army

Property Number: 21201010010

Status: Unutilized

Reasons: Secured Area Floodway

15 Bldgs.

Lake City Army Ammo Plant

Independence MO 64051

Landholding Agency: Army

Property Number: 21201010011

Status: Unutilized

Directions: 11A, 20B, 22A, 22B, 22C, 23A, 23B, 23C, 24A, 24B, 24C, 24D, 24E, 25A, 29A

Reasons: Within 2000 ft. of flammable or explosive material Secured Area

9 Bldgs.

Lake City Army Ammo Plant

Independence MO 64051

Landholding Agency: Army

Property Number: 21201010012

Status: Unutilized

Directions: 31, 32A, 33A, 33B, 34A, 34B, 38F, 38G, 38H

Reasons: Within 2000 ft. of flammable or explosive material Secured Area

9 Bldgs.

Lake City Army Ammo Plant

Independence MO 64051

Landholding Agency: Army

Property Number: 21201010013

Status: Unutilized

Directions: 52A, 53, 55, 59, 60, 73W, 79, 79A, 79B

Reasons: Within 2000 ft. of flammable or explosive material Secured Area

7 Bldgs.

Lake City Army Ammo Plant

Independence MO 64051

Landholding Agency: Army

Property Number: 21201010014

Status: Unutilized

Directions: 80F, 91D, 91F, 94D 120A, 120D, 120G

Reasons: Secured Area Within 2000 ft. of flammable or explosive material

6 Bldgs.

Lake City Army Ammo Plant

Independence MO 64051

Landholding Agency: Army

Property Number: 21201010015

Status: Unutilized

Directions: T056R, T94B, T94C, T239, T247, T260

Reasons: Secured Area Within 2000 ft. of flammable or explosive material

14 Bldgs.

Lake City AAP

Independence MO 64051

Landholding Agency: Army

Property Number: 21201040010

Status: Unutilized

Directions: 59, 59A, 59B, 59C, 60, 66A, 66B, 66C, 66D, 66E, 67, 70A 70B 80D

Reasons: Secured Area Within 2000 ft. of flammable or explosive material

10 Bldgs.

Fort Leonard Wood

Pulaski MO 65473

Landholding Agency: Army

Property Number: 21201040011

Status: Unutilized

Directions: 1228, 1255, 1269, 2101, 2112, 2551, 2552, 5280, 5506, 6824

Reasons: Secured Area

Harry S. Truman Reservoir

15968 Truman Rd.

Warsaw MO 65355

Landholding Agency: Army

Property Number: 21201110001

Status: Underutilized

Directions: 07015 and L43002

Reasons: Extensive deterioration

12 Bldgs.

Ft. Leonard Woods

Ft. Leonard Woods MO 65473

Landholding Agency: Army

Property Number: 21201110043

Status: Excess

Directions: 00642, 00650, 00651, 00652, 00653, 00654, 00655, 00656, 00657, 00658, 00659, 00660

Reasons: Secured Area

Bldgs. 01604 and 05130

Ft. Leonard Woods

Ft. Leonard Woods MO 65473

Landholding Agency: Army

Property Number: 21201110044

Status: Excess

Reasons: Extensive deterioration Secured Area

8 Bldgs.

Ft. Leonard Woods

Ft. Leonard Woods MO 65473

Landholding Agency: Army

Property Number: 21201110062

Status: Excess

Directions: 00618, 0618A, 00618B, 00619, 0619A, 0619B, 00906, 00907

Reasons: Secured Area

Bldgs. 5130 and 5136

Ft. Leonard Woods

FLW MO

Landholding Agency: Army

Property Number: 21201120011

Status: Excess

Reasons: Secured Area Extensive deterioration

Bldg. 1269

Ft. Leonard Woods

FLW MO

Landholding Agency: Army

Property Number: 21201120013

Status: Excess

Reasons: Secured Area

Bldg. 1255

Ft. Leonard Woods

FLW MO

Landholding Agency: Army

Property Number: 21201120014

Status: Excess

Reasons: Secured Area

Bldg. 1228

Ft. Leonard Woods

FLW MO

Landholding Agency: Army

Property Number: 21201120015

Status: Excess

Reasons: Secured Area

Bldgs. 906 and 907

Ft. Leonard Woods

FLW MO

Landholding Agency: Army

Property Number: 21201120016

Status: Excess

Reasons: Secured Area

14 Bldgs.

Camp Clark

Nevada MO 64772

Landholding Agency: Army

Property Number: 21201130046

Status: Unutilized

Directions: K0001, K0002, K0003, K0004, K0005, K0006, K0007, K0008, K0010, K0012, K0014, K0016, K0018, K0020

Reasons: Extensive deterioration

11 Bldgs.

Camp Clark

Nevada MO 64772

Landholding Agency: Army

Property Number: 21201130047

Status: Unutilized

Directions: J0006, J0007, J0008, J0009, J0010, J0011, J0012, J0013, J0015, J0017, J0019

Reasons: Secured Area Extensive deterioration

12 Bldgs.

Camp Clark

Nevada MO 64772

Landholding Agency: Army

Property Number: 21201130048

Status: Unutilized

Directions: 435, 436, 438, 460, 466, 504, 506, J0001, J0002, J0003, J0004, J0005

Reasons: Extensive deterioration Secured Area

13 Bldgs.

Camp Clark

Nevada MO 64772

Landholding Agency: Army

Property Number: 21201130049

Status: Unutilized

Directions: 00383, 00384, 00385, 00386, 00388, 00389, 00391, 00392, 00402, 00410, 00411, 00425, 00433

Reasons: Extensive deterioration Secured Area

Bldg. T62-9

Lake City Army Ammunition Plant

Independence MO 64051

Landholding Agency: Army

Property Number: 21201140071

Status: Underutilized

Reasons: Contamination Secured Area

2 Bldgs.

Railroad Ave.

Fort Leonard Wood MO 65473

Landholding Agency: Army

Property Number: 21201140072

Status: Unutilized

Directions: 02351, 02352

Reasons: Secured Area

11 Bldgs.

Ft. Leonard Wood

Ft. Leonard Wood MO 65473

Landholding Agency: Army

Property Number: 21201220019

Status: Excess

Directions: 499, 720, 745, 2555, 2556, 2557, 2558, 5076, 8208, 8370, 30

Comments: nat'l security concerns; public access denied & no alternative method to gain access w/out compromising Nat'l security.

Reasons: Secured Area

14 Buildings

Camp Crowder

Neosho MO 64850

Landholding Agency: Army

Property Number: 21201230010

Status: Unutilized

Directions: 5, 6, 8, 9, 10, 12, 18, 34, 35, 36, 37, 38, 39, 51

Comments: military personnel only; public access denied & no alternative method to gain access w/out compromising Nat'l security.

Reasons: Secured Area

11 Buildings

Ft. Leonard Wood

Ft. Leonard Wood MO 65473

Landholding Agency: Army

Property Number: 21201230032

Status: Underutilized

Directions: 2314, 2313, 1614, 1230, 786, 689, 404, 690, 763, 764, 766

Comments: no public access & no alternative method w/out compromising Nat'l security.

Reasons: Secured Area

19 Buildings

Ft. Leonard Wood

Ft. Leonard Wood MO 65473

Landholding Agency: Army

Property Number: 21201230033

Status: Unutilized

Directions: 9613, 9611, 6127, 6125, 6124, 6120, 5125, 5124, 5122, 5073, 2565, 2349, 1134, 978, 975, 758, 9615, 9617, 9619

Comments: no public access & no alternative method to gain access w/out compromising Nat'l security.

Reasons: Secured Area

4 Buildings

Ft. Leonard Wood

Ft. Leonard Wood MO 65473

Landholding Agency: Army

Property Number: 21201230038

Status: Unutilized

Directions: 565, 566, 567, 569

Comments: no public access & no alternative method to gain access w/out compromising Nat'l security.

Reasons: Secured Area

5 Buildings

Ft. Leonard Wood

Ft. Leonard Wood MO 65473

Landholding Agency: Army

Property Number: 21201230039

Status: Underutilized

Directions: 664, 665, 669, 686, 687

Comments: no public access & no alternative method to gain access w/out compromising Nat'l security.

Reasons: Secured Area

3 Buildings

Ft. Leonard Wood

Ft. Leonard Wood MO 65473

Landholding Agency: Army

Property Number: 21201230040

Status: Unutilized

Directions: 688, 759, 760

Comments: no public access & no alternative method to gain access w/out compromising Nat'l security.

Reasons: Secured Area

9 Buildings

Ft. Leonard Wood

Ft. Leonard Wood MO 65473

Landholding Agency: Army

Property Number: 21201230041

Status: Excess

Directions: 711, 712, 713, 714, 715, 720, 721, 722, 723

Comments: no public access & no alternative method to gain access w/out compromising Nat'l security.

Reasons: Secured Area

Bldg. 724

Utah St.

Ft. Leonard Wood MO 65473

Landholding Agency: Army

Property Number: 21201230059

Status: Excess

Comments: no public access; no alternative method for public to gain access w/out compromising Nat'l security.

Reasons: Secured Area

Bldg. 31

Camp Crowder

Neosha MO 64850

Landholding Agency: Army

Property Number: 21201230061

Status: Unutilized

Comments: military personnel/authorized use personnel; public access denied & no alternative method for public to gain access w/out compromising Nat'l security.

Reasons: Secured Area

4 Buildings

Ft. Leonard Wood

Ft. Leonard Wood MO 65473

Landholding Agency: Army

Property Number: 21201240017

Status: Unutilized

Directions: 691, 692, 693, 694

Comments: located in secured area, public access denied & no alternative method to gain access without compromising national security.

Reasons: Secured Area

4 Buildings

Ft. Leonard Wood

Ft. Leonard Wood MO 65473

Landholding Agency: Army

Property Number: 21201320022

Status: Unutilized

Directions: 05343, 05382, 05394, 06501

Comments: public access denied & no alternative method to gain access w/out compromising Nat'l security.

Reasons: Secured Area

Building 00007

890 Ray A. Carver Ave. (Camp Crowder)

Neosho MO 64850

Landholding Agency: Army

Property Number: 21201330035

Status: Excess

Comments: public access denied & no alternative method to gain access w/out compromising Nat'l security.

Reasons: Secured Area

15 Buildings

Camp Clark MOARING

Nevada MO 64772

Landholding Agency: Army

Property Number: 21201340003

Status: Unutilized

Directions: H0001, H0002, H0003, H0004, H0005, H00006, H0007, H0008, H0009, H0010, H0011, H0012, H0013, H0015, H0016

Comments: public access denied and no alternative method to gain access without compromising national security.

Reasons: Secured Area

T151D

Lake City Army Ammunition Plant

Independence MO 64056

Landholding Agency: Army

Property Number: 21201430017

Status: Excess

Directions: T151D

Comments: public access denied and no alternative without compromising national security.

Reasons: Secured Area

13 Buildings

Fort Leonard Wood

Fort Leonard Wood MO 65473

Landholding Agency: Army

Property Number: 21201440024

Status: Unutilized

Directions: 02431, 02433, 02435, 02462, 02464, 02466, 02468, 02470, 02472, 02474, 02476, 02478, 02480

Comments: public access denied and no alternative method to gain access w/out compromising national security.

Reasons: Secured Area

11 Buildings

Fort Leonard Wood

Fort Leonard Wood MO 65473

Landholding Agency: Army

Property Number: 21201440029

Status: Unutilized

Directions: 02461, 02463, 02465, 02467, 02469, 02471, 02473, 02475, 02477, 02479, 02481

Comments: public access denied and no alternative method to gain access w/out compromising national security.

Reasons: Secured Area

3 Buildings

Fort Leonard Wood

Fort Leonard Wood MO 65473

Landholding Agency: Army

Property Number: 21201440030

Status: Unutilized

Directions: 02430, 02432, 02434

Comments: public access denied and no alternative method to gain access w/out compromising national security.

Reasons: Secured Area

2 Buildings

Fort Leonard Wood Lake of Ozarks Rec. Area

Fort Leonard Wood MO 65473

Landholding Agency: Army

Property Number: 21201440031

Status: Unutilized

Directions: 00550, 00500

Comments: public access denied and no alternative method to gain access w/out compromising national security.

Reasons: Secured Area

3 Buildings

Ft. Leonard Wood Lake of the Ozarks Rec. Area

Fort Leonard Wood MO 65049

Landholding Agency: Army

Property Number: 21201510026

Status: Unutilized

Directions: 00555, 00550, 00500

Comments: fair condition prior approve to gain access is required, for more information contact Army about a specific property.

Reasons: Secured Area

39 Buildings

Fort Leonard Wood

Ft. Leonard Wood MO 65473

Landholding Agency: Army

Property Number: 21201530076

Status: Unutilized

Directions: 600OL, 00671, 06695, 700OL, 00769, 773, 775, 777, 777A, 780, 800OL, 00860, 00870, 00981, 0981A, 0981B, 0981C, 0981D, 0981E, 0981F, 0981G, 0981H, 0981I, 0981J, 0981K, 0981L, 0981M, 0981N, 0981O, 0981P, 1027, 02370, 5015, 5270, 5282, 0981Q, 771, 772

Comments: public access denied and no alternative method to gain access without compromising national security.

Reasons: Secured Area

4 Buildings

Fort Leonard Wood

Ft. Leonard Wood MO 65473

Landholding Agency: Army

Property Number: 21201530096

Status: Unutilized

Directions: 662, 1611, 2387, 2388

Comments: properties w/in an airport military airfield; public access denied and no alternative method to gain access w/out compromising national security.

Reasons: Secured Area within airport runway clear zone

9 Buildings

Fort Leonard Wood

Ft. Leonard Wood MO

Landholding Agency: Army

Property Number: 21201540058

Status: Unutilized

Directions: 682-RPUID: 575534, 683-RPUID: 581273, 781-RPUID: 593764, 887-RPUID: 593487, 2307-RPUID: 573663, 2341-RPUID: 597115, 4199-RPUID: 579050, 5027-RPUID: 595346, 5167-RPUID: 593968

Comments: public access denied and no alternative method to gain access without compromising national security.

Reasons: Secured Area

9 Buildings

Fort Leonard Wood

Fort Leonard Wood MO

Landholding Agency: Army

Property Number: 21201540059

Status: Unutilized

Directions: 5279-RPUID: 618544, 5422-RPUID: 598786, 5426-RPUID: 618281, 5432-RPUID: 615691, 5442-RPUID: 582917, 5452-RPUID: 587677, 5502-RPUID: 606152, 5584-RPUID: 582723, 5733-RPUID: 594089

Comments: public access denied and no alternative method to gain access without compromising national security.

Reasons: Secured Area

2 Buildings

Fort Leonard Wood

Fort Leonard Wood MO

Landholding Agency: Army

Property Number: 21201540060

Status: Unutilized

Directions: 12652-RPUID: 607957, 668

Comments: public access denied and no alternative method to gain access without compromising national security.

Reasons: Secured Area

Building 0033A

25201 East 78 Hwy

Independence MO 64056

Landholding Agency: Army

Property Number: 21201610039

Status: Excess

Directions: RPUID: 341156

Comments: public access denied and no alternative method to gain access without compromising national security.

Reasons: Secured Area

11 Buildings

Lake City Army Ammunition Plant

Independence MO 64056

Landholding Agency: Army

Property Number: 21201610040

Status: Unutilized

Directions: T0227:340480, T151D:340508, T0231:340482, T0230:340481, 0038A: 341172, 0093C:339706, 0070A:341261, 0068B:341250, T038F:340492, 0020A:336462, 00146:341081

Comments: public access denied and no alternative method to gain access without compromising national security.

Reasons: Secured Area

15 Buildings

Lake City Army Ammunition Plant

Independence MO 64056

Landholding Agency: Army

Property Number: 21201610042

Status: Underutilized

Directions: 11430:336781, 11433:336783, 11423:336774, 1146:580777, 1144:608662, 1142:615420, 11424:336775, 11421:336772, 11426:336777, 1143:595736, 11422:336773, 1141:608663, 11410:609475, 11411:595737 11431:336782

Comments: public access denied and no alternative method to gain access without compromising national security.

Reasons: Secured Area

Building 0033A

25201 East 78 Hwy

Independence MO 64056

Landholding Agency: Army

Property Number: 21201610062

Status: Excess

Directions: RPUID:341156

Comments: public access denied and no alternative method to gain access without compromising national security.

Reasons: Secured Area

6 Buildings

Fort Leonard Wood

Fort Leonard Wood MO 65473

Landholding Agency: Army

Property Number: 21201630027

Status: Unutilized

Directions: 9117-RPUID:608686, 9115E-RPUID:1238461, 9115-RPUID:591801, 5304-RPUID:614942, 89050-RPUID:600719, 10379-RPUID:589252

Comments: public access denied and no alternative method to gain access without compromising national security.

Reasons: Secured Area

8 Buildings

9109 Immell Road

Fort Leonard Wood MO 65473

Landholding Agency: Army

Property Number: 21201630028

Status: Unutilized

Directions: 9109-RPUID:575806, 9108-RPUID:604405, 9107-RPUID:608685, 9102E-RPUID:1238527, 9113-RPUID:604407, 9111G-RPUID:1238481, 9112-RPUID:599404, 9111-RPUID:614478

Comments: public access denied and no alternative method to gain access without compromising national security.

Reasons: Secured Area

3 Buildings

Fort Leonard Wood

Fort Leonard Wood MO 65473

Landholding Agency: Army

Property Number: 21201630029

Status: Unutilized

Directions: 9100 (608684), 9101 (614477), 9102 (582746)

Comments: documented deficiencies: roof has numerous leaks which caused significant interior damage; clear threat to physical safety.

Reasons: Extensive deterioration

4 Buildings

Fort Leonard Wood

Fort Leonard Wood MO 65473

Landholding Agency: Army

Property Number: 21201630030

Status: Unutilized

Directions: 2336 (598203), 2337 (619148), 2338 (577352), 2339 (600697)

Comments: documented deficiencies: structurally unsound; clear threat to physical safety.

Reasons: Extensive deterioration

3 Buildings

Fort Leonard Wood

Fort Leonard Wood MO 65473

Landholding Agency: Army

Property Number: 21201630031

Status: Unutilized

Directions: 2250 (591793), 2322 (585224), 2327 (1086582)

Comments: documented deficiencies: severely dilapidated; structurally unsound; clear threat to physical safety.

Reasons: Extensive deterioration

3 Buildings

Fort Leonard Wood

Fort Leonard Wood MO 65473

Landholding Agency: Army

Property Number: 21201630032

Status: Unutilized

Directions: 837 (594613), 2200A (604024), 2201 (604799)

Comments: documented deficiencies: structurally unsound due to wind storm; severe mold damage due to unsound roof; significant water damage due to water line breaks/flooding; clear threat to physical safety.

Reasons: Extensive deterioration

3 Buildings

Fort Leonard Wood

Fort Leonard Wood MO 65473

Landholding Agency: Army

Property Number: 21201630033

Status: Unutilized

Directions: 2323 (573662), 2324 (616667), 2394 (585616)

Comments: documented deficiencies: structurally unsound; clear threat to physical safety.

Reasons: Extensive deterioration

6 Buildings

Fort Leonard Wood

Fort Leonard Wood MO 65473

Landholding Agency: Army

Property Number: 21201630048

Status: Unutilized

Directions: 2320 (611632); 2321 (608450); 9104 (604404); 9110 (604406); 9041G (1233463); 9059G (1238460)

Comments: public access denied and no alternative method to gain access without compromising national security.

Reasons: Secured Area

Montana

Bldg. 1870, Storage Magazine

Malmstrom AFB

Malmstrom AFB MT 59402

Landholding Agency: Air Force

Property Number: 18201710010

Status: Unutilized

Comments: public access denied and no alternative method to gain access without compromising national security.

Reasons: Secured Area

Building 1835

Munition Maintenance Admin

Malmstrom AFB

Malmstrom AFB MT 59402

Landholding Agency: Air Force

Property Number: 18201710011

Status: Unutilized

Comments: public access denied and no alternative method to gain access without compromising national security.

Reasons: Secured Area

Building 685

Exchange Service Station

Malmstrom AFB

Malmstrom AFB MT 59402

Landholding Agency: Air Force

Property Number: 18201710012

Status: Unutilized

Comments: public access denied and no alternative method to gain access without compromising national security.

Reasons: Secured Area

Bldg. 1830, Storage Magazine

Malmstrom AFB

Malmstrom AFB MT 59402

Landholding Agency: Air Force

Property Number: 18201710013

Status: Unutilized

Comments: public access denied and no alternative method to gain access without compromising national security.

Reasons: Secured Area

Building 631, Dorm

Malmstrom AFB

Malmstrom AFB MT 59402

Landholding Agency: Air Force

Property Number: 18201710014

Status: Unutilized

Comments: public access denied and no alternative method to gain access without compromising national security.

Reasons: Secured Area

Building 1705

Maintenance Shop

Malmstrom AFB

Malmstrom AFB MT 59402

Landholding Agency: Air Force

Property Number: 18201710015

Status: Unutilized

Comments: public access denied and no alternative method to gain access without compromising national security.

Reasons: Secured Area

Building 1151

Base Exchange Storage

Malmstrom AFB

Malmstrom AFB MT 59402

Landholding Agency: Air Force

Property Number: 18201710016

Status: Unutilized

Comments: public access denied and no alternative method to gain access without compromising national security.

Reasons: Secured Area

Building 1887, Kennel Canine

Malmstrom AFB

Malmstrom AFB MT 59402

Landholding Agency: Air Force

Property Number: 18201710017

Status: Unutilized

Comments: public access denied and no alternative method to gain access without compromising national security.

Reasons: Secured Area

Building 1150, Base Exchange

Malmstrom AFB

Malmstrom AFB MT 59402

Landholding Agency: Air Force

Property Number: 18201710018

Status: Unutilized

Comments: public access denied and no alternative method to gain access without compromising national security.

Reasons: Secured Area

Bldg. 1871, Storage Magazine

Malmstrom AFB

Malmstrom AFB MT 59402

Landholding Agency: Air Force

Property Number: 18201710019

Status: Unutilized

Comments: public access denied and no alternative method to gain access without compromising national security.

Reasons: Secured Area

Building 1010, Gymnasium

Malmstrom AFB

Malmstrom AFB MT 59402

Landholding Agency: Air Force

Property Number: 18201710020

Status: Unutilized

Comments: public access denied and no alternative method to gain access without compromising national security.

Reasons: Secured Area

Building 630, Dorm

Malmstrom AFB

Malmstrom AFB MT 59402

Landholding Agency: Air Force

Property Number: 18201710025

Status: Unutilized

Comments: public access denied and no alternative method to gain access without compromising national security.

Reasons: Secured Area

Building 1702

BIO Environmental Health

Malmstrom AFB

Malmstrom AFB MT 59402

Landholding Agency: Air Force

Property Number: 18201710026

Status: Unutilized

Comments: public access denied and no alternative method to gain access without compromising national security.

Reasons: Secured Area

Building 4000

Child Development Center

Malmstrom AFB

Malmstrom AFB MT 59402

Landholding Agency: Air Force

Property Number: 18201710027

Status: Unutilized

Comments: public access denied and no alternative method to gain access without compromising national security.

Reasons: Secured Area

Building 1192

Family Support Center

Malmstrom AFB

Malmstrom AFB MT 59402

Landholding Agency: Air Force

Property Number: 18201710028

Status: Unutilized

Comments: public access denied and no alternative method to gain access without compromising national security.

Reasons: Secured Area

Building 1918, HQ Group

Malmstrom AFB

Malmstrom AFB MT 59402

Landholding Agency: Air Force

Property Number: 18201710029

Status: Unutilized

Comments: public access denied and no alternative method to gain access without compromising national security.

Reasons: Secured Area

Nevada

8 Buildings

Indian Springs Casino

Creech AFB NV 89191

Landholding Agency: Air Force

Property Number: 18201620040

Status: Unutilized

Directions: B-95008, B-95013, B-95015, B-95010, B-95012, B-95016, B-95007, B-95020

Comments: public access denied and no alternative method to gain access without compromising national security.

Reasons: Secured Area

51; 152 AW/NVANG

1776 National Guard Way

Reno NV 89502

Landholding Agency: Air Force

Property Number: 18201640012

Status: Unutilized

Comments: public access denied and no alternative method to gain access without compromising national security.

Reasons: Secured Area

Aircraft Maintenance Shop

290

Nellis AFB

Nellis NV 89191

Landholding Agency: Air Force

Property Number: 18201640036

Status: Unutilized

Comments: friable asbestos present.

Reasons: Contamination

24 Buildings

Hawthorne Army Depot

Hawthorne NV 89415

Landholding Agency: Army

Property Number: 21201530075

Status: Unutilized

Directions: 0A350(322632); 0A354(326593); 0A388(327371); 0A395(319492); 0A518(327229); 0A669(324262); OC429(323329); 0PA14(1055821); 1S100(319056); 00040(324168); 71; 86BT4;00097(330820); 107Z8 (324429); 143; 00171; 00192; 00275; 00328; 00360; 00379; 00504; 11099; 00074

Comments: public access denied and no alternative method to gain access without compromising national security.

Reasons: Secured Area

14 Buildings

Hawthorne Army Depot

Hawthorne NV 89415

Landholding Agency: Army

Property Number: 21201530087

Status: Unutilized

Directions: 10317 RPUID:319511; 10320-320932; 10310-324158; 10311-319509; 11067-1044155; 10610-330071; 10338-324121; 10337-327406; 10336-319516; 10335-319515; 10334-319514; 10333-319057; 10330-327729; 10329-327728

Comments: public access denied and no alternative method to gain access without compromising national security.

Reasons: Secured Area

2 Buildings

Hawthorne Army depot

Hawthorne Army Depot NV

Landholding Agency: Army

Property Number: 21201540040

Status: Unutilized

Directions: 0C261-RPUID: 330817; 10341-RPUID: 319518

Comments: flam/explos. materials are located on? adjacent industrial, commercial, or Federal facility; public access denied and no alternative method to gain access without compromising national security.

Reasons: Within 2000 ft. of flammable or explosive material Secured Area

10139; RPUID: 330786

Hawthorne Army Depot

Hawthorne NV 89415

Landholding Agency: Army

Property Number: 21201640007

Status: Unutilized

Comments: public access denied and no alternative method to gain access without compromising national security.

Reasons: Secured Area

New Jersey

Facility HEKP 5953, Gymnasium

JBMDL

JBMDL NJ

Landholding Agency: Air Force

Property Number: 18201640014

Status: Unutilized

Comments: public access denied and no alternative method to gain access without compromising national security.

Reasons: Secured Area

Facility HEKP 5891

Refuse Garbage Building

JBMDL

JBMDL NJ

Landholding Agency: Air Force

Property Number: 18201640015

Status: Unutilized

Comments: public access denied and no alternative method to gain access without compromising national security.

Reasons: Secured Area

Facility 1931, Disaster Prep

JBMDL

JBMDL NJ

Landholding Agency: Air Force

Property Number: 18201640017

Status: Unutilized

Comments: public access denied and no alternative method to gain access without compromising national security.

Reasons: Secured Area

Facility 1732

Aerial Port Training Facility

JBMDL

JBMDL NJ

Landholding Agency: Air Force

Property Number: 18201640018

Status: Unutilized

Comments: public access denied and no alternative method to gain access without compromising national security.

Reasons: Secured Area

Facility 281

Transformer Vault Building

JBMDL

JBMDL NJ

Landholding Agency: Air Force

Property Number: 18201640037

Status: Underutilized

Comments: public access denied and no alternative method to gain access without compromising national security.

Reasons: Secured Area

Facility HEKP 5930

Technical Training Lab/Shop/JBMDL

JBMDL NJ

Landholding Agency: Air Force

Property Number: 18201710003

Status: Unutilized

Comments: public access denied and no alternative method to gain access without compromising national security; flaking lead based paint.

Reasons: Secured Area Contamination

Facility HEKP 5926

Petroleum Operations Building

JBMDL

JBMDL NJ

Landholding Agency: Air Force

Property Number: 18201710004

Status: Unutilized

Comments: public access denied and no alternative method to gain access without compromising national security; flaking lead base paint.

Reasons: Secured Area Contamination

Facility HEKP 5925

Dispatch Building

JBMDL

JBMDL NJ

Landholding Agency: Air Force

Property Number: 18201710005

Status: Unutilized

Comments: public access denied and no alternative method to gain access without compromising national security; flaking lead base paint.

Reasons: Secured Area Contamination

Facility HEKP 5924

Tech Training Lab

JBMDL

JBMDL NJ

Landholding Agency: Air Force

Property Number: 18201710006

Status: Unutilized

Comments: public access denied and no alternative method to gain access without compromising national security; flaking lead base paint.

Reasons: Secured Area Contamination

Facility HEKP 5923

Tech Training Lab

JBMDL

JBMDL NJ

Landholding Agency: Air Force

Property Number: 18201710007

Status: Unutilized

Comments: public access denied and no alternative method to gain access without compromising national security; flaking lead base paint.

Reasons: Contamination Secured Area

Facility HEKP 5922

Tech Training Lab

JBMDL

JBMDL NJ

Landholding Agency: Air Force

Property Number: 18201710008

Status: Unutilized

Comments: public access denied and no alternative method to gain access without compromising national security; flaking lead base paint.

Reasons: Secured Area Contamination

5 Bldgs.

Picatinny Arsenal

Dover NJ 07806

Landholding Agency: Army

Property Number: 21201140035

Status: Unutilized

Directions: 00281, 03013, 00332, 0623F, 0639A

Reasons: Extensive deterioration Secured Area Contamination

2 Buildings

Picatinny Arsenal

Dover NJ 07806

Landholding Agency: Army

Property Number: 21201440056

Status: Unutilized

Directions: 3208B; 3208G

Comments: documented deficiencies: roof caving in; walls are rotted; overgrown vegetation; clear threat to physical safety.

Reasons: Extensive deterioration

New Mexico

Building 247

Cannon AFB

Cannon NM

Landholding Agency: Air Force

Property Number: 18201640035

Status: Unutilized

Comments: public access denied and no alternative method to gain access without compromising national security.

Reasons: Secured Area

Building 1800

Cannon AFB

Cannon NM 88103

Landholding Agency: Air Force

Property Number: 18201640039

Status: Underutilized

Comments: property located within a military airfield; public access denied and no alternative method to gain access without compromising national security.

Reasons: Secured Area Within airport runway clear zone

Building 1801

Cannon AFB

Cannon NM 88103

Landholding Agency: Air Force

Property Number: 18201640040

Status: Underutilized

Comments: property located within a military airfield; public access denied and no alternative method to gain access without compromising national security.

Reasons: Within airport runway clear zone Secured Area

Building 1802

Cannon AFB

Cannon NM 88103

Landholding Agency: Air Force

Property Number: 18201640041

Status: Underutilized

Comments: property located within a military airfield; public access denied and no alternative method to gain access without compromising national security.

Reasons: Secured Area Within airport runway clear zone

442

Cannon AFB

Cannon NM 88103

Landholding Agency: Air Force

Property Number: 18201640042

Status: Unutilized

Comments: public access denied and no alternative method to gain access without compromising national security.

Reasons: Secured Area

Building 1400

Cannon AFB

Cannon NM 88103

Landholding Agency: Air Force

Property Number: 18201640043

Status: Underutilized

Comments: public access denied and no alternative method to gain access without compromising national security.

Reasons: Secured Area

Building 251

Cannon Air Force Base

Cannon NM

Landholding Agency: Air Force

Property Number: 18201710002

Status: Unutilized

Comments: public access denied and no alternative method to gain access without compromising national security.

Reasons: Secured Area

New York

Bldgs. 214, 215, 228

Fort Hamilton

Brooklyn NY 11252

Landholding Agency: Army

Property Number: 21201010031

Status: Unutilized

Reasons: Secured Area

4 Bldgs.

Fort Hamilton

Brooklyn NY 11252

Landholding Agency: Army

Property Number: 21201020018

Status: Unutilized

Directions: FENCC, 214, 215, 228

Reasons: Secured Area

2 Buildings

Fort Hamilton

Wainwright Dr. NY 11252

Landholding Agency: Army

Property Number: 21201510018

Status: Unutilized

Directions: 0137A; 0137B

Comments: public access denied and no alternative method to gain access without compromising national security.

Reasons: Secured Area

Building 0137C

Fort Hamilton

Wainwright Dr. NY 11252

Landholding Agency: Army

Property Number: 21201510019

Status: Underutilized

Comments: public access denied & no alternative method to gain access without compromising national security.

Reasons: Secured Area

3 Buildings

Fort Drum

Fort Drum NY 13602

Landholding Agency: Army

Property Number: 21201520021

Status: Underutilized

Directions: Buildings 2153, 175, 173

Comments: public access denied and no alternative method to gain access without compromising national security.

Reasons: Secured Area

Buildings 1486 & 2552

Fort Drum

Ft. Drum NY 13602

Landholding Agency: Army

Property Number: 21201530077

Status: Unutilized

Directions: RPUID: 314900 and 300780 respectively

Comments: public access denied and no alternative method to gain access without compromising national security.

Reasons: Secured Area

1236

US Army Garrison, West Point

West Point NY 10996

Landholding Agency: Army

Property Number: 21201540033

Status: Unutilized

Comments: document deficiencies: condemned; ceilings, walls, flooring, doors, and windows are rotted and beyond repair; wood deteriorated to state of non-repair; clear threat to physical safety.

Reasons: Extensive deterioration

Building 697

697 Washington Road

West Point NY 10996

Landholding Agency: Army

Property Number: 21201620030

Status: Unutilized

Comments: documented deficiencies: extensive structural damage; wall coming apart; bricks are dislodged which may cause the building to collapse; located on a land fill.

Reasons: Extensive deterioration

Building 30

Quartermaster Road

Fort Drum NY 13602

Landholding Agency: Army

Property Number: 21201630021

Status: Unutilized

Directions: RPUID:304180

Comments: public access denied and no alternative method to gain access without compromising national security.

Reasons: Secured Area

8 Buildings

Fort Drum

Fort Drum NY 13602

Landholding Agency: Army

Property Number: 21201710002

Status: Underutilized

Directions: Building 4032(RPUID:311484); 4000(RPUID:304740); 4003(RPUID:304775); 4004(RPUID:304776); 4015(RPUID:304778); 4016(RPUID:304779); 4030(RPUID:311533); 4031(RPUID:311483)

Comments: public access denied and no alternative method to gain access without compromising national security.

Reasons: Secured Area

Building 4001; RPUID: 304774

Fort Drum

Ft. Drum NY 13602

Landholding Agency: Army

Property Number: 21201710015

Status: Underutilized

Comments: public access denied and no alternative method to gain access without compromising national security.

Reasons: Secured Area

12 Bldgs.

Fort Bragg

Ft. Bragg NC 28310

Landholding Agency: Army

Property Number: 21201020019

Status: Unutilized

Directions: 661A, M2146, C2629, F2630, A3527, C3609, A3726, A3728, C3731, A3732, A3734, A3736

Reasons: Secured Area

North Carolina

3 Bldgs.

Fort Bragg

Cumberland NC 28310

Landholding Agency: Army

Property Number: 21201030017

Status: Unutilized

Directions: 31743, M5044, M5040

Comments: T2139 demolished.

Reasons: Secured Area Extensive deterioration

Bldg. 83022

Fort Bragg

Cumberland NC 28310

Landholding Agency: Army

Property Number: 21201040020

Status: Unutilized

Reasons: Extensive deterioration Secured Area

4 Bldgs.

Ft. Bragg

Ft. Bragg NC 28310

Landholding Agency: Army

Property Number: 21201110031

Status: Unutilized

Directions: X5062, X5066, X6260, X6266

Reasons: Extensive deterioration Secured Area

5 Bldgs.

null

Ft. Bragg NC 28310

Landholding Agency: Army

Property Number: 21201110032

Status: Unutilized

Directions: X5041, X5045, X5049, X5053, X5058

Reasons: Extensive deterioration Secured Area

5 Bldgs.

null

Ft. Bragg NC

Landholding Agency: Army

Property Number: 21201110033

Status: Unutilized

Directions: X4134, X4137, X4139, X4141, X5036

Reasons: Extensive deterioration Secured Area

5 Bldgs.

null

Ft. Bragg NC 28310

Landholding Agency: Army

Property Number: 21201110034

Status: Unutilized

Directions: N3305, X3266, X3770, X4126, X4130

Reasons: Extensive deterioration Secured Area

Bldg. 31802

null

Fort Bragg NC 28310

Landholding Agency: Army

Property Number: 21201130004

Status: Unutilized

Reasons: Extensive deterioration Secured Area

Bldg. 1537

null

Fort Bragg NC 28310

Landholding Agency: Army

Property Number: 21201130005

Status: Unutilized

Reasons: Extensive deterioration

B-H1607

Ft. Bragg

Ft. Bragg NC 28310

Landholding Agency: Army

Property Number: 21201210094

Status: Unutilized

Comments: Nat'l security concerns; no public access; restricted area; no alternative method to gain access.

Reasons: Secured Area

4 Buildings

Ft. Bragg

Ft. Bragg NC 28308

Landholding Agency: Army

Property Number: 21201230004

Status: Unutilized

Directions: 276, 31335, C1624, D1910

Comments: restricted access to authorized military personnel only; public access denied & no alternative method to gain access w/out comprising Nat'l security.

Reasons: Secured Area

Buildings 6036 & 7556

4030 & 4551 Normandy Dr.

Ft. Bragg NC 28310

Landholding Agency: Army

Property Number: 21201310032

Status: Underutilized

Comments: located w/in military reservation; public access denied & no alternative method to gain access w/out compromising Nat'l security.

Reasons: Secured Area

4 Buildings

Ft. Bragg

Ft. Bragg NC 28310

Landholding Agency: Army

Property Number: 21201310057

Status: Underutilized

Directions: F2131, F2534, F3040, F3134

Comments: restricted military installation; public denied & no alternative method to gain access w/out compromising Nat'l security.

Reasons: Secured Area

7 Buildings

Ft. Bragg

Ft. Bragg NC 28310

Landholding Agency: Army

Property Number: 21201320001

Status: Underutilized

Directions: 21817, A5886, C8310, D2302, D2307, D2502, D2507

Comments: military reservation; access limited to military personnel only; access denied & no alternative method to gain access w/out compromising Nat'l security.

Reasons: Secured Area

U1704

Fort Bragg

Ft. Bragg NC 28310

Landholding Agency: Army

Property Number: 21201420034

Status: Underutilized

Comments: public access denied and no alternative method to gain access w/out compromising national security.

Reasons: Secured Area

4 Buildings

Fort Bragg

Fort Bragg NC 28310

Landholding Agency: Army

Property Number: 21201430033

Status: Unutilized

Directions: 69241; A5424, D2236; D2336

Comments: public access denied and no alternative without compromising National Security.

Reasons: Secured Area

4 Buildings

Fort Bragg

Ft. Bragg NC 28310

Landholding Agency: Army

Property Number: 21201440001

Status: Unutilized

Directions: M6450; M2346; 14865; 03554

Comments: public access denied and no alternative method to gain access w/out compromising national security.

Reasons: Secured Area

9 Buildings

Ft. Bragg

Ft. Bragg NC 28310

Landholding Agency: Army

Property Number: 21201510016

Status: Unutilized

Directions: A5030; A5031; A5033; A5221; A5222; A5224; A5225; A5234; A5420;

Comments: public access denied and no alternative method to gain access without compromising national security.

Reasons: Secured Area

10 Buildings

Fort Bragg

Ft. Bragg NC 28310

Landholding Agency: Army

Property Number: 21201510017

Status: Underutilized

Directions: A4920; A4921; A4922; A4923; A4930; A4931; A5020; A5021; A5022; A5023

Comments: public access denied and no alternative method to gain access without compromising national security.

Reasons: Secured Area

Building 14930

3225 Normandy Drive

Ft. Bragg NC 28310

Landholding Agency: Army

Property Number: 21201520014

Status: Underutilized

Comments: public access denied and no alternative method to gain access without compromising national security.

Reasons: Secured Area

717

Ft. Bragg

Ft. Bragg NC 28310

Landholding Agency: Army

Property Number: 21201530017

Status: Unutilized

Directions: RPUID: 506663

Comments: public access denied and no alternative method to gain access without compromising National Security.

Reasons: Secured Area

D2919

FT. Bragg

Ft. Bragg NC 28310

Landholding Agency: Army

Property Number: 21201530018

Status: Underutilized

Directions: RPUID: 611669

Comments: public access denied and no alternative method to gain access without compromising National Security.

Reasons: Secured Area

O9101

Ft. Bragg

Ft. Bragg NC 28310

Landholding Agency: Army

Property Number: 21201530019

Status: Unutilized

Directions: RPUID: 304533

Comments: public access denied and no alternative method to gain access without compromising National Security.

Reasons: Secured Area

O9102

Ft. Bragg

Ft. Bragg NC 28310

Landholding Agency: Army

Property Number: 21201530020

Status: Unutilized

Directions: RPUID: 304534

Comments: public access denied and no alternative method to gain access without compromising National Security.

Reasons: Secured Area

5 Buildings

Ft. Bragg

Ft. Bragg NC 28310

Landholding Agency: Army

Property Number: 21201530022

Status: Underutilized

Directions: E1351; E1541; E1650; E1743; E3825

Comments: public access denied and no alternative method to gain access without compromising National Security.

Reasons: Secured Area

27 Buildings

Fort Bragg

Cumberland NC 28310

Landholding Agency: Army

Property Number: 21201540002

Status: Unutilized

Directions: 15132-RPUID: 581224; M6460-RPUID: 610295; M2348-RPUID: 958708; E4325-RPUID: 613768; A5428-RPUID:597133; M6146-RPUID:597164; M6143-RPUID: 576307; M2646-RPUID: 958720; M6445-RPUID:595599; M2360-RPUID:958714; M6438-RPUID:557152; M6450-RPUID:577153; M6733-RPUID:609986; M6746-RPUID:571513; M6751-RPUID:584516; M2359-RPUID:958713; A5628-RPUID:581440; M6433-RPUID:590748; A5630-RPUID:593150; M2357-RPUID:958713; M2338-RPUID:958304; M2340-RPUID:958305; M2342-RPUID:958704; M2343-RPUID:958705; M2345-RPUID: 958706; M2350-RPUID: 958709; M2351-RPUID:958710

Comments: public access denied and no alternative method to gain access without compromising national security.

Reasons: Secured Area

5 Buildings

Fort Bragg

Fort Bragg NC 28310

Landholding Agency: Army

Property Number: 21201540003

Status: Underutilized

Directions: 15433-RPUID: 1034408; 15533-RPUID: 1034409; 15631-RPUID:607469; 15730-RPUID: 297551; F1231-RPUID:575616

Comments: public access denied and no alternative method to gain access without compromising national security.

Reasons: Secured Area

20 Buildings

Fort Bragg

Cumberland NC 28310

Landholding Agency: Army

Property Number: 21201540004

Status: Underutilized

Directions: 85303; A3764; D3022; H3237; H3554; M2346; M2353; M2356; M2505; M2642; M2650; M2651; M2653; M5051; M6142; M6205; M6150; P2341; X6088; M2640

Comments: public access denied and no alternative method to gain access without compromising national security.

Reasons: Secured Area

6 Buildings

Fort Bragg

Fort Bragg NC 28310

Landholding Agency: Army

Property Number: 21201610011

Status: Underutilized

Directions: Building 22326 RPUID:293152; 22426 RPUID:297111; 22428 RPUID:289548; 22727 RPUID:604968 238 RPUID:505916; 239 RPUID:505917

Comments: public access denied and no alternative method to gain access without compromising national security.

Reasons: Secured Area

15 Buildings

Fort Bragg

Fort Bragg NC 28310

Landholding Agency: Army

Property Number: 21201610024

Status: Unutilized

Directions: Building 69373 RPUID:1033411; M2338:958304; M2343:958705; M2348:958708; M2351:958710; M2353:958711; M2505:580476; M2545:1034467; M2646:958720; M6143:5976307; M6146:597164 M6438:577152; M6460:610295; M6750:591555; O4860:289720

Comments: public access denied and no alternative method to gain access without compromising national security.

Reasons: Secured Area

12 Buildings

Fort Bragg

Fort Bragg NC 28310

Landholding Agency: Army

Property Number: 21201620001

Status: Underutilized

Directions: D2609: RPUID:577998; D2815: RPUID:614614; D3225: RPUID:594582; D3637: RPUID:586751; E1739: RPUID:605961; N5204: RPUID:304497; D2509: RPUID:597728; D2212: RPUID:604181; D2211: RPUID:297376; D2113: RPUID:584535; D2111: RPUID:611859; D1911: RPUID:604178

Comments: public access denied and no alternative method to gain access without compromising national security.

Reasons: Secured Area

2 Buildings

Fort Bragg

Fort Bragg NC 28310

Landholding Agency: Army

Property Number: 21201620005

Status: Unutilized

Directions: Building D2105 & 280

Comments: public access denied and no alternative method to gain access without compromising national security.

Reasons: Secured Area

3 Buildings

Fort Bragg

Fort Bragg NC 28310

Landholding Agency: Army

Property Number: 21201630040

Status: Unutilized

Directions: H3654 (296691); M2506 (297512); 69673 (291378)

Comments: public access denied and no alternative method to gain access without compromising national security

Reasons: Secured Area

9 Buildings

Fort Bragg

Ft Bragg NC 28310

Landholding Agency: Army

Property Number: 21201640013

Status: Unutilized

Directions: M1650-306646; M1750-298672; M2148-296765; 13151-608821; 86606-577995; 87006-604470; A2875-576093; D2612-600085; H5748-620204

Comments: public access denied and no alternative method to gain access without compromising national security.

Reasons: Secured Area

Ohio

Facility 20094

2710 D. St.

WPAFB OH 45433

Landholding Agency: Air Force

Property Number: 18201620003

Status: Excess

Comments: public access denied and no alternative method to gain access without compromising national security.

Reasons: Secured Area

Facility 20098

2812 D. St.

WPAFB OH 45433

Landholding Agency: Air Force

Property Number: 18201620004

Status: Excess

Comments: public access denied and no alternative method to gain access without compromising national security.

Reasons: Secured Area

Facility 30072

5570 Skeel Ave.

WPAFB OH 45433

Landholding Agency: Air Force

Property Number: 18201620005

Status: Excess

Comments: public access denied and no alternative method to gain access without compromising national security.

Reasons: Secured Area

Facility 20197

4185 Logistics St.

WPAFB OH 45433

Landholding Agency: Air Force

Property Number: 18201620006

Status: Excess

Comments: public access denied and no alternative method to gain access without compromising national security.

Reasons: Secured Area

Facility 30144

5136 Pearson Rd.

WPAFB OH 45433

Landholding Agency: Air Force

Property Number: 18201620007

Status: Excess

Comments: public access denied and no alternative method to gain access without compromising national security.

Reasons: Secured Area

RPUID #524102

(Traffic Chk Hse Bldg. 108)

Springfield Beckley Air National Guard

Springfield OH 45502

Landholding Agency: Air Force

Property Number: 18201620008

Status: Unutilized

Directions: 1337 West Blee Rd.

Comments: public access denied and no alternative method to gain access without compromising national security.

Reasons: Secured Area

4 Buildings

Wright-Patterson Air Force Base

Mitchell Dr.

WPAFB OH 45433

Landholding Agency: Air Force

Property Number: 18201620033

Status: Excess

Directions: Building 34081, 34082, 34083, 34058

Comments: public access denied and no alternative method to gain access without compromising national security; property located within an airport runway clear zone or military airfield.

Reasons: Within airport runway clear zone Secured Area

Building 2005, Traffic chk hse

8011 Zistel Street

Columbus OH 43217

Landholding Agency: Air Force

Property Number: 18201630003

Status: Underutilized

Comments: public access denied and no alternative method to gain access without compromising national security.

Reasons: Secured Area

Facility 34071

Wright Patterson AFB

Green County OH 45433

Landholding Agency: Air Force

Property Number: 18201640028

Status: Excess

Comments: public access denied and no alternative method to gain access without compromising national security; located within an airport runway.

Reasons: Within airport runway clear zone Secured Area

Facility 34065

Wright Patterson Air Force Base

WPAFB OH 45433

Landholding Agency: Air Force

Property Number: 18201640029

Status: Excess

Comments: public access denied & no alternative method to gain access without compromising national security; property located within an airport runway clear zone or military airfield.

Reasons: Within airport runway clear zone Secured Area

Oklahoma

2 Buildings

Altus AFB—AGGN

Altus OK 73523

Landholding Agency: Air Force

Property Number: 18201620029

Status: Unutilized

Directions: Facility 312 & 329

Comments: public access denied and no alternative method to gain access without compromising national security.

Reasons: Secured Area

RS Kerr Lake

HC61

Sallisaw OK 74955

Landholding Agency: Army

Property Number: 21201040042

Status: Underutilized

Reasons: Extensive deterioration

Fort Sill, (4 Bldgs.)

Fort Sill

Lawton OK

Landholding Agency: Army

Property Number: 21201110027

Status: Unutilized

Directions: Bldgs.: 00208, M4902, M4903, 06204

Reasons: Extensive deterioration

14 Bldgs.

Fort Sill

Lawton OK 73501

Landholding Agency: Army

Property Number: 21201130056

Status: Unutilized

Directions: 00214, 00216, 01445, 01447, 01448, 01468, 02524, 02594, 02809, 6472, 6473, 6474, M1453, M4905

Reasons: Extensive deterioration Contamination

6 Buildings

Fort Sill

Ft. Sill OK 73503

Landholding Agency: Army

Property Number: 21201440054

Status: Unutilized

Directions: 6280; 6281; 6283; 6292; 6295; 6293

Comments: public access denied and no alternative method to gain access w/out compromising national security.

Reasons: Secured Area

Building 472

1 C Tree Road

McAlester OK 74501

Landholding Agency: Army

Property Number: 21201630026

Status: Unutilized

Directions: RPUID:345391

Comments: public access denied and no alternative method to gain access without compromising national security.

Reasons: Secured Area

Oregon

Pennsylvania

Building 112

Horsham Air Guard Station

Horsham PA 19044

Landholding Agency: Air Force

Property Number: 18201640011

Status: Underutilized

Comments: public access denied and no alternative method to gain access without compromising national security.

Reasons: Secured Area

Bldg. 891

Carlisle Barracks

Cumberland PA 17013

Landholding Agency: Army

Property Number: 21201020023

Status: Excess

Reasons: Secured Area

2 Buildings

Tobyhanna Army Deport

Tobyhanna PA 18466

Landholding Agency: Army

Property Number: 21201420027

Status: Underutilized

Directions: 0511A; 0511B

Comments: public access denied & no alternative method to gain access w/out compromising National Security.

Reasons: Secured Area

Letterkenny Army Depot

Bldg. 2365; 1465; 1456

Intersection of Georgia Avenue

Chambersburg PA 17201

Landholding Agency: Army

Property Number: 21201510001

Status: Unutilized

Directions: 2365; 1465; 1456

Comments: public Access denied & no alternative method to gain access w/out compromising Nat'l Sec.

Reasons: Secured Area

9 Buildings

Defense Distribution Susquehanna, PA

New Cumberland PA 17070

Landholding Agency: Army

Property Number: 21201520010

Status: Underutilized

Directions: Building 0090; 00901; 00902; 00904; 02021; 02023; 02024; 02025; 02027

Comments: public access denied and no alternative method to gain access without compromising national security; Property located within an airport runway clear zone or military airfield.

Reasons: Within airport runway clear zone Secured Area

Building 1008

11 Hap Arnold Blvd.

Tobyhanna PA 18466

Landholding Agency: Army

Property Number: 21201530047

Status: Unutilized

Comments: public access denied and no alternative method to gain access without compromising National Security.

Reasons: Secured Area

S2705 & S2706

Letterkenny Army Depot

Letterkenny Army Depo PA 17201

Landholding Agency: Army

Property Number: 21201540031

Status: Unutilized

Comments: public access denied and no alternative method to gain access without compromising national security.

Reasons: Secured Area

Puerto Rico

Building 10

Road 165

Toa Baja PR 00953

Landholding Agency: Air Force

Property Number: 18201620041

Status: Unutilized

Comments: public access denied and no alternative method to gain access without compromising national security.

Reasons: Secured Area

Building 10

Punta Salinas Radar Site

Toa Baja PR

Landholding Agency: Air Force

Property Number: 18201630001

Status: Unutilized

Comments: public access denied and no alternative to gain access without compromising national security.

Reasons: Secured Area

Building 00215

Ft. Allen Trng. Center

Juan Diaz PR 00795

Landholding Agency: Army

Property Number: 21201530004

Status: Unutilized

Comments: doc. deficiencies; documentation provided represents a dear threat to personal phys. safety. Public access denied and no alternative method to gain access w/out compromising Nat. Sec.

Reasons: Extensive deterioration

29 Buildings

Victory Road; USAG FORT BUCHANAN, RQ327

Fort Buchanan PR 00934

Landholding Agency: Army

Property Number: 21201540013

Status: Excess

Directions: 01029; 01030; 01031; 01032; 01033; 01034; 01035; 01036; 01037; 01038; 01039; 01040; 01041; 01042; 01043; 01044; 01046; 01047; 01048; 01049; 01050; 01051; 01052; 01054; 01055; 01056; 01057; 01058; 01061

Comments: public access denied and no alternative method to gain access without compromising national? security.

Reasons: Secured Area

Building 00215

Fort Allen Training Center

Rd. #1

Juan Diaz PR 00795

Landholding Agency: Army

Property Number: 21201540049

Status: Unutilized

Comments: documented deficiencies: condemned due to a fault in the structural integrity; foundation instability and deterioration the walls and ceilings have fallen.

Reasons: Extensive deterioration

3 Buildings

Camp Santiago Trng Center

(RQ577)

Salinas PR 00751

Landholding Agency: Army

Property Number: 21201540050

Status: Unutilized

Directions: 00415-RPUID: 951222; 00416; 00414

Comments: documented deficiencies: condemned; due to structural integrity walls and foundation are cracked.

Reasons: Extensive deterioration

6 Buildings

USAG Fort Buchanan, RQ327

Fort Buchanan PR

Landholding Agency: Army

Property Number: 21201610023

Status: Excess

Directions: Buildings 01053; 01059; 01063; 01065; 01067; 01069

Comments: public access denied and no alternative method to gain access without compromising national security.

Reasons: Secured Area

USAG Ft. Buchanan, RQ327

Building 00067

00067 Miles Loop

Fort Buchanan PR 00934

Landholding Agency: Army

Property Number: 21201710012

Status: Unutilized

Directions: RPUID:613532

Comments: public access denied and no alternative method to gain access without compromising national security.

Reasons: Secured Area

Rhode Island

Bldgs. 0A65V, 340, 382

Camp Fogarty Training Site

Kent RI 02818

Landholding Agency: Army

Property Number: 21201040022

Status: Excess

Reasons: Secured Area

Building 000P2

570 Read Schoolhouse Rd.

NG Coventry RI 02816

Landholding Agency: Army

Property Number: 21201440049

Status: Excess

Comments: public access denied and no alternative method to gain access w/out compromising national security.

Reasons: Secured Area

Building OSKRG

Camp Fogarty

East Greenwich RI 02818

Landholding Agency: Army

Property Number: 21201440052

Status: Unutilized

Comments: documented deficiencies: structural damage; several large holes; severely rotten foundation; extreme rodent infestation; clear threat to physical safety.

Reasons: Extensive deterioration

Samoa

Bldg. 00644

Tree Top U.S. Army Reserve Ctr

Pago AQ

Landholding Agency: Army

Property Number: 21201040039

Status: Unutilized

Reasons: Secured Area Extensive deterioration

South Carolina

2 Buildings

Shaw AFB

Shaw AFB SC

Landholding Agency: Air Force

Property Number: 18201640003

Status: Underutilized

Directions: 98; 1047

Comments: public access denied and no alternative method to gain access without compromising national security.

Reasons: Secured Area

114

Shaw AFB

Shaw AFB SC

Landholding Agency: Air Force

Property Number: 18201640020

Status: Underutilized

Comments: public access denied and no alternative method to gain access without compromising national security.

Reasons: Secured Area

1407

Shaw Air Force Base

Shaw SC

Landholding Agency: Air Force

Property Number: 18201640022

Status: Underutilized

Comments: public access denied and no alternative method to gain access without compromising national security.

Reasons: Secured Area

1408

Shaw Air Force Base

Shaw SC

Landholding Agency: Air Force

Property Number: 18201640024

Status: Underutilized

Comments: public access denied and no alternative method to gain access without compromising national security.

Reasons: Secured Area

1409

Shaw Air Force Base

Shaw SC

Landholding Agency: Air Force

Property Number: 18201640025

Status: Underutilized

Comments: public access denied and no alternative method to gain access without compromising national security.

Reasons: Secured Area

1413

Shaw Air Force Base

Shaw SC

Landholding Agency: Air Force

Property Number: 18201640026

Status: Underutilized

Comments: public access denied and no alternative method to gain access without compromising national security.

Reasons: Secured Area

399

Shaw Air Force Base

Shaw SC

Landholding Agency: Air Force

Property Number: 18201640027

Status: Underutilized

Comments: public access denied and no alternative method to gain access without compromising national security.

Reasons: Secured Area

5 Buildings

Fort Jackson

Fort Jackson SC 29207

Landholding Agency: Army

Property Number: 21201410012

Status: Unutilized

Directions: 1708, 10802, P8670, Q8381, Q8384

Comments: public access denied and no alternative method to gain access w/out compromising national security.

Reasons: Secured Area

P8663

Fort Jackson

Ft. Jackson SC 29207

Landholding Agency: Army

Property Number: 21201410029

Status: Unutilized

Comments: public access denied and no alternative method to gain access w/out compromising national security.

Reasons: Secured Area

27 Buildings

Fort Jackson

Fort Jackson SC 29207

Landholding Agency: Army

Property Number: 21201430025

Status: Unutilized

Directions: 1444, 1530, 1531, 1532, 1539, 1540, 1541, 1542, 2139, 2260, 2275, 2285, 2462, 2464, 2522, 2785, 3058, 3210, 3270, 3280, 4325, 4354, 4376, 4400, 4407, 11559, E4830

Comments: public access denied & no alternative without compromising National Security.

Reasons: Secured Area

FT. Jackson Bldg. 4325 & 4376

Jackson Blvd.

Ft. Jackson SC 29207

Landholding Agency: Army

Property Number: 21201510033

Status: Unutilized

Directions: 4325; 4376

Comments: public access denied & no alternative method to gain access w/out compromising Nat'l Sec.

Reasons: Secured Area

Ft. Jackson Bldg. 2570

2570 Warehouse Rd.

Ft. Jackson SC 29207

Landholding Agency: Army

Property Number: 21201510034

Status: Unutilized

Directions: 2570

Comments: public access denied & no alternative method to gain access w/out compromising Nat'l Sec.

Reasons: Secured Area

3 Buildings

Fort Jackson

Ft. Jackson SC 29207

Landholding Agency: Army

Property Number: 21201510035

Status: Unutilized

Directions: Bldg. 2571; 2572; 2567

Comments: public access denied & no alternative method to gain access w/out compromising Nat'l Sec.

Reasons: Secured Area

6 Buildings

Fort Jackson

Ft. Jackson SC 29207

Landholding Agency: Army

Property Number: 21201510036

Status: Unutilized

Directions: Bldg. 2580; 2590; 3500; 3510; 3511; 3521

Comments: public access denied & no alternative method to gain access w/out compromising Nat'l Sec.

Reasons: Secured Area

20 Buildings

Fort Jackson

Fort Jackson SC 29207

Landholding Agency: Army

Property Number: 21201530051

Status: Unutilized

Directions: Building: 1920; 2253; 2495; 2500; 2510; 2512; 2520; 2522; 2524; 2530; 2545; 2533; 2558; 2562; 2563; 2567; 2570; 2571; 2572; 2580

Comments: public access denied and no alternative method to gain access without compromising National Security.

Reasons: Secured Area

20 Buildings

Fort Jackson

Fort Jackson SC 29207

Landholding Agency: Army

Property Number: 21201530052

Status: Unutilized

Directions: Buildings: 2590; 3220; 3290; 3295; 3500; 3510; 3511; 3521; 4205; 4210; 4215; 4225; 4230; 4235; 4325; 4376; 4470; 4475; 5578; 5579

Comments: public access denied and no alternative method to gain access without compromising National Security.

Reasons: Secured Area

4 Buildings

Fort Jackson

Fort Jackson SC 29207

Landholding Agency: Army

Property Number: 21201530054

Status: Unutilized

Directions: Building's: 9451; 9452; 9453; 9455

Comments: public access denied and no alternative method to gain access without compromising National Security.

Reasons: Secured Area

5 Buildings

Fort Jackson

Fort Jackson SC 29207

Landholding Agency: Army

Property Number: 21201530083

Status: Unutilized

Directions: 10612, 10614, 10624, 10625, 10628

Comments: public access denied and no alternative method to gain access without compromising national security.

Reasons: Secured Area

Building 5715

5715 Imboden Street

Fort Jackson SC 29207

Landholding Agency: Army

Property Number: 21201620025

Status: Unutilized

Directions: RPUID:308163

Comments: public access denied and no alternative method to gain access without compromising national security.

Reasons: Secured Area

8 Buildings

2545 ESSAYONS WAY

Fort Jackson SC 29207

Landholding Agency: Army

Property Number: 21201620027

Status: Unutilized

Directions: 2557: RPUID:308587; 2545: RPUID:310534; 2539: RPUID:310640; 12625: RPUID:604053; 2584: RPUID:180421; 2561: RPUID:310641; 4475: RPUID:307769; 2548: RPUID:308585;

Comments: public access denied and no alternative method to gain access without compromising national security.

Reasons: Secured Area

5713(RPUID: 308428)

Imoden St.

Ft. Jackson SC 29207

Landholding Agency: Army

Property Number: 21201620037

Status: Unutilized

Comments: public access denied and no alternative method to gain access without compromising national security.

Reasons: Secured Area

Holston Army Ammo Plant

Kingsport TN 37660

Landholding Agency: Army

Property Number: 21201030020

Status: Unutilized

Directions: 6, 8A, 24A, 25A, 40A, 101, 118, 143, 154

Reasons: Secured Area Within 2000 ft. of flammable or explosive material

9 Bldgs.

Holston Army Ammo Plant

Kingsport TN 37660

Landholding Agency: Army

Property Number: 21201030021

Status: Unutilized

Directions: 249, 252, 253, 254, 255, 256, 302B, 315, 331

Comments: public access denied and no alternative method to gain access w/out compromising national security.

Reasons: Within 2000 ft. of flammable or explosive material Secured Area

Tennessee

8 Bldgs.

Holston Army Ammo Plant

Kingsport TN 37660

Landholding Agency: Army

Property Number: 21201030022

Status: Unutilized

Directions: 404, 405, 406, 407, 411, 414, 423, 427

Reasons: Within 2000 ft. of flammable or explosive material Secured Area

9 Bldgs.

Holston Army Ammo Plant

Kingsport TN 37660

Landholding Agency: Army

Property Number: 21201030023

Status: Unutilized

Directions: A-0, B-11, C-3A, F-3, G-1A, M-8, N-10A, O-5, D-6A

Reasons: Within 2000 ft. of flammable or explosive material Secured Area

11 Bldgs.

Holston Army Ammo Plant

Kingsport TN 37660

Landholding Agency: Army

Property Number: 21201030024

Status: Unutilized

Directions: YM-1, YM-2, YM-3, YM-4, YM-5, YM-6, YM-7, YM-8, YM-9, YM-10, YM-11

Reasons: Within 2000 ft. of flammable or explosive material Secured Area

2 Buildings

Holston Army Amo Plant

Kingsport TN 37660

Landholding Agency: Army

Property Number: 21201310037

Status: Unutilized

Directions: 328, 328A

Comments: located w/in secured area; public access denied & no alternative method to gain access w/out compromising Nat'l security.

Reasons: Secured Area

Building 50139

2280 Hwy 104 W. Suite 2

(Milan Army Ammunition Plant)

Milan TN 38358

Landholding Agency: Army

Property Number: 21201330012

Status: Unutilized

Directions: 50139

Comments: public access denied & no alternative method to gain access w/out compromising nat. security.

Reasons: Secured Area

J0139

Milan AAP

Milan TN 38358

Landholding Agency: Army

Property Number: 21201330073

Status: Unutilized

Comments: restricted area; public access denied & no alternative method to gain access w/out compromising Nat'l security.

Reasons: Secured Area

4 Buildings

Milan AAP

Milan TN 38358

Landholding Agency: Army

Property Number: 21201340035

Status: Excess

Directions: I0205; I0206; I0207; T0114

Comments: public access denied & no alternative method to gain access without compromising National Security.

Reasons: Secured Area

0302B

Holston Army Ammunition Plant

Kingsport TN 37660

Landholding Agency: Army

Property Number: 21201410005

Status: Unutilized

Comments: public access denied and no alternative method to gain access w/out compromising national security.

Reasons: Secured Area

A0018

Holston Army Ammunition Plant

Kingsport TN 37660

Landholding Agency: Army

Property Number: 21201410031

Status: Underutilized

Comments: property is adjacent to a building that processes explosive materials as part of an acid manufacturing plant.

Reasons: Within 2000 ft. of flammable or explosive material

Building 348

Holston Army Ammunition Plant

Kingsport TN 37660

Landholding Agency: Army

Property Number: 21201420025

Status: Unutilized

Comments: public access denied & no alternative method to gain access w/out compromising National Security.

Reasons: Secured Area

Building 127

Holston Army Ammunition Plant

Kingsport TN 37660

Landholding Agency: Army

Property Number: 21201520031

Status: Unutilized

Comments: public access denied and no alternative method to gain access without compromising National Security.

Reasons: Secured Area

2 Buildings

Milan APP

Milan TN 38358

Landholding Agency: Army

Property Number: 21201530098

Status: Excess

Directions: S0021; S0022

Comments: public access denied and no alternative method to gain access without compromising national security.

Reasons: Secured Area

5 Buildings

Fort Campbell

Ft. Campbell TN 42223

Landholding Agency: Army

Property Number: 21201640014

Status: Unutilized

Directions: 00712-610380; 03710-587231; A7156-617910; 00176-567327; 00711-606990

Comments: public access denied and no alternative method to gain access without compromising national security.

Reasons: Secured Area

Left Bank Recreation

(Access) Area

Old Hickory Lock & Dam Project

Old Hickory TN 37138

Landholding Agency: COE

Property Number: 31201710002

Status: Unutilized

Comments: documented deficiencies: extensive flooding damage; clear threat to physical safety; located within a floodway that has not been corrected or contained.

Reasons: Floodway Extensive deterioration

Texas

Laughlin Air Force,

2.66 acres of improved land

78843 Mitchell Blvd.

Del Rio TX 78843

Landholding Agency: Air Force

Property Number: 18201640001

Status: Unutilized

Comments: public access denied and no alternative method to gain access without compromising national security.

Reasons: Secured Area

Bldg. 25

Brownwood

Brown TX 76801

Landholding Agency: Army

Property Number: 21201020033

Status: Unutilized

Reasons: Extensive deterioration

Bldg. 00046

Ft. Bliss

El Paso TX

Landholding Agency: Army

Property Number: 21201120056

Status: Unutilized

Reasons: Extensive deterioration

Bldg. 1674

42nd & Old Ironsides

Fort Hood TX 76544

Landholding Agency: Army

Property Number: 21201140065

Status: Excess

Reasons: Secured Area Contamination

5 Buildings

Ft. Wolters

Ft. Wolters TX 76067

Landholding Agency: Army

Property Number: 21201410004

Status: Excess

Directions: 1178, 1179, 1180, 1201, 1213?

Comments: public access denied and no alternative method to gain access w/out compromising national security.

Reasons: Secured Area

4 Buildings

Fort Hood

Ft. Hood TX 76544

Landholding Agency: Army

Property Number: 21201440061

Status: Unutilized

Directions: 36019, 36027, 36028, 36043

Comments: public access denied and no alternative method to gain access without compromising national security.

Reasons: Secured Area

Building 01249

1249 Irwin Rd.

Fort Bliss TX 79916

Landholding Agency: Army

Property Number: 21201520044

Status: Unutilized

Comments: public access denied and no alternative method to gain access without compromising national security.

Reasons: Secured Area

9111; RPUID: 180441

Hell on Wheels Avenue

Fort Hood TX 76544

Landholding Agency: Army

Property Number: 21201540026

Status: Excess

Comments: documented deficiencies: property has holes in the structure that most likely will result in collapse if removed off-site; clear threat to physical safety.

Reasons: Extensive deterioration

16 Buildings

Fort Bliss

El Paso TX 79916

Landholding Agency: Army

Property Number: 21201540051

Status: Unutilized

Directions: 03682; 03693; 05041; 05043; 05044; 05045; 07013; 07021; 09495; 09683; 11269; 11519; 11520; 11626; 11660; 11682

Comments: public access denied and no alternative method to gain access without compromising national security.

Reasons: Secured Area

2 Buildings

Fort Hood

Fort Hood TX 76544

Landholding Agency: Army

Property Number: 21201610016

Status: Excess

Directions: Building 4222 RPUID:312106; 56007 RPUID:172572

Comments: public access denied and no alternative method to gain access without compromising national security.

Reasons: Secured Area

7 Buildings

Fort Hood

Fort Hood TX 76544

Landholding Agency: Army

Property Number: 21201610018

Status: Unutilized

Directions: 56448:956596; 56449:956597; 56171:312159; 8314:180917; 8400:180742; 9426:180261; 4261:312300

Comments: public access denied and no alternative method to gain access without compromising national security.

Reasons: Secured Area

2 Buildings

Fort Hood

Fort Hood TX 76544

Landholding Agency: Army

Property Number: 21201610047

Status: Excess

Directions: 2033 RPUID:171493; 56616 RPUID:171884

Comments: public access denied and no alternative method to gain access without compromising national security.

Reasons: Secured Area

3 Buildings

Red River Army Depot

Texarkana TX 75507

Landholding Agency: Army

Property Number: 21201630006

Status: Excess

Directions: 00909; 01027; 568

Comments: public access denied and no alternative method to gain access without compromising national security.

Reasons: Secured Area

4 Buildings

Saginaw

Saginaw TX 76131

Landholding Agency: Army

Property Number: 21201630035

Status: Unutilized

Directions: 0006 (569487); 00016 (555193); 00029 (556778); 00030 (556779)

Comments: public access denied and no alternative method to gain access without compromising national security.

Reasons: Secured Area

00031 (RPUID:556780)

Saginaw

Saginaw TX 76131

Landholding Agency: Army

Property Number: 21201630046

Status: Unutilized

Comments: public access denied and no alternative method to gain access without compromising national security.

Reasons: Secured Area

687 (RPUID: 368471)

Red River Army Depot

Texarkana TX 75507

Landholding Agency: Army

Property Number: 21201630047

Status: Excess

Comments: public access denied and no alternative method to gain access without compromising national security.

Reasons: Secured Area

6 Buildings

Red River Army depot

Texarkana TX 75507

Landholding Agency: Army

Property Number: 21201630052

Status: Excess

Directions: 1124 (218493); 1123 (218492); 396 (221605); 2369 (368512); 1176 (222650); 1158 (368416)

Comments: documented deficiencies: properties suffer from extensive roof damage; significant water damage due to roof leaks; structural integrity compromised; clear threat to physical safety.

Reasons: Extensive deterioration

Building 11107

Biggs Army Airfield Flight line

Fort Bliss TX 79916

Landholding Agency: Army

Property Number: 21201640012

Status: Excess

Comments: public access denied and no alternative method to gain access without compromising national security.

Reasons: Secured Area

Utah

16 Bldgs.

Green River Test Complex

Green River UT 84525

Landholding Agency: Army

Property Number: 21201210043

Status: Unutilized

Directions: 50101, 50102, 50106, 50108, 50109, 50130, 50131, 50133, 50210, 50253, 50291, 50308, 50331, 50400

Comments: nat'l security concerns; no public access and no alternative method to gain access.

Reasons: Secured Area

14 Bldgs.

Green River Test Complex

Green River UT 84525

Landholding Agency: Army

Property Number: 21201210044

Status: Unutilized

Directions: 50001, 50002, 50003, 50006, 50019, 50020, 50022, 50024, 50027, 50029, 50031, 50032, 50040, 50043

Comments: nat'l security concerns; no public access and no alternative method to gain access.

Reasons: Secured Area

2 Bldgs.

Green River Test Complex

Green River UT 84525

Landholding Agency: Army

Property Number: 21201210096

Status: Unutilized

Directions: 50105, 50207

Comments: nat'l security concerns; no public access and no alternative method to gain access.

Reasons: Secured Area

Building Z2206 & Z2212

115500 Stark Rd.

Stockton UT 84071

Landholding Agency: Army

Property Number: 21201330027

Status: Unutilized

Comments: secured facility access denied to general public & no alter. method to gain access w/out compromising Nat'l security.

Reasons: Secured Area

16 Buildings

DUGWAY PROVING GROUND

DUGWAY PROVING GROUND UT 84022

Landholding Agency: Army

Property Number: 21201540036

Status: Underutilized

Directions: 00001-RPUID:570563; 00003-RPUID:588352; 00005-RPUID:588352; 00007-RPUID:611072; 00011-RPUID:614435; 00020-RPUID: 611287; 00021-RPUID:614434; 00022-RPUID:570464; 00023-RPUID:599972; 00024-RPUID:575282; 00025-RPUID:586999; 00027-RPUID:570566; 00029-RPUID:587000; 00031-618225; 33-RPUID:599973; 37-RPUID:587002

Comments: public access denied and no alternative method to gain access without compromising national security.

Reasons: Secured Area

20 Buildings

DUGWAY PROVING GROUND

DUGWAY PROVING GROUND UT 84022

Landholding Agency: Army

Property Number: 21201540037

Status: Underutilized

Directions: 00154-598832; 00156-595717; 00158-574114; 00162-603757; 00163-574115; 00164-585779; 00167-595718; 00171-586937; 00173-607725; 00175-574117; 00177-603576; 00180-575781; 00181-575670; 00183-574119; 00185-598833; 00186-595719; 00187-609946; 00197-609948; 00198-579166; 00201-600412

Comments: public access denied and no alternative method to gain access without compromising national security.

Reasons: Secured Area

20 Buildings

DUGWAY PROVING GROUND

DUGWAY PROVING GROUND UT 84022

Landholding Agency: Army

Property Number: 21201540038

Status: Underutilized

Directions: 00205-609949; 00209-602438; 00256-583679; 00303-600093; 00306-616070; 00313-590335; 00321-587745; 00325-583680; 00329-573173; 00351-579174; 00361-600095; 5236-581055; 05362-579151; 05363-576303; 05367-573490; 05375-575942; 05381-578690; 05382-583591; 05383-599699; 05390-604657

Comments: public access denied and no alternative method to gain access without compromising national security.

Reasons: Secured Area

14 Buildings

DUGWAY PROVING GROUND

DUGWAY PROVING GROUND UT 84022

Landholding Agency: Army

Property Number: 21201540039

Status: Underutilized

Directions: 00069-RPUID:599975; 00093-RPUID:618228; 00152-RPUID:621801; 00103-RPUID:587003; 00107-RPUID:611292; 00113-RPUID:605404; 00118-RPUID:590378; 00119-RPUID:606737; 00123-RPUID:577667; 00125-RPUID:577668; 00127-RPUID:607723; 00129-RPUID:574112; 00131-RPUID:577669; 00140-RPUID:606738

Comments: public access denied and no alternative method to gain access without compromising national security.

Reasons: Secured Area

Vermont

2 Buildings

Ethan Allen AFB

Colchester VT 05446

Landholding Agency: Army

Property Number: 21201640009

Status: Underutilized

Directions: 02415 (370592); 02425 (370594)?

Comments: documented deficiencies: holes in roof; cracks in walls; mostly likely to collapse; unsound foundation; clear threat to physical safety.

Reasons: Extensive deterioration

Virginia

Storage, Rocket Checkout

& Assembly Bldg. 1077

589 Worley Road

JBLE-Langley VA 23665

Landholding Agency: Air Force

Property Number: 18201620037

Status: Underutilized

Directions: RPUID:466439

Comments: public access denied and no alternative method to gain access without compromising national security; property located within floodway which has not been correct or contained.

Reasons: Floodway Secured Area

663 Darcy Pl

JBLE (Ft. Eustis)

Ft. Eustis VA

Landholding Agency: Air Force

Property Number: 18201640038

Status: Unutilized

Comments: public access denied and no alternative method to gain access without compromising national security.

Reasons: Secured Area

Bldgs. 1106, 1109, 1110

Fort Belvoir

Fairfax VA 22060

Landholding Agency: Army

Property Number: 21201010037

Status: Unutilized

Reasons: Extensive deterioration

4 Bldgs.

Radford Army Ammo Plant

Montgomery VA 24013

Landholding Agency: Army

Property Number: 21201010038

Status: Unutilized

Directions: US042, US044, US45B, 51565

Reasons: Secured Area Within 2000 ft. of flammable or explosive material

8 Bldgs.

Hampton Readiness Center

Hampton VA 23666

Landholding Agency: Army

Property Number: 21201020026

Status: Unutilized

Directions: 8, 9, 10, 12, 13, 14, 15, 23

Reasons: Extensive deterioration

4 Bldgs.

Radford AAP

Montgomery VA 24143

Landholding Agency: Army

Property Number: 21201030030

Status: Unutilized

Directions: 1002, 1003, 1026, 1045

Reasons: Secured Area Within 2000 ft. of flammable or explosive material

16 Bldgs.

Radford AAP

Montgomery VA 24143

Landholding Agency: Army

Property Number: 21201030032

Status: Unutilized

Directions: 1666A, 1666B, 1668A, 1671A, 1671B, 1672A, 1672B, 1674, 1674A, 1674B, 1675, 1675A, 1675B, 1676, 1676A, 1676B

Reasons: Within 2000 ft. of flammable or explosive material Secured Area

12 Bldgs.

Radford AAP

Montgomery VA 24143

Landholding Agency: Army

Property Number: 21201030033

Status: Unutilized

Directions: 1751, 1754, 1762, 1765, 2002, 2003, 2007, 2026, 2047, 2048, 2049, 2050A

Reasons: Within 2000 ft. of flammable or explosive material Secured Area

10 Bldgs.

Radford AAP

Montgomery VA 24143

Landholding Agency: Army

Property Number: 21201030034

Status: Unutilized

Directions: 3621, 3652, 3655, 3658, 3675, 3675B, 3675C, 3678A, 3678B, 3678C

Reasons: Within 2000 ft. of flammable or explosive material Secured Area

6 Bldgs.

Radford AAP

Montgomery VA 24143

Landholding Agency: Army

Property Number: 21201030035

Status: Unutilized

Directions: 4703, 9101A, 9101B, 9102A, 9102B, 9103B

Reasons: Secured Area Within 2000 ft. of flammable or explosive material

9 Bldgs.

Radford AAP

Montgomery VA 24143

Landholding Agency: Army

Property Number: 21201030036

Status: Unutilized

Directions: 49102, 49103, 49126, 71022, 71032, 72215, 91248, 91253, 91254

Reasons: Secured Area Within 2000 ft. of flammable or explosive material

18 Bldgs.

Radford AAP

Montgomery VA 24143

Landholding Agency: Army

Property Number: 21201030038

Status: Unutilized

Directions: 98206, 98209, 98216, 98217, 98218, 98224, 98226, 98227, 98231, 98232, 98242, 98244, 98280, 98289, 98291, 98294, 98297, 98298

Reasons: Secured Area Within 2000 ft. of flammable or explosive material

8 Bldgs.

Radford AAP

Montgomery VA 24143

Landholding Agency: Army

Property Number: 21201030039

Status: Unutilized

Directions: 98303, 98304, 98307, 98327, 98332, 98347, 98348, 98364

Reasons: Within 2000 ft. of flammable or explosive material Secured Area

Bldgs. 1132, 1133, 1134

Fort Belvoir

Fairfax VA 22060

Landholding Agency: Army

Property Number: 21201040033

Status: Excess

Reasons: Extensive deterioration

6 Bldgs.

Radford AAP

Radford VA 24143

Landholding Agency: Army

Property Number: 21201040036

Status: Unutilized

Directions: 1000, 1010, 2000, 2010, 22116, USO43

Reasons: Within 2000 ft. of flammable or explosive material Secured Area

1618B

Radford Army Ammo Plant

Rte. 114, P.O. Box 2

Radford VA

Landholding Agency: Army

Property Number: 21201110007

Status: Unutilized

Reasons: Secured Area

Bldg. 1618B

Rte. 114, P.O. Box 2

Radford Army Ammo Plant

Radford VA 24143

Landholding Agency: Army

Property Number: 21201120063

Status: Unutilized

Reasons: Not accessible by road Secured Area Within 2000 ft. of flammable or explosive material

Bldg. 1621

Rte., P.O. Box 2

Radford Army Ammo Plant

Radford VA 24143

Landholding Agency: Army

Property Number: 21201120064

Status: Unutilized

Reasons: Contamination Not accessible by road Secured Area

Bldg. 98241

Rte., 114, P.O. Box 2

Radford Army Ammunition Plant

Radford VA

Landholding Agency: Army

Property Number: 21201120065

Status: Unutilized

Reasons: Not accessible by road Within 2000 ft. of flammable or explosive material Secured Area

Bldg. 00731

null

Radford VA

Landholding Agency: Army

Property Number: 21201130009

Status: Excess

Reasons: Extensive deterioration Secured Area Within 2000 ft. of flammable or explosive material

Bldg. 0731A

Rte. 114 P.O. Box 2

Radford VA

Landholding Agency: Army

Property Number: 21201130011

Status: Excess

Reasons: Extensive deterioration Secured Area Within 2000 ft. of flammable or explosive material

Bldg. 07352

null

Radford VA 24143

Landholding Agency: Army

Property Number: 21201130012

Status: Unutilized

Reasons: Within 2000 ft. of flammable or explosive material Extensive Deterioration Secured Area

Bldgs. 00736 & 0736A

null

Radford VA 24143

Landholding Agency: Army

Property Number: 21201130013

Status: Excess

Reasons: Within 2000 ft. of flammable or explosive material Extensive Deterioration Secured Area

4 Bldgs.

8000 Jefferson Davis Hwy

Defense Supply Center

Richmond VA 23297

Landholding Agency: Army

Property Number: 21201140063

Status: Unutilized

Directions: 00091, 00006, 00007, 00010

Reasons: Secured Area

Bldg. 00104

8000 Jefferson Davis Hwy

Richmond VA 23297

Landholding Agency: Army

Property Number: 21201140069

Status: Unutilized

Reasons: Secured Area

12 Bldgs.

Ft. Pickett Trng Ctr

Blackstone VA 23824

Landholding Agency: Army

Property Number: 21201210051

Status: Excess

Directions: T2823, T2826, T2828, T2829, T2838, T2860, T2861, T2856, T2862, T2863, T2864, T2865

Comments: nat'l security concerns; no public access and no alternative method to gain access.

Reasons: Secured Area

16 Bldgs.

Ft. Pickett Trng Ctr

Blackstone VA 23824

Landholding Agency: Army

Property Number: 21201220038

Status: Excess

Directions: T2814, T2815, T2816, T2817, T2823, T2826, T2827, T2828, T2829, T2838, T2841, T2856, T2860, T2861, T2863, T2862

Comments: Nat'l security concerns; public access denied & no alternative method to gain access w/out comprising Nat'l security.

Reasons: Secured Area

12 Bldgs.

Ft. Pickett Trng Ctr

Blackstone VA 23824

Landholding Agency: Army

Property Number: 21201220042

Status: Excess

Directions: A1811, AT306, AT307, R0013, R0014, R0021, R0026, R0027, R0040, R0055, R0063, R0064

Comments: Nat'l security concerns; public access denied and no alternative method to gain access w/out comprising Nat'l security.

Reasons: Secured Area

2 Buildings

114 P.O. Box 2

Radford VA 24143

Landholding Agency: Army

Property Number: 21201230047

Status: Unutilized

Directions: 2045, 2046

Comments: restricted area; public access denied & no alternative method to gain access w/out comprising Nat'l security.

Reasons: Secured Area

26 Building

null

Radford VA 24143

Landholding Agency: Army

Property Number: 21201320007

Status: Unutilized

Directions: 1506A, 1506B, 1609, 1609A, 1609B, 1609C, 1616, 1616A, 1616B, 1616C, 2500, 2501, 2506, 2508, 2510, 2512, 2515, 2516, 2518, 2555, 2555A, 2560A, 2558, 2560, 3740, 9379

Comments: w/in restricted area, public assess denied & no alter. method w/out compromising Nat'l sec.

Reasons: Secured Area

2 Buildings

Fort Pickett Training Center

Plackstone VA 23824

Landholding Agency: Army

Property Number: 21201330054

Status: Unutilized

Directions: T1710, T2606

Comments: public access denied & no alternative method to gain access w/out compromising Nat'l security.

Reasons: Secured Area

T1810

Fort Pickett Training Center

Blackstone VA 23824

Landholding Agency: Army

Property Number: 21201340022

Status: Unutilized

Comments: public access denied and no alternative method to gain access without compromising national security.

Reasons: Secured Area

2 Buildings

Radford Army Ammunition Plant

Radford VA 24143

Landholding Agency: Army

Property Number: 21201410018

Status: Underutilized

Directions: 726, 730

Comments: public access denied and no alternative method to gain access w/out compromising national security.

Reasons: Secured Area

2 Buildings

Radford Army Ammunition Plant

Rte. 114, P.O. Box 2

Radford VA 24143-0002

Landholding Agency: Army

Property Number: 21201420029

Status: Underutilized

Directions: 726; 730

Comments: public access denied and no alternative method to gain access without compromising national security.

Reasons: Secured Area

726 and 730

Radford Army Ammunition Plant

Radford VA 24143-0002

Landholding Agency: Army

Property Number: 21201430002

Status: Underutilized

Directions: 726; 730

Comments: public access denied and no alternative without compromising national security.

Reasons: Secured Area

5 Buildings

Fort Pickett Training Center

Blackstone VA 23824

Landholding Agency: Army

Property Number: 21201440006

Status: Unutilized

Directions: T2362; T2363; T2364; T2411; T2603

Comments: public access denied and no alternative method to gain access w/out compromising national security.

Reasons: Secured Area

6 Buildings

Fort Belvoir

Ft. Belvoir VA 22060

Landholding Agency: Army

Property Number: 21201440017

Status: Excess

Directions: 1151; 1906; 1141; 1186; 1194; 1195

Comments: public access denied and no alternative method to gain access w/out compromising national security.

Reasons: Secured Area

Building 00215

Radford Army Ammunition Plant

Radford VA 24143

Landholding Agency: Army

Property Number: 21201510045

Status: Excess

Comments: public access denied and no alternative method to gain access without compromising national security.

Reasons: Secured Area

16 Buildings

Radford Army Ammunition Plant

Radford VA 24143

Landholding Agency: Army

Property Number: 21201520019

Status: Unutilized

Directions: Buildings 71063, 7106-02A, 71062, 49103B, 49103A, 49102B, 2560B, 2521, 2518B, 2518A, 2517B, 2517A, 2515A, 7106-03A, 71064, 7106-04A

Comments: public access denied and no alternative method to gain access without compromising national security.

Reasons: Secured Area

16 Buildings

Radford Army Ammunition Plant

Radford VA 24143

Landholding Agency: Army

Property Number: 21201520020

Status: Unutilized

Directions: Buildings 71091, 71092A, 71101, 71101A, 7115, 7136, 2511, 2516A, 2516B, 2521, 2521A, 2554, 71102A, 71092, 71102, 71122

Comments: public access denied and no alternative method to gain access without compromising national security.

Reasons: Secured Area

3 Buildings

Defense Supply Center

Richmond VA 25297

Landholding Agency: Army

Property Number: 21201530006

Status: Unutilized

Directions: 19 (RPWD: 268718); 20 (RPWD: 268698); 53 (RPWD: 238700)

Comments: public access denied and no alternative method to gain access without compromising National Security.

Reasons: Secured Area

Building 06202

Fort Lee; 19th Street

Ft. Lee VA 23801

Landholding Agency: Army

Property Number: 21201530100

Status: Unutilized

Comments: documented deficiencies: structural issues due to flooding; clear threat to personal safety.

Reasons: Extensive deterioration

06217

Fort Lee

Ft. Lee VA 23801

Landholding Agency: Army

Property Number: 21201540029

Status: Unutilized

Comments: public access denied and no alternative method to gain access without compromising national security.

Reasons: Secured Area

1555A

Radford Army Ammunition

Plant; Rte. 114 P.O. Box 2

Radford VA 24143

Landholding Agency: Army

Property Number: 21201540042

Status: Unutilized

Comments: public access denied and no alternative method to gain access without compromising national? security.

Reasons: Secured Area

5 Buildings

Sandston Armory

Sandston VA 23150

Landholding Agency: Army

Property Number: 21201610065

Status: Unutilized

Directions: Building T4504; T3704; T4500; T3702; T3700

Comments: public access denied and no alternative method to gain access without compromising national security.

Reasons: Secured Area

9 Buildings

Rte. 114 P.O. Box 2

Radford VA 24143-0002

Landholding Agency: Army

Property Number: 21201630007

Status: Unutilized

Directions: Buildings 4429B, 04429, 4429A, 04404, 04402, 47109, 47104, 4434A, 04434

Comments: public access denied and no alternative method to gain access without compromising national security.

Reasons: Secured Area

10 Buildings

Rte. 114 P.O. Box 2

Radford VA 24143-0002

Landholding Agency: Army

Property Number: 21201630008

Status: Unutilized

Directions: Building 49091, 9091A, 04906, 04721, 71010, 9092C, 9092B, 9092A, 9091C, 9091B

Comments: public access denied and no alternative method to gain access without compromising national security.

Reasons: Secured Area

8 Buildings

Rte. 114 P.O. Box 2

Radford VA 24143-0002

Landholding Agency: Army

Property Number: 21201630009

Status: Unutilized

Directions: Buildings 71062, 09481, 71064, 71101, 09354, 93613, 93622, 71063

Comments: public access denied and no alternative method to gain access without compromising national security.

Reasons: Secured Area

8 Buildings

Rte. 114 P.O. Box 2

Radford VA 24143-0002

Landholding Agency: Army

Property Number: 21201630010

Status: Unutilized

Directions: Building 9093C, 9094A, 9094C, 9104A, 06304, 49515, 1252B, 9093A

Comments: public access denied and no alternative method to gain access without compromising national security.

Reasons: Secured Area

9 Buildings

Rte. 114 P.O. Box 2

Radford VA 24143-0002

Landholding Agency: Army

Property Number: 21201630011

Status: Unutilized

Directions: Building 3101B, 3101A, 3093B, 3093A, 3349A, 93349, 9324B, 9324A, 3349B

Comments: public access denied and no alternative method to gain access without compromising national security.

Reasons: Secured Area

9 Buildings

Rte. 114 P.O. Box 2

Radford VA 24143-0002

Landholding Agency: Army

Property Number: 21201630012

Status: Unutilized

Directions: Buildings 93093, 07809, 6304B, 6304A, 07127, 07115, 07155, 07158, 72211

Comments: public access denied and no alternative method to gain access without compromising national security.

Reasons: Secured Area

10 Buildings

Rte. 114 P.O. Box 2

Radford VA 24143-0002

Landholding Agency: Army

Property Number: 21201630013

Status: Unutilized

Directions: Buildings 1729A, 01729, 1726C, 1726B, 1726A, 01726, 1730A, 01730, 1729C, 1729B

Comments: public access denied and no alternative method to gain access without compromising national security.

Reasons: Secured Area

10 Buildings

Rte. 114 P.O. Box 2

Radford VA 21143-0002

Landholding Agency: Army

Property Number: 21201630014

Status: Unutilized

Directions: Buildings 1725C, 1725B, 1725A, 01666, 1659B, 1659A, 1658B, 1658A, 1650B, 1650A

Comments: public access denied and no alternative method to gain access without compromising national security.

Reasons: Secured Area

9 Buildings

Rte. 114 P.O. Box 2

Radford VA 24143-0002

Landholding Agency: Army

Property Number: 21201630017

Status: Unutilized

Directions: Buildings 1604B, 1604A, 1604C, 22415, 224-6, 01650, 1600B, 1600C 1600A

Comments: public access denied and no alternative method to gain access without compromising national security.

Reasons: Secured Area

16 Buildings

Radford Army Ammunition

Plant

Radford VA 24143

Landholding Agency: Army

Property Number: 21201630036

Status: Unutilized

Directions: 01801; 1801A; 1801B; 1801C; 3509A; 02567; 01994; 03741; 03738; 03716; 03744; 04333; 4329E; 4329B; 4329A; 3741A

Comments: public access denied and no alternative method to gain access without compromising national security.

Reasons: Secured Area

4 Buildings

Radford Army Ammunition Plant

Radford VA 24143-0002

Landholding Agency: Army

Property Number: 21201630043

Status: Unutilized

Directions: Building 43391, 33929, 33930, 9094B

Comments: public access denied and no alternative method to gain access without compromising national security.

Reasons: Secured Area

3 Buildings

Radford Army Ammunition Plant

Radford VA 24143

Landholding Agency: Army

Property Number: 21201630044

Status: Unutilized

Directions: 3349D; 3349C; 93614

Comments: public access denied and no alternative method to gain access without compromising national security.

Reasons: Secured Area

17 Buildings

Radford Army Ammunition Plant

Radford VA 24143

Landholding Agency: Army

Property Number: 21201630045

Status: Unutilized

Directions: 04329; 03751; 22413; 33911; 03509; 03559; 09324; 9093B; 1730C; 1730B; 08028; 08026; 08013; 19803; 72214; 3349F; 3349E

Comments: public access denied and no alternative method to gain access without compromising national security.

Reasons: Secured Area

03714

Radford Army Ammunition Plant

Radford VA 24143

Landholding Agency: Army

Property Number: 21201630050

Status: Unutilized

Comments: public access denied and no alternative method to gain access without compromising national security.

Reasons: Secured Area

St. Helena Annex

NSA Norfolk Naval Shipyard

Off S. Main St. S. of Interstate 464

Norfolk VA

Landholding Agency: Navy

Property Number: 77201710009

Status: Excess

Directions: Includes 12 acres of land

Comments: property located within floodway which has not been correct or contained; structurally deficient due to ground subsidence.

Reasons: Extensive deterioration Floodway

Washington

2135

Fairchild AFB-10 S. Twinning Ave.

Fairchild AFB WA 99011

Landholding Agency: Air Force

Property Number: 18201710009

Status: Unutilized

Comments: public access denied and no alternative method to gain access without compromising national security.

Reasons: Secured Area

15 Bldgs.

Fort Lewis

Pierce WA 98433

Landholding Agency: Army

Property Number: 21201030041

Status: Unutilized

Directions: 3417, 3418, 3423, 3424, 3427, 3428, 3429, 3430, 3433, 3434, 3435, 3436, 3439, 3442, 3444

Reasons: Extensive deterioration Secured Area

Bldgs. 00852 and 00853

Yakima Trng. Ctr.

Yakima WA 98901

Landholding Agency: Army

Property Number: 21201140001

Status: Unutilized

Reasons: Extensive deterioration

8995

American Lake Ave.

JBLM WA 98433

Landholding Agency: Army

Property Number: 21201230021

Status: Unutilized

Comments: secured military cantonment area; public access denied & no alternative method to gain access w/out comprising Nat'l security.

Reasons: Secured Area

3 Buildings

joint Base Lewis-McChord

JBLM WA 98433

Landholding Agency: Army

Property Number: 21201310043

Status: Underutilized

Directions: 1158, 3151, 8066

Comments: secured military cantonment area; public access denied & no alternative method to gain access w/out compromising Nat'l security.

Reasons: Secured Area

10 Buildings

Joint Base Lewis McChord

JBLM WA 98433

Landholding Agency: Army

Property Number: 21201310066

Status: Underutilized

Directions: 03154, 03156, 03157, 03158, 03160, 03161, 03163, 03164, 03165, 03167

Comments: secured military cantonment area; public access denied & no alternative method to gain access w/out compromising Nat'l security.

Reasons: Secured Area

5 Buildings

Division Dr.

JBLM WA 98433

Landholding Agency: Army

Property Number: 21201320024

Status: Underutilized

Directions: 03131; 03135, 03139, 03317, 03320

Comments: secured military cantonment area; public access denied & no alternative method to gain access w/out compromising Nat'l security.

Reasons: Secured Area

3 Buildings

Libbey Ave.

JBLM WA 98433

Landholding Agency: Army

Property Number: 21201320025

Status: Underutilized

Directions: 03316, 03322, 03330

Comments: secured military cantonment area; public access denied & no alternative method to gain access w/out compromising Nat'l security.

Reasons: Secured Area

23 Buildings

Joint Base Lewis McChord

JBLM WA 98433

Landholding Agency: Army

Property Number: 21201440047

Status: Underutilized

Directions: 07517; 07514; 07507; 07500; 03422; 03421; 03420; 03419; 03416; 03415; 03414; 03413; 03412; 03324; 03287; 03286; 03279; 03278; 03277; 03214;03212; 03213; 03080

Comments: public access denied and no alternative method to gain access w/out compromising national security.

Reasons: Secured Area

6 Buildings

Sloane St.

Joint Base Lewis McChord WA 03933

Landholding Agency: Army

Property Number: 21201510021

Status: Underutilized

Directions: 004ED; D0110; 14109; 09643; 03932; 03933

Comments: public access denied & no alternative method to gain access w/out compromising Nat'l Sec.

Reasons: Secured Area

Joint Base Lewis McChord

Bldg. #08277

8277 Shoreline Beach Rd.

Pierce WA 98433

Landholding Agency: Army

Property Number: 21201510024

Status: Underutilized

Comments: public access denied & no alternative method to gain access w/out compromising Nat'l Sec.

Reasons: Secured Area Within airport runway clear zone

Yakima Training Ctr. Bldg. 223

223 Firing Center Road

Yakima WA 98901

Landholding Agency: Army

Property Number: 21201510029

Status: Underutilized

Comments: public access denied & no alternative method to gain access w/out compromising Nat'l Sec.

Reasons: Secured Area

Building 223

Joint Base Lewis McChord

JBLM WA 98433

Landholding Agency: Army

Property Number: 21201510043

Status: Underutilized

Comments: public access denied and no alternative method to gain access without compromising national security.

Reasons: Secured Area

Building #09623

9623 Rainier Drive

Joint Base Lewis- McChord WA 98433

Landholding Agency: Army

Property Number: 21201610019

Status: Excess

Comments: public access denied and no alternative method to gain access without compromising national security.

Reasons: Secured Area

Building #06071

6071 N 16th Street

Joint Base Lewis- McChord WA 98433

Landholding Agency: Army

Property Number: 21201610021

Status: Excess

Comments: public access denied and no alternative method to gain access without compromising national security; located within an airport runway clear zone or military airfield.

Reasons: Secured Area

Building 02541

Firing Center Road

Yakima Training Center WA 98901

Landholding Agency: Army

Property Number: 21201610022

Status: Excess

Comments: public access denied and no alternative method to gain access without compromising national security.

Reasons: Secured Area

Building 06071

6071 N 16th Street

Joint Base Lewis- McChord WA 98433

Landholding Agency: Army

Property Number: 21201610064

Status: Excess

Comments: public access denied and no alternative method to gain access without compromising national security; property located within an airport runway clear zone or military airfield.

Reasons: Secured Area

Wyoming

3 Buildings

FE Warren AFB WY

FE Warren AFB WY 82005

Landholding Agency: Air Force

Property Number: 18201630009

Status: Unutilized

Directions: GHZG S-1, GHXX P-1, GHZT T-1

Comments: public access denied and no alternative method to gain access without compromising national security.

Reasons: Secured Area

UNSUITABLE PROPERTIES

LAND

Alabama

5 Buildings

Ft. McClellan

Alexandria AL 36250

Landholding Agency: Army

Property Number: 21201620017

Status: Unutilized

Directions: R8434: RPUID:299453; R8437: RPUID:303405; C1395: RPUID:175953; C1312: RPUID:299704; C1320: RPUID:176206

Comments: public access denied and no alternative method to gain access without compromising national security.

Reasons: Secured Area

Connecticut

1.06 acres of Land

Naval Submarine Base New London

Groton CT 06349

Landholding Agency: Navy

Property Number: 77201710010

Status: Underutilized

Comments: public access denied and no alternative method to gain access without compromising national security.

Reasons: Secured Area

Maryland

4 Concrete Pads

Aberdeen Proving Ground

Aberdeen MD 21005

Landholding Agency: Army

Property Number: 21201540056

Status: Unutilized

Directions: E3176-981045; E5335-981052; E5628-996138; E7226-981063

Comments: public access denied and no alternative method to gain access without compromising national security.

Reasons: Secured Area

Land 1

Brownwood

Brown TX 76801

Landholding Agency: Army

Property Number: 21201020034

Status: Unutilized

Reasons: Contamination

Utah

B-50000

Green River Test Complex

Green River UT 84525

Landholding Agency: Army

Property Number: 21201210047

Status: Unutilized

Comments: Nat'l security concerns; no public access and no alternative method to gain access.

Reasons: Secured Area

[FR Doc. 2017-03373 Filed 2-23-17; 8:45 am]

BILLING CODE 4210-67-P